OFFICE OF PERSONNEL MANAGEMENT

SES Positions That Were Career Reserved During 2001

AGENCY: Office of Personnel Management.

ACTION: Notice.

SUMMARY: As required by the Civil Service Reform Act of 1978, this gives notice of all positions in the Senior Executive Service (SES) that were career reserved during 2001.

FOR FURTHER INFORMATION CONTACT: Nancy Gauthier, Office of Executive Resources Management, (202) 606-1125.

SUPPLEMENTARY INFORMATION: Below is a list of titles of SES positions that were career reserved at any time during calendar year 2001, regardless of whether those positions were career reserved on December 31, 2001. Section 3132(b)(4) of title 5, United States Code, requires that the head of each agency publish such list by March 1 of the following year. OPM is publishing a consolidated list for all agencies.

Office of Personnel Management.
Kay Coles James,
Director.

Positions That Were Career Reserved During Calendar Year 2001
Agency organization | Career reserved positions
Advisory Council on Historic Preservation:
Ofc of the Exec Director | Executive Director.
| Special Assistant.
Department of Agriculture:
Office of the Chief Information Officer | Deputy Chief Information Officer.
| Associate Deputy Director, NTIC.
Office of the Chief Financial Officer | Deputy Chief Financial Officer.
| Project Manager.
National Finance Center | Director, Applications Systems Division
| Dir, INFO Resources Management Division.
| Director, Financial Services Division.
| Dir. Thrift Savings Plan Division.
| Deputy Director.
Office of the Inspector General | Asst Inspector General for Investigations.
| Dep Asst Inspector General for Investigation.
| Asst Inspector General for Audit.
| Dep Assistant Inspector General for Audit.
| Dep Asst Inspector General for Audit.
| Asst Inspector Gen for Pol Dev & Res Mgmt.
| Dep Asst Insp Gen for Invest Immediate Office.
| Deputy Inspector General.
Office of the Chief Economist | Dir Ofc of Risk Assessment & Cost-Benefit Anl. Chairperson.
| Dir Global Change Program Office.
| Director, Office of Energy Policy and New Uses.
Office of Operations | Director Office of Operations.
Procurement and Property Management | Director, Procurement and Property Management.
Office of Outreach | Director, USDA Program Outreach Division.
Rural Housing Service | Controller.
| Director Centralized Servicing Center.
Rural Business Service | Deputy Administrator for Business Programs.
Agricultural Marketing Service | Deputy Administrator, Fruit & Vegetable Programs.
| Deputy Administrator, Dairy Programs.
| Deputy Administrator, Livestock & Seed Programs.
| Deputy Administrator, Tobacco Programs.
| Deputy Administrator, Compliance and Analysis.
| Deputy Administrator, Cotton Programs.
| Deputy Administrator, Science and Technology Programs.
| Deputy Administrator, Transportation & Marketing Programs.
| Deputy Administrator, Poultry Programs.
Grain Inspection, Packers & Stockyards Administration | Dir Field Management Division.
Animal & Plant Health Inspection Service | Deputy Administrator for Marketing & Regulatory Programs-Business Services.
| Assoc Dep Administrator for Mgt. & Budget.
| Deputy Administrator, Animal Care.
| Director, Center for Plant Health Science & Technology.
| Assistant Deputy Administrator for Emergency Programs, Plant Protection & Quarantine.
| Associate Deputy Administrator, Wildlife Services APHIS International Organization Coordinator.
Veterinary Services | Director, South Eastern Region, Veterinary Services.
| Director, Western Region.
| Director, Central Region.
| Director, Central Region.
| Deputy Administrator, Wildlife Services.
| Director, Animal Health Programs, Veterinary Services.
| Director, Center for Epidemiology & Animal Health.
Plant Protection & Quarantine Service | Dep Admr, International Services.
| Director, Western Region.
| Director, Plant Health Programs, PPQ.
| Director, Eastern Region.
Food Safety & Inspection Service | Deputy Administrator, Office of Management.
| U.S. Coordinator for Codex Alimentarius.
| Assistant Deputy Administrator, Office of Management.
| Assistant Deputy Administrator, Ofc. of Policy, Prog. Dev. & Eval.
| Assistant Deputy Administrator, Office of Management.
| Deputy Administrator.
| Assistant Deputy Administrator.
| Deputy Administrator.
| Associate Deputy Administrator.
| Assistant Deputy Administrator.
| Assistant Deputy Administrator, District Enforcement Operations.
| Director, Technical Service Center, Office of Field Operations.
| Deputy Administrator.
| Assistant Deputy Administrator.
| Assistant Deputy Administrator, OPPDE.
| Assistant Deputy Administrator.
| Assistant Deputy Administrator.
| Assistant Deputy Administrator.
| Deputy Administrator.
| Associate Administrator.
| Associate Deputy Administrator, Ofc. of Public Health & Science.
| Assistant Deputy Administrator, District Inspection Operations.
| Assistant Administrator, Staff Services.
| Director, Enforcement Operations.
Food and Nutrition Service | Deputy Admin for Financial Management.
| Deputy Admr for Management.
| Deputy Administrator for Operations & Mgmt.
| Associate Administrator.
| Director, Office of Analysis and Evaluation.
Farm Service Agency | Deputy Administrator, Poultry Programs.
| Deputy Administrator, Transportation & Marketing Programs.
| Deputy Administrator, Science & Technology Programs Controller.
| Director Management Services Division.
| Director, Budget Division.
| Deputy Administrator for Farm Loan Programs.
| Director, Financial Management Division.
Foreign Agricultural Service | Dir, Grain, & Feed Div.
| Assistant Deputy Administrator Management.
| Director, Cotton, Oilseeds, Tobacco and Seeds Division.
Risk Management Agency | Deputy Administrator for Research & Development.
| Deputy Administrator for Insurance Services Division.
Agricultural Research Service | Asst Administrator for Technology Transfer.
| Assistant Administrator for Genetic Resources.
| Dep Admin for Admin & Financial Mgmt.
| Director, Office of Pest Management Policy.
| Director, National Animal Disease Center.
| Associate Administrator, Special Interagency Programs.
| Issues Manager.
| Associate Deputy Administrator.
National Program Staff Office | Deputy Administrator National Program Staff.
| Assoc Deputy Administrator for Animal PPV&S.
| Assoc Dep Admin for Natural Resources & SAS.
| Associate Deputy Administrator for Crop Production, Product Value, and Safety.
Beltsville Area Office | Director Beltsville Area Office.
| Assoc Dir Beltsville Area.
| Dir U.S. National Arboretum.
| Dir Beltsville Human Nutrition Research Ctr.
| Director Plant Sciences Institute.
| Dir Livestock & Poultry Sciences Institute.
| Dir Natural Resources Institute.
North Atlantic Area Office | Director, Eastern Regl Research Center.
| Assoc Dir, North Atlantic Area.
| Director, Plum Island Animal Disease Center.
| Director, North Atlantic Area.
South Atlantic Area Office | Associate Dir South Atlantic Area.
| Director, South Atlantic Area.
| Dir, Center for Medical A & V Entomology.
Midwest Area Office | Dir Midwest Area.
| Assoc Dir, Midwest Area.
| Supervisory Veterinary Medical Officer.
| Dir Natl Ctr for Agri Utilization.
Midsouth Area Office | Dir, Southern Regional Res Center, New Orleans.
| Director, Mid-South Area.
| Associate Director, Mid South Area.
Southern Plains Area Office | Director Southern Plains Area.
| Assoc Dir, Southern Plains Area.
Northern Plains Area Office | Director, Northern Plains Area.
| Associate Director, Northern Plains Area Ofc.
| Director, U.S. Meat Animal Research Center.
Pacific West Area Office | Director, Western Regional Research Center.
| Dir, Western Human Nutrition Research Center.
| Director, Pacific West Area Office.
| Associate Director, Pacific West Area Office.
| Dir, Western Cotton Research Laboratory.
Cooperative State Research, Education & Extension Service | Deputy Administrator Partnerships.
| Special Asst to the Administrator, CSREES.
| Deputy Administrator, Economic and Community Systems.
| Director, Office of Extramural Programs.
Economic Research Service | Admr, Economic Research Service.
| Associate Administrator—Economic RSCH SVC.
| Dir, Natural Res & Environment Divison.
| Director, Information Services Division.
| Budget Coordinator and Strategic Planner.
| Dir Food & Consumer Economics Divison.
| Director, Market and Trade Economics Division.
National Agricultural Statistics Service | Admr, National Agricultural Statistics Serv.
| Deputy Administrator for Field Operations.
| Associate Administrator.
| Deputy Administrator for Programs & Products.
| Director, Statistics Division.
| Director, Research & Development Division.
| Director, Census & Survey Division.
| Director, Information Technology Division.
| Associate Deputy Administrator (Western U.S.).
| Associate Deputy Administrator (Eastern U.S.).
Natural Resources Conservation Service | Director Engineering Division.
| Dir Ecological Sciences and Technology Division.
| Asst Dep Admin (Admin Mgt).
| Dir, Soils (Soil Scientist).
| Deputy Administrator
| Director, Strategic Planning Division.
| Director, Operations Management and Oversight.
| Regional Conservationist—South Central.
| Regional Conservationist—Midwest Region.
| Dir Conservation Operations Divison.
| Dep Chief for Mgmt & Strategic Planning.
| Director.
| Assistant Deputy Administrator.
| Assistant Deputy Administrator.
| Assistant Deputy Administrator.
| Asst Deputy Administrator.
| Director.
| Senior Soil Scientist.
| Natural Resources Manager.
| Special Asst to the Chief (Program Manager).
| Deputy Chief for Strategic Planning and Accountability.
| Director, Resource Conservation & Community Development Division.
| Director, Resource Inventory Division.
| Director, Animal Husbandry and Clean Water Programs Division.
| Associate Deputy Chief for Programs, Air, Water & Soil
| Director, Resource Assessment Division.
| Associate Deputy Chief for Programs (Animal Husbandry).
| Director, Resource Economics & Social Sciences Division.
| Regional Conservationist—Northern Plains.
| Special Assistant to the Chief.
Forest Service | Associate Deputy Chief—Business Operations.
| Director, Fire and Aviation Staff.
| Deputy Chief, Office of Finance (CFO).
| Deputy Chief, Business Operations.
| Chief Operating Officer.
| Director, Financial Management Staff.
Research | Director, Vegetation Management & Protection Research Staff.
| Director, Resource Valuation and Use Research Staff.
| Director, Wildlife, Fish & Watershed Research Staff.
| Director, Science Policy, Planning, and Information Staff.
National Forest System | Dir, Range Management Staff.
| Director, Forest Management Staff.
| Director, Engineering Staff.
| Director, Lands Staff.
| Director, Ecosystem Management Coordination.
| Director, Wildlife, Fish and Rare Plants.
| Director, Minerals & Geology Management Staff.
| Director, Watershed & Air Management Staff.
| Director, Recreation, Heritage & Wilderness Research Staff.
State & Private Forestry | Director, Cooperative Forestry.
| Director, Forest Health Protection.
Field Units | NE Area Director, State & Private Forestry.
| Station Director, North Eastern Forest Experiment Station (Newtown Square).
| Director, North Central Forest Experiment Station (St. Paul).
| Dir, Pacific Northwest Forest & Range Experiment Station (Portland).
| Director, Pacific Southwest Forest & Range Experiment Sta (Vallejo).
| Director Rocky Mtn Forest & Range Experiment State (Ft. Collins).
| Director, Southern Research Station (Asheville).
| Director, Forest Products Laboratory (Madison).
| Dep Regional Forester, Pacific Northwest Region (Portland).
International Forest System | Dir International Institute of Tropical Forest (Rio Piedras).
National Program Staff Office | Assoc Dep Admr.
North Atlantic Area Office | Director, North Atlantic Area.
South Atlantic Area Office | Supervisory Research Geneticist.
Southern Plains Area Office | Dir, Subtropical Agricultural Res Laboratory.
Pacific West Area Office | Supervisory Soil Scientist.
Cooperative State Res Education, & Extension Service | Deputy Admin for Rural, Economic & Social Dev.
| Deputy Admini Communication Tech Distance Edu.
Natural Resources Conservation Service | Director, Resource Economics & Social Sciences Division.
American Battle Monuments Commission:
Office of Executive Director | Executive Director.
Broadcasting Board of Governors:
International Broadcasting Bureau | Dir Engineering and Technical Operations.
| Deputy for Engineering Resource Control.
| Deputy for Network Operations.
Department of Commerce:
Department of Commerce | Deputy Director for Financial Services/Deputy CFO.
| Chief Financial Officer and Chief Administrative Officer.
| Deputy Chief Financial Officer/Direct of Budget.
| Deputy Chief Administrative Officer.
| Deputy Chief Financial Officer/Deputy Chief Administrative Officer.
| Chief Information Officer.
| Deputy Director for Financial Policy.
| Chief Information Officer & Director for High Performance Computing and Communciations.
| Chf Standard Reference Materials Program.
Office of the Secretary | Director, Office of Information Policy, Planning and Review.
Office of the Chief Financial Officer and Assistant Secretary for Administration | Director for Y2K Outreach.
| Deputy Director, Office of Budget.
| Deputy Chief Information Officer.
| Director for Administrative Services.
Office of the General Counsel | Asst General Counsel for Finance & Litigation.
| Director, Office of Executive Support.
Office of the Assistant Secretary for Administration | Deputy Director for Security.
Director for Human Resources Management | Director for Human Resources Management.
| Dep Dir of Human Resources Management.
Director for Financial Management | Dir for Financial Management and Deputy Chief Financial Officer.
Office of Budget Mgmt & Info & Chief Information Offcr | Director, Office of Budget.
| Chief Information Officer.
Director for Executive Budgeting & Assistance Mgmt | Dir for Federal Asst & Management Support.
Office of Security and Administrative Services | Director, Office of Security.
| Director, Office of Acquisition Management.
Office of the Assistant Secretary for Administration | Director for Technology Management.
| Deputy Assistant Secretary and Director for Security.
Office of Inspector General | Asst Inspect Genrl for Compliance Admin.
| Asst Inspector General for Syst Evaluation.
Office of Counsel to the Inspector General | Counsel to the Inspector General.
Office of Inspections and Program Evaluation | Assistant Inspector General for Inspections and Program Evaluation.
Office of Audits | Assistant Inspector General for Auditing.
Office of Investigations | Asst Inspector General for Investigations.
Economics and Statistics Administration | Director, Stat-USA.
Bureau of the Census | Assistant Director for Marketing and Customer Liaison.
| Chief, Human Resource Division.
Office of the Director | Assoc Dir for Field Operations.
| Chief Decennial Sys & Contracts Magnt Office.
| Principal Assoc Dire and Chief Financial Offc.
| Principal Associate Director for Programs.
| Special Advisor to the Deputy Director.
| Chief, Policy & Strategic Planning Division.
| Assistant to the Director.
Administrative and Customer Services Division | Chief Admin & Customer Services Division.
Associate Director for Information Technology | Assistant to the Director for Information Technology.
| Assoc Dir for Information Technology.
Data Preparation Division | Chief National Processing Center.
Associate Director for Economic Programs | Associate Director for Economic Programs.
| Assistant Director for Economic Programs.
Economic Planning and Coordination Division | Chf, Economic Planning & Coordination Div.
Economic Statistical Methods and Programming Division | Chf, Economic Statistical M & P Division.
Agriculture and Financial Statistics Division | Chief Company Statistics Division.
Services Division | Chief Service Sector Statistics Division.
Foreign Trade Division | Chf, Foreign Trade Div.
Governments Division | Chf, Government Div.
Manufacturing and Construction Division | Chf, Manufacturing & Construction Division.
Associate Director for Decennial Census | Associate Director for Decennial Census.
| Asst to the Assoc Dir for Decennial Census.
| Assistant Director for Decennial Census.
Decennial Management Division | Chief Decennial Management Division.
Geography Division | Chf, Geography Div.
Decennial Statistical Studies Division | Chief, Decennial Statistical Studies Div.
Associate Director for Demographic Programs | Associate Dir for Demographic Progs
| Chf, Population Div.
| Chief Demographic Surveys Division.
Housing & Household Economic Statistics Division | Chf, Housing & Household Econ Statistics Div.
Demographic Statistical Methods Division | Chief, Statistical Methods Division.
Associate Director for Methodology & Standards | Chief, Planning, Research, and Evaluation Division.
| Assoc Dir for Methodology & Standards.
Statistical Research Division | Chief Statistical Research Division.
Bureau of Economic Analysis | Associate of Economic Analysis.
Office of the Director | Director.
| Dep Dir, Bur of Economic Analysis.
| Chief Economist.
| Chf Statistician.
| Associate Director for Management and Chief Administrative Officer.
Associate Director for Regional Economics | Assoc Dir for Regional Economics.
Associate Director for International Economics | Assoc Dir for International Economics.
Assoc Director for Natl Income, E & W Accounts | Assoc Dir for Natl Inc, Exp, Wealth Accounts.
| Chf, Natl Income & Wealth Div.
| Chief International Investment Division.
| Chief, Computer Systems and Services Division.
Director of Administration | Director of Administration.
Office of the Asst Secretary for Export Enforcement | Deputy Assistant Secretary for Export Enforcement.
| Director Office of Export Enforcement.
Office of the Asst Secretary for Economic Development | Chief Financial Officer/Chief Administrative Office (CFO/CAO).
International Trade Administration | Director, Office of Environmental Technologies Industries.
Office of the Under Secretary | Chief, Financial Officer & Director of Admin.
Office of the Director of Administration | Human Resources Manager.
Office of Consumer Goods | Director Office of Consumer Goods.
Das for Market Access and Compliance | Dir Trade Compliance Center.
Market Access and Compliance | Director, Office of Eastern Europe, Russia, and Independent States.
| Director, Office of Multilateral Affairs.
Deputy Assistant Secretary for Agreement Compliance | Associate Director for Management.
National Oceanic Atmospheric Administration | Chief Financial Officer/Chief Admin Officer.
| Dir Staff Ofc for International Programs.
| Director, Office of Operations, Management and Information.
Office of International Affairs | Chief Financial Officer/Admin Officer.
Office of Finance and Administration | Director, Budget Office.
| Director, Major Projects Office.
| Dir for Human Resources Management.
| Dir, Finance Office/Comptroller (FO/Compt).
Office of High Performance Computing and Communications | Director for High Performance Computing and Communications.
Systems Acquisition Office | Chief Information Officer and Information Technology Acquisition Manager.
Office of Assistant Administrator Ocean Serv and CZM | Senior Ocean Policy Advisor.
National Ocean Service | Associate Assistant Administrator for Management and Chief Financial Officer/Chief Administrative Officer.
| Director, National Centers for Coastal Ocean Science and Scientist for NOS.
| Deputy Director, National Centers for Coastal Ocean Science.
| Dir, Office of National Geodetic Survey (NGS).
Strategic Environmental Assessments Division | Chf, Strategic Environmental Assessments Div.
Coastal Monitoring and Bioeffects Assessment Division | Chief Coastal Monitoring Bioeffects Asses Div.
Hazardous Materials Response and Assessment Division | Chf, Hazardous Materials R & A Division.
Office of the Assistant Administrator for Weather Services | Senior Advisor.
| Director, Strategic Planning and Policy Office.
Office of the Chief Information Officer | Chief Information Officer.
Management and Budget Officer | Dep Chf Fin Ofc Chief Adm Officer.
Office—Fed Coordinator—Meteorology | Dir, Ofc of the Fed Coord for Meteorology.
Office of Hydrologic Development | Director, Office of Hydrologic Development.
Hydrologic Operations Division | Chief, Hydrologic Operations Division.
Hydrology Laboratory | Director, Hydrology Laboratory.
Office of Science and Technology | Chief, Programs and Plans Division.
| Director, Office of Science and Technology.
Meteorological Development Laboratory | Director, Meteorological Development Laboratory.
Systems Engineering Center | Director, Systems Engineering Center.
Office of Operational Systems | Director, Office of Operational Systems.
Field Systems Operations Center | Director, Field Systems Operation Center.
Telecommunications Operations Center | Chief Telecommunications Operations Center.
Maintenance, Logistics, and Acquisition Division | Chief, Maintenance, Logistics, and Acquisition Division.
Radar Operations Center | Dir, Nexrad Operational Support Facility.
National Data Buoy Center | Director, National Data Buoy Center.
Office of Climate, Water, and Weather Services | Director, Office of Climate, Water and Weather Services.
| Chief, Meteorological Services Division.
Eastern Region | Dir Eastern Region NWS.
Southern Region | Dir Southern Region, Ft Worth.
Central Region | Director Central Region.
Western Region | Dir, Salt Lake City Region.
Alaska Region | Dir. Alaska Region, Anchorage.
National Centers for Environmental Prediction | Dir Nat'l Severe Storms Lab.
| Dir Natl Ctr for Environmental Prediction.
| Director, Environmental Modeling Center (EMC) and Deputy Director for Science.
| Director, Aviation Weather Center.
NCEP Central Operations | Director, Central Operations.
Hydrometeorological Prediction Center | Chf, Meteorological Operations Division.
Climate Prediction Center | Dir Climate Prediction Ctr (CPC).
Storm Prediction Center | Director, Storm Prediction Center.
Tropical Prediction Center | Dir Tropical Prediction Ctr Natl Hurricane Ct.
National Marine Fisheries Service | Dir Seafood Inspection Program.
| Director Office of Sustainable Fisheries.
| Deputy Assistant Administrator for Regulatory Programs.
| Director, Office of Habitat Protection.
Office of Fisheries Conservation and Management | Chief Intergovernmental & Recreational F&M.
Office of Protected Resources | Dir Ofc of Science & Technology.
Northeast Fisheries Science Center | Science & Research Dir Northeast Region.
Southeast Fisheries Science Center | Science & Research Dir.
Northwest Fisheries Science Center | Science & Research Dir.
Southwest Fisheries Science Center | Science & Research Dir Southwest Region.
Alaska Fisheries Science Center | Science & Research Director.
Office of asst Administrator Satellite, Data Info Serv | Chief Financial Officer/Chief Administrative Officer.
| Sr Sci for Environ Satel, D & I Serv (NESDIS).
Director NPOESS Integrated Program | Systems Program Director.
National Climatic Data Center | Director, National Climatic Data Center.
National Oceanographic Data Center | Dir, Natl Oceanographic Data Center.
National Geophysical Data Center | Dir, Natl Geophysical Data Center.
Office of Systems Development | Director, Requirements, Planning and System Integration Division.
| Dir Ofc of Sys Development.
Ofc of Asst Administrator, Ocean & Atmospheric Research | Program Director for Weather Research.
| Director, Weather and Air Quality Research.
| Chief Financial Officer/Chief Administrative Officer.
| Dep Asst Admr for Extramural Research.
National Sea Grant College Program | Director, National Sea Grant College Program
Aeronomy Laboratory | Director, Aeronomy Laboratory.
Air Resources Laboratory | Director Air Resources Laboratory.
Atlantic Ocean and Meteorology Laboratory | Dir, Atlantic Oceanographic & Meteorological.
Geophysical Fluid Dynamics Laboratory | Director.
Great Lake Environmental Research Laboratory | Dir Great Lakes Environmental Research Lab.
Pacific Marine Environmental Research Laboratory | Dir Pacific Marine Environmental Lab.
Space Environment Center | Dir, Space Environment Laboratory.
Environmental Technology Laboratory | Director.
Forecast Systems Laboratory | Director, Forecast Systems Laboratory.
Climate Monitoring and Diagnostics Laboratory | Dir Climate Monitoring & Diagnostics Lab.
Institute for Telecommunication Sciences | Assoc Admr for Telecommunication Science.
ITS, Systems and Networks Division | Deputy Dir for Systems & Networks.
Patent and Trademark Office | Dep Admin for Legislative & International Aff.
| Deputy General Counsel for Intellectual Property and Solicitor.
Chemical Patent Exam Groups | Group Director 110.
| Group Director 120.
| Group Director—130.
| Group Director 150.
| Deputy Group Director—110.
| Group Director—180.
| Deputy Group Director 150.
Office of Asst Commissioner for Patents | Administrator for Search & Information Res.
| Dep Asst Comm for Patent Process Services.
| Deputy Group Director—1300.
Examining Group Directors | Group Director.
| Group Director.
| Group Director.
| Group Director.
| Group Director.
| Patent Examining Group Director.
| Patent Examining Group Director.
| Patent Examining Group Director.
Electrical Patent Exam Groups | Group Director FOR260.
| Group Director 210.
| Group Director 220.
| Group Director—230.
| Group Director 240.
| Group Director 250.
| Group Director—250.
| Group Director—260.
| Group Director—230.
Mechanical Patent Exam Groups | Group Director—310.
| Group Director—320.
| Group Director—330.
| Group Director—340.
| Group Director—350.
Office of Asst Commissioner for Trademarks | Chairman, Trademark Trial & Appeal Board.
| Deputy Asst Commissioner for Trademarks.
| Director, Trademark Examining Operation
| Group Director, Trademark Law Offices.
| Group Director, Trademark Law Offices.
| Deputy Commissioner for Trademarks Examination Policy.
| Group Director, Trademark Law Offices.
| Group Director, Trademark Law Offices.
National Institute of Standards and Technology | Deputy Director, NIST Center for Neutron Research.
| Chief, Optical Technology Division.
| Director, Information Technology and Applications Office.
Office of the Director, NIST | Director for Administration and Chief Financial Officer.
| Deputy Director for Management Services.
| Deputy Director for Safety and Facilities.
| Executive Director, Visiting Committee on Advanced Technology Program.
| Director, Boulder Laboratories.
Office of Quality Programs | Director for Quality Programs.
| Dep Dir, Ofc of Quality Programs.
Program Office | Director, Program Office.
Office of International and Academic Affairs | Dir International & Academic Affairs.
| Chief Financial Officer.
Office of the Director for Technology Services | Deputy Director, Technology Services.
Manufacturing Extension Partnership Program | Assoc Dir for National Programs.
| Dir, Manufacturing Extension Partnership Prog.
| Dep Dir, Manufacturing Ext Partnership Prog.
Directors Office, Technology Innovation | Dir, Ofc of Technol Evaluation & Assessment.
Directors Ofc, Advanced Technology Program | Dir Information Technology Laboratory.
| Associate Dir for Policy & Operations
| Dep Dir Advanced Technology Program.
| Director, Advanced Technology Program.
| Dir, Materials & Manufacturing Technology Ofc.
| Director, Electronics & Photonics Technology Office.
Economic Assessment Office | Director, Economic Assessment Office.
Electronics and Electrical Engineering Laboratory | Electronics & Electrical Eng Laboratory.
| Chief Optoelectronics Division.
| Deputy Director.
| Dir, Office of Microelectronics Programs.
Manufacturing Engineering Laboratory Office | Chief, Office of Manufacturing Programs.
| Dep Dir, Manufacturing Engineering Laboratory.
| Dep Dir, Manufacturing Engineering Laboratory.
Precision Engineering Division | Chief, Precision Engineering Division.
Intelligent Systems Division | Chief, Intelligent Systems Division.
Chemical Science and Technology Laboratory Office | Chief Process Measurements Division.
| Dir, Chemical Sci & Technology Laboratory.
| Dep Dir, Chemical Sci & Technol Laboratory.
Physical and Chemical Properties Division | Chief, Physical & Chemical Properties Div.
Analytical Chemistry Division | Chief, Analytical Chemistry Division.
Physics Laboratory Office | Mgr, Fundamental Constants Data Center.
| Director, Physics Laboratory.
| Deputy Director, Physics Laboratory.
Electron and Optical Physics Division | Chief Electron and Optical Physics Division.
Atomic Physics Division | Chief, Atomic Physics Division.
| Chief, Quantum Metrology Division.
Time and Frequency Division | Chief, Time and Frequency Division.
Quantum Physics Division | Senior Scientist & Fellow of JILA.
| Senior Scientist & Fellow of JILA.
| Chief, Quantum Physics Division.
Materials Science and Engineering Laboratory Office | Dir, Materials Sci & Eng Laboratory.
Ceramics Division | Dep Dir, Materials Sci & Eng Lab.
| Chief, Cermanics Division.
Materials Reliability Division | Chief Materials Reliability Div.
Reactor Radiation Division | Chief, Reactor Radiation Division.
| Group Leader Neutron Consensed Matter Science.
| Chief, Reactor Operations.
Building and Fire Research Laboratory | Chief, Fire Safety Engineering Division.
| Dir, Building & Fire Research Laboratory.
| Dep Dir, Building & Fire Research Laboratory.
| Chief, Fire Safety Engineering Division.
Building Materials Division | Chf, Building Materials Div.
Building Environment Division | Chief, Building Environment Division.
Fire Science Division | Chief, Fire Science Division.
Computer Systems Laboratory Office | Associate Director for Program Implementation.
Advanced Network Technologies Division | Chief Advanced Network Technologies Div.
Computing and Applied Mathematics Laboratory Office | Associate Director for Computing.
| Chief High Perf Systems & Services Division.
National Technical Information Service | Deputy Director, Natl Technical Info Service.
O/AD for Financial & Administrative Management | Assoc Dir for Finance & Administration.
| Comptroller.
Commodity Futures Trading Commission:
Office of the General Counsel | Deputy General Counsel (Litigation).
| Deputy General Counsel (Opinions & Review).
| Deputy General Counsel (Reg & Adm).
| Deputy General Counsel.
Office of the Executive Director | Dep Exec Dir.
| Dir, Ofc in Information Resources Mgmt.
| Director, Office of Financial Management.
Division Economic Analysis | Dep Chf Economist.
| Chief Counsel.
| Associate Director for Surveillance.
Division of Enforcement | Deputy Director (Western Operations).
| Deputy Director (Eastern Operations).
| Associate Director.
| Associate Director.
| Associate Director.
Division of Trading and Markets | Deputy Director (Contract Markets).
| Chief Counsel.
| Counsel for Special Projects.
Consumer Product Safety Commission:
Ofc of Executive Dir | Assistant Executive Director for Compliance.
| Associate Executive Dir for Field Operations.
| Asst Exec Director for Information Services.
Office of Hazard Identification & Reduction | Assoc Exec Dir for Engineering Sciences.
| Associate Executive Director for Economics.
| Asst Exec Dir for Hazard I & R.
| Deputy Assistant Executive Director for Hazard Identification and Reduction.
| Assoc. Exec. Director for Epidemiology.
Office of the Secretary of Defense:
Office of the Secretary | Asst to the Secy of Def Intelligence Oversig.
| Deputy Assistant to the Secretary of Defense (Intelligence Oversight).
Office of Under Secretary for Policy | Foreign Relations and Defense Policy Manager.
Office of the ASD (International Security Policy) | Director for Nuclear Safety and Security NATO Policy.
| DUSD for Technology Security Policy/Director, Technology Security.
Office of Assistant Secretary (SOLIC) | Dep Asst Secy of Defense (Forces & Resources).
| Director for Programs, Resources and Assessments.
| Dir Requirements & Technology & Acquisition.
| Deputy Assistant Secretary of Defense for Special Operations Policy and Support.
Director Operational Test and Evaluation | Dep Dir for Live Fire Test & Evaluation.
| Associate Director for Test and Evaluation Studies & Analyses.
| Deputy Director for Resources and Ranges.
Ofc of Inspector General | Deputy Inspector General.
| Asst Inspector General for Investigations.
| Dep Asst Inspector Gen for Investigations.
| Asst Insp Gen for Adm & Info Management.
| Dir, Audit Planning & Technical Support.
| Director, Contract Management.
| Director, Financial Management.
| Deputy Asst Inspector General for Auditing.
| Asst Inspector General for Auditing.
| Dir for Investigative Operations.
| Director, Acquisition Management Directorate.
| Dep Asst Insp Gen for Criminal Invest P & O.
| Director, Office of Departmental Inquiries.
| Director, Office of Intelligence Review.
| Director, Readiness and Logistics Support.
| Director for Audit Follow-up and Technical Support.
| Deputy Assistant Inspector General for Audit Policy and Oversight.
| Director, Office of Administration and Information Management.
Ofc of Asst Secy of Defense (Reserve Affairs) | Principal Director (Manpower and Personnel).
Ofc Dep Asst Secy (Civilian Personnel P/E Opportunity) | Principal Director and Director, Workforce Relations and Development.
ODASD (Requirements & Resources) | Director, Program and Budget Coordination.
Department of Defense Education Activity | Associate Director for Management.
| Deputy Dir Dept of Defense Education Activity for DOD Dependents Schools—(DODDS) Europe.
| Deputy Director, DODEA for Dept. of Defense Dependent Schools—Pacific.
Office Assistant Sec Health Affairs | Dir Info Management Tech & Reengineering.
| Director Acquisition Management & Support.
| General Counsel.
Office of Asst Secy of Def for Public Affairs | Director, AFIS.
| Dir Armed Forces Radio & Television Service.
| Deputy Director, American Forces Information Service.
| Special Assistant to the ASD (Public Affairs).
Deputy Comptroller (Program Budget) | Dir, Prog & Fin Control.
| Dep Dir for Program & Finanical Control.
Deputy Comptroller (Management Systems) | Deputy Chief Financial Officer.
Washington Headquarters Services | Director of Personnel and Security.
| Dir, Freedom of Information & Security Review.
| Director Real Estate and Facilities.
| Dep Dir, Real Estate & Facilities.
| Dep Dir, Personnel and Security.
Office of the General Counsel | Deputy General Counsel (IG).
| Dir Def Ofc of Hearings & Appeals.
Office of the Under Secretary of Defense (Acquisition, Technology, and Logistics) | Executive Director, Defense Science Board.
| Deputy Director, Defense Acquisition Regulations System.
Deputy Under Secretary of Defense (Acquisition and Technology) | Director for Defense Procurement.
| Deputy Dir, Cost Pricing & Finance.
| Dep Dir, Contract Pol & Administration.
| Director, Pacific Armaments Cooperation.
| Dep Dir, Def Syst Procurement Strategies.
| Dir Planning & Analysis.
| Dep Dir, Foreign Contracting.
| Dep Dir for Policy Initiatives.
| Dir OSD Studies & FFRDCA.
| Director Ind Capabilities & Assessments.
| Assistant Deputy Under Secretary of Defense (Acquisition Process & Policies).
| Principal Assistant Deputy Under Secretary of Defense (Acquisition, Reform).
| Director, Acquisition Resources and Analysis.
| Deputy Director, Resource Analysis.
| Principal Deputy, Acquisition Resources and Analysis.
| Deputy Director, OSD Studies & FFRDC Programs.
| Deputy Director, Electronic Business.
Asst to the Sec of Def for Nuclear & Chemical & Biological Defense Programs | DAS of DEF (Nuclear Treaty Programs).
| Deputy Assistant to the Under Secretary of Defense (Nuclear Matters).
Office of the Director of Defense Research & Engineering | Dep Dir Naval Warfare.
| Dep Dir Munitions.
| Sr Staff Special for Air Superiority Systems.
| Dep Dir Land Warfare.
| Dep Dir Electronic Warfare.
| Special Asst Concepts & Plans.
| Deputy Director (Missile Warfare).
| Princ Dep Dir, Strategic & Tactical Systems.
| Deputy Director Air Warfare.
| Dep Dir Arms Control Implementation Compl.
| Asst Dep Dir, Arms Control I & C.
| Director for Information Systems.
| Director, Sensor & Electronics Technology.
| Director for Weapons Systems.
| Deputy Director, Development Test and Evaluation.
| Assistant Deputy Under Secretary of Def (FDP).
| Director for Bio Systems.
| Director for Science and Technology Plans and Programs.
| Director for Technology Transition.
| Director for Multi-Disciplinary Systems.
| Assistant Deputy Director, Air Warfare.
Ofc of Asst Secy (Command, Control, Commun & Intel) | Director, Program Analysis & Integration.
| Director, Counterintelligence.
| Director, International Affairs.
Deputy Assistant Secretary of Defense (Defense-Wide) | Deputy Director, Communications and C2 Battle Management.
DASD (Information Management) | Special Assistant to the DASD (Deputy Cio).
Director for Special Technology | Director, Technology and Evaluation.
Defense Advanced Research Project Agency (DARPA) | Dir, Contracts Management Office.
| Special Asst, Information Technology.
| Deputy Director DARPA.
| Prog Manager (Joint Applications Study Group).
| Director, Tactical Technology Office.
| Deputy Director, Management Operations.
| Program Manager (Acquisition Innovation).
| Director, Microsystems Technology Office.
| Deputy Director, Information Technology Office.
| Director, Information Technology Office.
| Executive Director, Future Combat Systems.
| Joint Applications Study Group Program Manager.
Office of the Joint Chiefs of Staff | Dep Dir for Wargaming, Simulation & Analysis.
Ballistic Missile Defense Organization | Deputy for Program Operations.
| Director, Contracts Directorate.
| Deputy for Technology.
| Asst Dep for Theater Air & Missile Defense.
| Chief Architect/Engineer.
| Deputy Chief Architect/Engineer.
| Asst Deputy for Technical Operations.
| Deputy for System Development.
| Executive Director.
| Deputy Program Manager, National Missile Defense Joint Program Office.
| National Missile Defense Technical Director (NMD TD).
| Deputy for Acquisition Strategy & Long Range Planning.
Defense Contract Audit Agency | Deputy Director, DCAA.
| Assistant Director, Operations.
| Asst Dir, Policy & Plans.
| Director, Field Detachment.
| Director, DCAA.
| Deputy Regional Director, Western Region.
Regional Managers | Regional Director, Eastern.
| Regional Director, Northeastern.
| Regional Director, Central.
| Regional Director, Western.
| Regional Director, Mid-Atlantic.
| Dep Regional Director Eastern Region.
| Deputy Regional Director Northeastern Region.
| Deputy Regional Dir Central, Region.
| Dep Reg Dir Mid Atlantic Region.
Defense Logistics Agency | Chief Actuary.
| Dir, Defense Manpower Data Center.
| Dep Commander, Def Construction Supply Ctr.
| Deputy Commander Defense Distribution Center.
| Exe Dir, Resource, Planning & Performance Dir.
| Director, Information Operations (J-6).
| Dir, Civilian Personnel Mgmt Service.
| Director, Defense Property Accountability System (DPAS) Program Management Office.
| Executive Director Human Resources.
| Director, Defense Automated Printing Service.
| Director, Defense Energy Support Center.
| Executive Director, Electronic Business Office.
| Executive Director.
| Executive Director, Information Technology Policy, Plans and Assessment.
| Executive Director, Business Modernization.
| Executive Director, Logistics Policy and Acquisition Management.
| Program Executive Officer.
| Executive Director, Business Operations.
| Deputy Director, Information Operations/Chief Technical Operator.
Office of General Counsel | General Counsel, DLA.
| Deputy General Counsel (Administration).
Office of the Comptroller | Comptroller.
Office of the Deputy Director, Material Management | Deputy Commander, Defense General Supply Ctr.
| Deputy Commander (DLSC).
Defense Personnel Support Center | Deputy Commander, DPSC.
Defense Training & Performance Data Center | Deputy Dir Defense Manpower Data Center.
Defense Contract Management Agency | Executive Director, Contract Mgmt Operations.
| Executive Director, Program Integration (Acquisition).
| Deputy Commander, Defense Contract Management Agency.
| Executive Director, Business Operations.
| Chief Information Officer.
| Program Executive Officer/Executive Director, Standard Business Systems.
| General Counsel.
| Deputy General Counsel.
Defense Information Systems Agency | Comptroller.
| Dep Director for Strategic Plans & Policy.
| Special Assistant for Liaison Activities.
| Chief, Technology & Standards Division.
| Dep Dir For C4I Programs.
| Special Asst/Infrastructure & Information Systems Security.
| Chief Engineer, Information Systems Security.
| Advisor for Cross Program Integration.
| Chief Spectrum Anal & Mangnt Division.
| Commander, Disa Westhem.
| Chief, Policy, Plans, and Appropriated Programs Division.
| Chief, Defense Computing Business Office.
| Chief, Defense Information Systems Network Business Office.
| Assistant for Program Oversight.
| Chief Engineering Executive for Information Transport.
| Commander, Center for Horizontal Integration.
| Chief, Defense Information Systems Network Support Division.
| Chief Engineering Executive, Office of Chief Information Officer.
| Chief, Defense Information Systems Network Transition and Integration Division, Operations Directorate.
| Deputy Director for Manpower, Personnel and Security.
| Deputy Director for Information Engineering.
| Deputy Comptroller.
| Chief, Plans, Concepts and C2 Applications Division.
| Assistant for C4I Enterprise Program Integration.
| Chief Engineer, Center for Integrated Switched Network Services.
| Chief Executive Engineer, Network Services Directorate.
| Chief, Center for Defense Information Systems Networks Services.
| Chief, Customer Focus Center.
| Chief Technology Officer, Disa Westhem.
Office of the Director | Deputy Manager National Commun Systems.
| Inspector General.
Directorate for Strategic Plans and Policy | Chief Information Officer.
Directorate for C4 & Intelligence Programs | Tech Dir Adv Info Tech Services Joint Prog.
| Dep Dir for C4I Modeling, Simulation & Assess.
| Chief Current Network Operations.
Directorate for Operations | Technical Dir, Space Information Syst Office.
Directorate Disa, for Logistics, F & S Projects | Dep Dir for Procurement & Logistics.
Directorate for Personnel and Manpower | Dep Dir for Personnel & Manpower.
Directorate for Engineering & Interoperability | Assoc Dir For Technical & Management Support.
Directorate for Enterprise Integration | Deputy Director for Joint R A & I.
Defense Threat Reduction Agency | Staff Spec for Spec Tech Program.
| Chief, Weapons Lethality Division.
| Deputy Director, Operations Directorate.
| Director for Electronics and System.
| Director for Weapons Effects.
| Chief, Simulation and Test Division.
| Director for Programs.
| Program Director, Special Programs Office.
| Dir for Counterproliferation Programs.
| Comptroller.
| Deputy Director, on Site Inspection Plans and Resources.
| Director, Counterproliferation Support & Operations.
| Director, Acquisition Management.
| Director, Chemical-Biological Defense.
Defense Security Assistance Agency | Chief Information Officer.
Defense Finance & Accounting Service | Deputy Director, Cleveland.
| Deputy Director Defense Finance and Accounting Service.
Defense Security Service | Dir, Defense Investigative Service.
| Dir DoD Polygraph Institute.
| Deputy Director for Developmental Programs.
| Deputy Director for Security Programs.
| Deputy Director for Field Operation.
| Deputy Director for Resources.
| Deputy Director for Program Analysis and Evaluation.
| Deputy Director for Resources.
Department of the Air Force:
Office of Administrative Assistant to the Secretary | Administrative Assistant.
| Dep Admin Assistant.
Office of Small & Disadvantaged Business Utilization | Dir, Ofc of Small & Disadv Bus Utilization.
Auditor General | Auditor General of the Air Force.
Air Force Audit Agency (FOA) | Asst Aud Gen (Materiel & Systems Audits).
| Asst Aud Gen (Field Activities).
| Asst and Gen (Operations).
| Asst Aud Gen (Financial & Support Audits).
| Deputy Auditor General of the Air Force.
Office of the Inspector General | Executive Director.
AF Office of Special Investigations (FOA) | Executive Director.
| Executive Director, Defense Cyber Crime Center (DCCC).
Office of the General Counsel | Deputy General Counsel (Dispute Resolution).
Office of ASAF for Financial Management & Comptroller | Principal Dep Asst Secry (Financial Mgmt).
ODAS Budget | Director of Budget Investment.
| Chief, Budget Management Division.
| Deputy for Budget.
ODAS Cost & Economics | Associate Deputy Assistant Secretary (Cost and Economics).
| Dep Asst Secy (Cost & Economics).
Office of ASAF for Acquisition | Air Force Program Executive Officer, Launch Systems.
| Principal DAS (Acquisition & Mgmt).
ODAS Science, Technology & Engineering | DAS (Science, Technology & Engineering).
ODAS Management Policy & Program Integration | Associate Deputy Assistant Secretary, Management Policy and Program Integration.
| Dep Asst Secy (Mgmt Pol & Prog Integration).
ODAS Contracting | Assoc Dep Asst Secy (Contracting).
Directorate of Space and Nuclear Deterrence | Deputy Director, Space & Nuclear Deterrance.
Air Force Program Executive Office (FOA) | Program Exec Officer, Info Systems.
| Air Force Program Executive Officer, Weapons.
| Prog Executive Officer for Joint Logistics Systems.
| Air Force Program Executive Officer Space.
| Deputy Program Executive Officer (Command and Control & Combat Support Systems).
Ofc of ASAF for Manpower and Reserve Affairs | Associate Deputy Assistant Secretary of the AF (Environment, Safety, and Occupational Health).
| Deputy Assistant Secretary of the AF (Personnel, Force Management, and Strategy).
Air Force Review Boards Agency (AFRBA)—FOA | Dep for Air Force Review Boards.
Air Force Base Conversion Agency (FOA) | Dir Air Force Base Conversion Agency.
Office of the Chief of Staff | Air Force Historian.
Test and Evaluation | Deputy Dir Test & Evaluation.
Air Force Studies and Analyses Agency (DRU) | Director, Air Force Studies and Analyses Agency.
Deputy Chief of Staff, Communications & Information | Director, Architecture and Interoperability.
Deputy Chief of Staff, Installations & Logistics | Asst Dep Chief of Staff Installation & Logist.
Civil Engineer | Deputy Civil Engineer.
Services | Director of Services.
Maintenance | Deputy Director of Maintenance.
| Deputy Director of Maintenance.
Plans & Integration | Director of Plans & Integration.
Supply | Chief, Aircraft/Missile Support Division.
| Chief, Combat Support Division.
AF Center for Environmental Excellence (FOA) | Dir AF Center for Environmental Excellence.
Manpower & Organization | Deputy Director for Manpower and Organization.
| Deputy Director for Manpower and Organization.
Programs | Associate Director of Programs & Evaluation.
Strategic Planning | Dep Dir of Strategic Planning.
Deputy Chief of Staff, Personnel | Asst Deputy Chief of Staff Personnel.
| Dir of Personnel Force Development.
| Deputy Director Personnel Force Management.
| Director, Palace Compass Program Management Office.
Deputy Chief of Staff, Air and Space Operations | Dep Dir of Operational Requirements.
| Assoc Dir Modeling Simulation & Analysis.
| Director Nuclear Weapons and Counterproliferation Agency.
| Associate Director for Ranges and Airspace.
| Associate Director for Operations.
AF Operational Test & Eval Ctr (DRU) | Scientific Advisor.
Air Force Materiel Command | Executive Director.
| Chief Technology Officer.
Personnel | Director, Personnel.
Contracting | Deputy Director Contracting.
Logistics | Deputy Director for Depot Maintenance.
| Deputy Director for Supply Management.
Engineering & Technical Management | Director, Engineering & Technical Mgmt.
Financial Management & Comptroller | Dep Director, Financial Mgmt & Comptroller.
Communications & Information | Director, Communications & Information.
Plans & Programs | Deputy Director, Plans & Programs.
Requirements | Director, Requirements.
Operations Directorate | Deputy Director of Operations.
Directorate of Civil Engineer | Deputy Command Civil Engineer.
Electronic Systems Center | Executive Director.
| Prog Dir Strategic & Nuclear Deterrence C2.
| Director, Materiel Systems Group.
| Director, Plans & Programs.
| Program Director, Defense Information Infrastructure Air Force.
| Director, Information Programs Office.
| Director, Contracting.
Standard Systems Center | Director, Standard Systems Center.
Aeronautical Systems Center | Executive Director.
| Director System Management.
| Director, Contracting.
| Dir Financial Management & Comptroller.
Directors of Engineering | Dir of Engineering F-22.
| Director of Engineering, F-22.
| Director of Engineering Propulsion.
| Director of Engineering Joint Strike Fighter.
Systems Program Offices | Program Director, Air Combat SPO.
| Program Director, Mobility SPO.
Human Systems Center | Deputy Director.
Air Force Research Laboratory | Executive Director, AFRL.
| Director, Plans & Programs.
| Assoc Dir for Investment Strategy.
| Director, AFRL Washington Office.
Air Vehicles Directorate | Assoc Dir for Air Platforms.
AFRL—Munitions Directorate | Associate Director for Weapons.
Space Vehicles Directorate | Director, Space Vehicles.
Information Directorate | Dir Information.
Directed Energy Directorate | Director Directed Energy.
Materials and Manufacturing Directorate | Director, Materials & Manufacturing.
| Assoc Dir for Manufacturing Tech & Afford.
Sensors Directorate | Director Sensors.
| Associate Director for Sensors.
Human Effectiveness Directorate | Director, Human Effectiveness Directorate.
Arnold Engineering Development Center | Executive Director.
Air Force Flight Test Center | Executive Director.
Air Logistics Center, San Antonio | Director, Financial Management.
| Executive Director.
| Dir. Privatization & Realignment.
Air Logistics Center, Oklahoma City | Director, Commodities Management.
| Executive Director.
| Product Group Manager, Propulsion Systems.
| Director, Logistics Management.
Air Logistics Center, Warner Robins | Director, Financial Management.
| Director, Technology & Industrial Support.
| Executive Director.
| Director, Logistics Management.
| Director, Contracting.
Air Logistics Center, Ogden | Director, Financial Management.
| Executive Director.
| Director Commodities.
| Director, Logistics Management.
| Director, Contracting.
Air Logistics Center, Sacramento | Director, Financial Management.
| Center Director, Vice Executive Director.
Air Armament Center | Executive Director.
| Director, Plans and Programs.
AAC—Systems Program Office | Prog Dir Joint Air-To Surface Standoff Miss.
| Program Dir Air to Air Joint SPO.
Air Combat Command | Senior Technical Director.
Air Mobility Command | Principal Dep Dir of Operations for Transport.
Air Force Reserve Command | Air Commander 4th Air Force.
| Air Commander 10th Air Force.
| Air Commander 22nd Air Force.
| Assistant Vice Commander.
| Director, Plans.
| Director of Operations.
AF Space Command | Associate Director of Plans & Programs.
U.S. Central Command | Scientific Advisor.
U.S. Space Command | Director of Programs and Resources.
| Chief Technical Officer and Director of Analysis.
Space and Missle Systems Center | Director, Systems Acquisition.
| Executive Director.
| Director Contracting.
| Program Director, Milsatcom JPO.
U.S. Strategic Command | Assoc Dir for Strategic Planning.
| Dep Dir Comd Ctrl Comm Computer & Intel Sys.
U.S. Transportation Command | Dir Program Analysis & Financial Mgmt.
Federal Executive Institute—Dev Assignment | Special Assistant for Financial Management Studies.
Department of the Army:
Department of the Army | Assistant Deputy Chief of Staff for Personnel (Installation Management).
| Deputy Chief of Staff for Resource Management.
Office of the Secretary | Interagency Coordinator of Military Support to Civil Authorities.
Office Deputy Under Secretary of Army (OPS Research) | Spec Asst for Air & Missil Defense.
| Special Assistant for Systems.
| Assistant Deputy Under Secretary of the Army for Operations.
| Research.
| Dir, Test and Evaluation Management Agency.
Office Deputy Under Secretary of the Army (Intl Affairs) | Assistant Deputy Under Secretary (International Affairs) (Security Cooperation).
Office Administrative Asst to the Sec of Army | Adm Asst to the Secy of the Army.
| Dep Admin Asst to the Secy of the Army.
| Dir Single Agency Mgr for Pentgon Info Tech.
Office of the General Counsel | Deputy General Counsel (Ethics & Fiscal).
Ofc Asst Secretary Army (Civil Works) | Deputy Asa (Management & Budget).
| Das of the Army (Policy & Legislation).
Ofc Asst Sec Army (Financial Management & Comptroller) | Assistant Deputy Asa for Army Budget.
| Deputy for Cost Analysis.
| Dir of Investment.
| Das of the Army (Financial Operations).
| Spec Adv for Economic Pol & Productivity Prog.
| Director for Business Resources.
Ofc Asst Sec Army (Manpower & Reserve Affairs) | Deputy Assistant Secretary of the Army (Civilian Personnel Policy).
| Deputy Asst Secy of the Army (ARBA).
| Deputy Assistant Secretary of the Army (Civilian Personnel Policy).
Ofc Asst Sec Army (Acquisition, Logistics and Technology) | Das for Res & Tech/Chief Scientist.
| Deputy Asst Secy of the Army (Procurement).
| Dep Asst Secy for Plans & Programs.
| Director for Research.
| Director for Technology.
| Director for Assessment & Evaluation.
| Director, Procurement Policy and Acquisition Reform.
Hqda Army Acquisition Executive | Dep Prog Mgr for Chem Demiliarization Oper.
| Deputy PEO, Armored Systems Modernization.
| Dep Prog Exec Ofcr, Command & Control Systems.
| Deputy Prog Executive Officer Comm Systems.
| Program Executive Officer Stamis.
| Dep Program Executive Officer for Aviation.
| Deputy Prog Executive Ofcr, Missile Defense.
| Dep Prog Executive Ofcr Tactical Missiles.
| Prog Manager for Chemical Demi Operations.
| Dep Prog Executive Officer for Fire Supp Sys.
| Program Exec. Ofcr, Intel., Electr. Warfare & Sensors.
Ofc of Dir of Inform Sys for Comm, Contl, | Dir of Army Information.
Comms/Computers | Vice Director to the DISC4.
Army Audit Agency | The Auditor General.
| Deputy Auditor General.
| Director, Logistical & Financial Audits.
| Dir, Acquisition & Force Mgmt.
| Director, Policy and Operations Management.
Office, Chief of Staff | Director, Facilities, Housing & Environment.
| Assistant Deputy Chief of Staff for Programs.
Operations Test & Evaluation Command (OCSA FOA) | Tech Dir, Test & Exper Command.
| Dir US Army Evaluation Center.
Army Center of Military History (OCSA FOA) | Chief Historian.
Office, Assistant Chief of Staff for Installation Mgmt | Dep Asst Chief of Staff for Installation Mgnt.
Office, Deputy Chief of Staff for Logistics | Asst Dir for Transportation.
| Executive Director, Strategic Logistics Agcy.
| Chief Aviation Logistics Office.
| Associate Dir for Supply & Maintenance.
Office Dep Chf of Staff for Operations & Plans | Tech Adv to the DCSOPS.
| Director, Army Model & Simulation Office.
Office, Dep Chief of Staff for Personnel | Director of Manprint.
| Director for Personnel Technologies Directorate.
| Director of Plans, Resources and Operations.
Army Research Institute (DCSPER FOA) | Dir, Manp & Pers Res Lab & Assoc Dir, ARI.
| Dir, US Army Res Inst & Chief Psychologist.
U.S. Total Army Personnel Command (DCSPER FOA) | Director, Army Declassification Activity.
National Guard Bureau | Program Executive Officer for Information Systems & Chief.
| Information Officer.
Walter Reed Army Institute of Research | Chief Dept of Pharmacology.
USA Space and Missile Defense Command | Prin Assistant Resp for Contracting.
| Dir, Advanced Technology Directorate.
| Director, Weapons Directorate.
| Director, Space and Missile Defense Battle Laboratory.
| Director, Integration and Interoperability for Missile Defense.
Training and Doctrine Command (TRADOC) | Asst Deputy Chief of Staff for Resources Mgmt.
| Adcos for Training Policy Plans and Programs.
| Deputy to the Commanding Gen, CASCOM.
| Asst Dep Chief of Staff for Base Ops Support.
| Asst Dep Chief of Staff for Combat Develop.
| Dep Chief of Staff for Base Operations Supp.
TRADIOC Analysis Center | Director of Operations.
| Director of Operations.
| Director.
U.S. Army Nuclear and Chemical Agency | Dir, U.S. Army Nuclear & Chemical Agency.
Military Traffic Mgmt Command | Special Asst for Transportation Engineering.
| Deputy to the Commander.
U.S. Army Forces Command | Deputy Director Resource Management.
| Asst DCS for Pers & Inst Mgnt.
| Assistant Deputy Chief of Staff for Logistics and Readiness.
U.S. Army Signal Command | Technical Director/Chief Engineer.
U.S. Army Corps of Engineers | Dir of Real Estate.
| Director of Human Resources.
| Director of Resource Management.
| Principal Asst Responsible for Contracting.
| Deputy Chief of Staff for Corporate Information.
| Deputy Director Engineer Research and Development Center.
Directorate of Research & Development | Deputy Chief of Staff for Research & Development.
| Asst Dir for Research & Dev (Civil Works prog).
| Asst Dir Research & Dev (Military Prog).
Directorate of Civil Works | Chief, Programs Management Division.
| Chief, Planning Division.
| Principal Assistant for Civil Works.
| Chief Engineering Division.
| Chf, Ops, Construction & Readiness Division.
| Chief Policy Review & Analysis Division.
Directorate of Military Programs | Deputy Director, Military Programs.
| Chief, Programs Management Division.
| Chief, Environmental Division.
| Chief, Engineering and Construction Division.
| Chief, Installation Support Division.
Directors of Programs Management | Dir Programs Management, MVD.
| Dir Programs Management, NAD.
| Director of Programs Management.
| Director Programs Management.
| Dir Programs Management, POD.
| Dir of Programs Management, SAD.
| Dir Programs Management, SPD.
| Dir Programs Management, SWD.
Director of Engineering & Technical Services | Director of Engineering & Technical Services.
| Dir Engineering & Technical Services, NWD.
| Dir Engineering & Technical Services, NAD.
| Dir Engineering & Technical Services, LRD.
| Dir Engineering & Technical Services, NWD.
| Dir Engineering & Technical Services, LRD.
| Dir Engineering & Technical Services, POD.
| Dir Engineering & Technical Services, SAD.
| Dir Engineering & Technical Services, SPD.
| Dir of Engineering & Technical Services, SWD.
Engineer Waterways Experiment Station, COE | Director, Geotechnical Laboratory.
| Director Environmental Lab.
| Director, Structures Laboratory.
| Director, Coastal and Hydraulics Laboratory.
| Director, Engineer Research and Development.
| Director, Information Technology Laboratory.
Engineer Topographic Laboratories, C of Engineers | Director.
Construction Engineering Res Lab Champaign, IL | Director.
Cold Regions Research & Engineering Lab Hanover, NH | Director.
U.S. Army Materiel Command | Deputy Chief of Staff for Corporate Information/CIO.
Office of DCS for Logistics & Operations | Asst Dep Chief of Staff for Logs & Operations.
| Dir Army Single Stock Fund/Dir AMC Logistics Systems and Processes.
Special Analysis Office | Chief, Stategic Analysis and Planning Office.
Office Deputy Commanding General | Principal Deputy for Logistics.
| Principal Deputy for Acquisition.
| Senior Advisor for Science and Technology.
Office of DCS for Research, Dev and Acquisition | ADCS for RDA Science Technology & Engineering.
| ADCS for RDA—Business OPS/Director AMC TOCR Program.
Office of Deputy Chief of Staff for Ammunition | Asst Deputy Chief of Staff for Ammunition.
Office of DCS for Acquisition | Asst Dep Chief of Staff for Res DAAC & P Mgmt.
Ofice of Deputy Chief of Staff for Personnel | Dep Chief of Staff for Personnel.
Office of the Deputy Chief of Staff for Res Management | ADCS for Resource Mgmt/Exec Dir for Busin.
| Deputy Chief of Staff for Resource Management.
USA Security Assistance Command | Deputy.
U.S. Army Operations Support Command | Deputy to the Commander.
Natick Soldier Center | Director, Natick Rd & E Center.
U.S. Army Soldier & Biological Command (SBCCOM) | Director, Engineering Directorate.
| Technical Director.
| Deputy to the Commander.
| Director for Operations, Remediation and Restoration.
| Director, U.S. Army Materiel Command Acquisition Center.
U.S. Army Communications Elect Comd (CECOM) | Director CECOM Acquisition Center.
| Assoc Dir, CECOM Acq Center—Washington Operations Office.
| Deputy to the Commander.
CECOM Research, Development & Engineering Center | Dir-Night Vision/Electro Sensors Directorate.
| Dir, Space & Terrestrial Comm Directorate.
| Dir, I & E Warfare Directorate.
| Dir, Software Engineering Directorate.
| Director/Army Systems Engineer.
| Dir for C4I Log & Readiness Center.
| Assoc Tech Dir Resech Devel & Engineering Ctr.
| Director, Command, Ctrl & Syst Integration Dir.
U.S. Army Research Laboratory | Director US Army Research Laboratory.
| Associate Director for Plans, Programs and Budget.
| Deputy Director.
Survivability/Lethality Analysis Directorate | Director, Survivability/Lethality Analysis Directorate.
Army Research Office | Director.
| Dir, Research & Technology Integration.
| Director, Engineering Sciences Directorate.
| Director, Physical Sciences Directorate.
Sensors and Electron Devices Directorate | Deputy Director and Director Electron Devices Research Driector.
Computational and Information Sciences Directorate | Director.
| Deputy Director.
Weapons and Material Research Directorate | Deputy Director and Directorate Materials Research Director.
Human Research and Engineering Directorate (ARL) | Director, Human R & E Directorate.
U.S. Army Aviation and Missile Command (AMCOM) | Executive Director, Acquisition Center.
| Director for Engineering.
| Executive Dir, Integrated Materiel Mgmt Ctr.
| Deputy Executive Director for TMDE.
| Deputy to the Commander.
| Deputy to the Commander.
| Executive Director Acquisition Center.
| Executive Dir Integrated Material Magnt Ctr.
Missile Res Development & Engineering Center (RDEC) | Dir for Systems Simulation & Development.
| Tech Dir for M & D, Res, Dev & Eng Center.
| Associate Director for Systems, Missiles.
| Director for Weapons Sciences.
| Dir for Missile Guidance.
| Director for Propulsion and Structures.
Aviation Research, Development and Engineering Center | Techn Dir (Aviation) & ED-US Army ARD & EC.
| Director of Aviation Engineering.
| Dir of Aeroflight Dynamics.
| Dir of Advanced Syst/Assoc Dir for Technol.
| Assoc Dir for Tech Appl/Dir of Spec Prog.
Tank-Automative and Armaments Comd (TACOM) | Director of Acquisition Center.
| Director, Integrated Materiel Mgmt Center.
| Dir US Army Armament & Chemical A & L ACT
| Deputy to the Commander.
Tank-Automotive Res, D & E Center (TARDEC) | Vice President for Research.
| President/Director.
| Vice President for Customer Engineering.
| Vice President for Product Development.
US Army Armament Research, D & E Center (ARDEC) | Technical Director for Armament.
| Asst Technical Director (System Development & Engineering).
| A/Tech/Dir (Systems Concepts & Technology.
Warheads, Energetics and Combat Support Armaments Center | Dir, WE & Combat Support Armaments Center.
Fire Support Armaments Center | Senior Technical Executive for Fire Support.
Close Combat Armaments Center | Senior Technical Executive for Close Combat.
US Army Simulation, Training & Instrumentation Command | Deputy to the Commander.
US Army Test and Evaluation Command, (TECOM) | Tech Dir & Chf Sci.
| Director, Technical Mission.
| Dir, Joint Prog Ofc for Test & Evaluation.
US Army Materiel Systems Analysis Activity | Director.
| Chief, Combat Integration Division. d
Headquarters, US Army, Europe | Asst Dep Chf of Staff, Personnel (Civ Pers).
| Asst Dep Chief of Staff Eng for Eng & Housing.
| Asst Dep Chf Staff for Eng (Intl Affairs).
| Deputy Chief of Staff for Resource Management.
U.S. Army Military District of Washington | Director of Cemetery Operations.
| Deputy to the Commander for Installation Support.
U.S. Southern Command | Spec Asst for Technology & Requirements Integ.
| Technical Advisor—Sustaining Base/Quality of Life.
Department of the Navy:
Office of the Secretary | Chief Information Officer.
| Director for Electronic Business and Security.
Office of The Under Secretary of the Navy | Assistant for Administration.
Office of the Auditor General | Eastern U.S. Audit Services, Facilitator.
| Dir, Naval Audit Service Western Region.
| Dir, Naval Audit Service Capital Region.
| Asst. Auditor General for Financial & Force Mgmt. Audits.
| Auditor General of the Navy.
| Deputy Auditor General of the Navy.
| Asst. Auditor General for Infrastructure Audits.
| Asst. Auditor General for Acquisition & Logistics Audits.
Ofc of the Asst Secy of Navy (Manpwr & Res Affs) | Dir, Human Resources Operations Center.
| Assist Gen Coun (Manpower & Reserve Affairs).
| Director, Plans, Programs & Diversity.
| Dep A/S of the Navy (Civilian Persnl P/EEO).
OAS of Navy (Installations & Environment) | Asst General Counsel (Install & Environment).
OAS of the Navy (Research, Dev & Acquisition) | Director, Navy Acquisition R & S Improvement.
| Director, Procurement Policy.
| Head, Contract Policy.
| Asst Gen Coun (Res, Dev & Acquisition).
| Director, Acquisition Career Management.
| Dep Dir Navy International Programs Office.
Program Executive Officers | Deputy Chief Engineer.
| Deputy Program Executive Officer Surface Strike.
| Deputy PEO for Aircraft Carriers.
| Director, Plans & Programs Division.
| Chf Engr.
| Asst for Fire Control & Guidance Systems.
| Branch Head, Reentry Systems Branch.
| DeP P/E Officer for Unmanned Aerial Vehicles.
| Dep Director for Theater Air Missile Defense & SE/Director of Weapons.
| Technical Plans Officer.
| Head, Res Branch & De Dir, Plans & Progs Div.
| Assistant for Missile Engineering Systems.
| Dep P/E Officer for Cruise Missiles Program.
| Dep Prog Officer Submarines.
| Asst for Systems Integration & Compatibility.
| Dep Prog Exec Ofcr for AWS, A/S Mission Prog.
| Dep Prog Exec Ofcr for Tactical Air Programs.
| Deputy PEO, Mine Warfare.
| PEO for Information Technology.
| Aegis Deputy Program Manager.
| Prog Exec Officer ASW Assault & Spec Miss Pro.
| Deputy PEO for Enterprise Solutions.
| Deputy PEO for Information Technology/Tech Dir.
| Deputy Program Mgr., Future Carrier Program Office.
Ofc of the Asst Secy of Navy (Fin Mgmt Comptroller) | Assoc Dir, Budget & Reports/Fiscal Manag Div.
| Asst General Counsel (Financial Management)
| Dir, Investment & Dev Div.
| Dir, Financial Mgmt Pol & Systems Division.
| Director, Program/Budget Coordination Division.
| Dir Resource Allocation & Analysis Division.
| Director, Financial Management Division.
| Director, Business and Civilian Resources Division.
Naval Center for Cost Analysis | Dir Naval Center for Cost Analysis.
Office of the Naval Inspector General | Deputy Naval Inspector General.
Office of the General Counsel | Special Counsel for Litigation.
Naval Criminal Investigative Service | Dir Naval Criminal Invest Service.
| Asst Dir of Counterintelligence.
| Special Agent in Charge Norfolk Field Ofc.
| Special Agent in Charge.
| Deputy Director, NCIS.
Chief of Naval Operations | Asst Dep Chf of Naval Operations (Logistics).
| Dep Dir of Naval Training.
| Asst Dep Chief Naval Oper Res Warfare.
| Asst Dep Chf of Naval Oper Manpower/Personnel.
| Assistant Deputy Chief of Naval Operations (Warfare Requirements & Programs).
| Director, Special Programs Division.
| Assistant Director, Space, Information Warfare, Command and Control.
| Assoc Dir Warfare Integration & Assessment Div.
| Head, Studies & Analysis Branch.
| Associate Director, Assessment Division.
| Tech Dir, Submarine & SSBN Security Program.
| Technical Director.
| Deputy Director for Programming.
| Head Force Structure and Analysis Branch.
| Assoc Dir, Expeditionary Warfare Division.
| Director, Logistics Planning and Innovation.
| Dir Naval History/Dir, Naval Historical Ctr.
| Dep Dir Envir Protection Safety Occp Heal Div.
| Director Strategic Sealift Division.
Bureau of Naval Personnel | Acnp for Mpn Financial Management.
Bureau of Medicine & Surgery | Dep Commander for Fin Mgmt & Comptroller.
Military Sealift Command | Counsel.
| Comptroller.
| Executive Director.
Naval Meteorology & Oceanography Comm, Stennis SC, MS | Technical/Deputy Director.
Ofc of Commander in Chf/Allied Forces/Southern Eur | Dir Joint Train Analysis & Simulation Ctr.
| Dep Dir Fleet Maintenance.
| Director, Joint Battle Lab.
| Director, Command, Control Communications and Computers Systems.
| Deputy Director, Shore Activities Readiness.
Ofc of the Commander-In-Chief, U.S. Pacific Command | Chief Information Officer.
Cincpacflt | Deputy Director Fleet Maintenance.
| Deputy Director Shore Installation Management.
| Executive Director, Planning & Resources
| Executive Director, Total Force Management.
Ofc of the Chief of Naval Education and Training | Comptroller.
Naval Recruiting Command | Deputy Commander.
Naval Air Systems Command Headquarters | Standards Improvement Executive.
| Executive Dir, Corporate Operations.
| Deputy Commander for Acquisition & Operations.
| Deputy Assistant Commander for Logistics.
| Deputy Asst Cdr for Contracts.
| Deputy Comptroller.
| Counsel, Naval Air Systems Command.
| Director, Systems Engineering Department.
| Director, Avionics Department.
| Director, Air Vehicle Department.
| Director, Logistics Management Integration.
| Dir, Tactical Aircraft & Missiles Contracts Dept.
| Director, Support Equip/Aircraft Launch Recovery Equip.
| Director, Cost Analysis Department.
| Deputy Acquisition Executive.
| Deputy Assistant Commander, Research & Engineering.
| Dir Industrial Operations.
| Director, Warfare Analysis Department.
| Director, Propulsion & Power Department.
| Director, Air Vehicle & Flight Systems Engineering Dept.
| Director, Test & Evaluation Engineering Department.
| Director, Test & Evaluation Engineering Department.
| Director, Logistics Systems & Analysis Dept.
| Director, Logistics Systems & Analysis Dept.
| Deputy Commander, Naval Air Sys Command.
| Head, Cruise M & U Aerial Vehicles Dept.
| Dir Budget Formulation Justification Exe Div.
| Deputy Counsel, Navair.
| Deputy Asst Cdr for Aviation Depots.
| Dir Naval Aviation Science & Tech Office.
| Asst Commander for Corporate Operations.
| Director, Design Interface Main. Planning & Knowledge Req.
| Dir, Air Asw, Assault & Special Mission Prog Contracts Dept.
| Deputy Director for Navy Test & Eval & Tech Rqmts.
Naval Air Warfare Center Aircraft Division | Dep Asst Cdr for T&E/Exec Dir, NAWCAD/Dir, T&E, Nawcad.
| Director, Material Management Dept.
| Director, Avionics Department.
| Dir of Atlantic Ranges & Facilities Dept.
Naval Air Warfare Center Weapons Div, China Lake, CA | Head, Res and Technology Div.
| Head, Pacific Ranges & Facilities Depart.
| Director, Avionics Dept.
| Director, Weapons/Mission Systems Integration Dept.
| Director for Test & Evaluation.
| Director, Weapons and Targets Dept.
| Executive Director, NAWCWD/Director, Research/Engineering.
| Director of Corporate Operations.
| Director, Threat/Target Syst Depart.
Naval Training Systems Center | Executive Director.
| Exec Dir, Nawctsd/Dir., Program Mgmt, NAWCAD.
Space & Naval Warfare Systems Command | Exec Dir, Contracts.
| Deputy Comptroller.
| Counsel Space & Naval Warfare Systems Com.
| Executive Dir, Space Tech Systems Prog Dir.
| Director, Washington Operations Office.
| Program Director, Intell, Surveillance & Reconnaissance Dir.
| Technical Director, Spawar.
| Program Director, Communications Systems Program Directorate.
| Director, Chief Technology Officer.
| Executive Director, C4ISR Installations and Logistics Directorate.
| Prog Dir, I & E Warfare Syst Program Dir.
| Deputy Commander.
| Deputy Chief Engineer.
| Dir Strategic Corporate Plann & Devel Office.
| Exec Dep Dir Info Supp Sys Progr Directorate.
Space and Naval Warfare Systems Center | Head Intelligence S & R Department.
| Executive Director.
| Head Navigation & Applied Sciences Dept.
| Head, Command and Control Department.
| Dep Exec Dir Sci Tech Engineering.
| Head Communication & Information Sys Dept.
| Dep Executive Dir for Corporate Operations.
Space and Naval Warfare Systems Center, Charleston | Executive Director.
Naval Facilities Engineering Command | Director Navy Crane Center.
| Director, Special Venture Acquisition Programs.
| Counsel Naval Facilities Engineering Command.
| Deputy Comptroller.
| Director For Contracts Support.
| Chief Engineer.
| Dir of Real Estate Support.
| Director for Base Development.
| Dir of Base Closure.
| Director of Environment.
Naval Sea Systems Command | Executive Director.
| Counsel Naval Sea Systems Command.
| Executive Director for Contracts.
| Executive Director/Deputy Comptroller.
| Director, Reactor Materials Divisions.
| Deputy Director, Steam Generator Design/Development
| Head, Advanced Reactor Branch.
| Dep Dir Surface Ship Design & Sys Eng Group.
| Dir Cost Engineering & Industrial Analysis.
| Dir, Shipbuilding Contracts Division.
| Assistant Deputy Cdr For Industrial Ops.
| Deputy Commander, Surface Ship Directorate.
| Director, In-Service Submarine Programs.
| Executive Director/Battle Force Systems Eng.
| Director, Corporate Operations.
| Chief Information Officer.
| Executive Director for Logistics, M & I Ops.
| Dep Prog Mgr/Techn Dir, New Attack Submarines.
| Prog Mgr for Submarine Depot Availability Program Office.
| Dep Prog Manager, Aircraft Carrier Progr Ofc.
| Dir Reactor Plant Components Auxil Equip Div.
| Dep Dir/Advanced Submarine Reactor S&SF Mgmt.
| Dir Surface Ship Systems Division.
| Director, Reactor Safety and Analysis Division.
| Dir, Ship S & S Integrity Group.
| Dir Power Systems Group.
| Director, Materials Engineering Office.
| Exec Dir, Ship Design & Engrng Directorate.
| Program Manager for Commissioned Submarines.
| Dir, Surface Systems Contracts Division.
| Deputy PEO Expeditionary Warfare.
| Director, Office of Resource Management.
| Dir, Reactor Refueling Division.
| Deputy Counsel, Naval Sea Systems Command.
| Dir Environmental Protection Office.
| Deputy Dir Environmental Health & Safety.
| Program Manager, Commercial Ship/Craft Program Office.
| Asst Deputy Commander, Fleet Maintenance Policy and Process Division.
| Asst Deputy Cdr Fleet Logistics Support.
| Director, Fleet Readiness Division.
Norfolk Naval Shipyard | Naval Shipyard Nuclear Engineering & Plan Mgr.
| Nuclear Eng & Planning Manager Budget Naval Ship.
Naval Surface Warfare Center | Technical Director.
Naval Undersea Warfare Center | Technical Director.
Naval Surface Warfare Center, Crane Division | Executive Director.
Naval Undersea Warfare Center, Div, Keyport, WA. | Executive Director.
Naval Surface Warfare Center, Pt. Hueneme Division | Executive Director.
Naval Surface Warfare Center, Indian Head Division | Executive Director.
Coastal Systems Station | Executive Director.
| Head, Coastal Sci, Technology & Analysis Dept.
| Head, Coastal Warfare Systems Department.
Naval Surface Warfare Center, Carderock Division | Director for Hydrodynamics.
| Executive Director.
| Assoc Dir for Hydromechanics/Head, Hd.
| Assoc Dir for Syst/P & H Ship S/P Directorate.
| Director for Ship Signatures.
| Assoc Dir for SS & M/HSS & M Directorate.
| Assoc Dir for MISE/HMIS Eng Directorate.
Naval Surface Warfare Center, Dahlgren Division | Head, Weapons Systems Department.
| Head, Combat Systems Department.
| Exec Director.
| Deputy Executive Director.
| Head Strategic & Strike Systems Dept.
| Head, Systems Res & Technology Department.
| Head Joint Warfare Applications Dept.
| Head Warfare Analysis & Systems Dept.
Naval Undersea Warfare Center Division, Newport, RI | Head, Submarine Sonar Department.
| Executive Director.
| Head Test and Evaluation Dept.
| Director for Submarine Combat Systems.
| Director, Submarine Warfare Systems.
| Director, Surface Undersea Warfare.
| Hd, Submarine Electromagnetic Sys Dept.
| Head Combat Control Systems Department.
| Head, Torpedo Systems Department.
Naval Supply Systems Command HdQTRS | Asst Dep Commander for Fin Mgmt/Comptroller.
| Director, Defense Technology Analysis Office.
| Counsel.
| Assistant Deputy Commander for Electronic Business.
| Executive Director Office of Special Projects.
| Assistant Commander for Fleet Logistics Ops.
| Executive Director.
Naval Inventory Control Point | Vice Commander.
Navy Fleet Material Support Office | Executive Director.
U.S. Marine Corps Headquarters Office | Dep Dir Facilities & Services Division.
| Assistant Deputy Commandant for Installations and Logistics (Contracts).
| Counsel for the Commandant.
| Deputy Counsel for the Commandant.
| Director of Administration and Resources.
| Asst Dep Chf for Prog & Resource Fiscal Div.
| Asst Dep Chf of Staff for Installations & Log.
| Asst to the Dep Chf of Staff for M & R Affs.
| Asst Dep Chf of Staff for Requirements & Prog.
Marine Corps Systems Command | Deputy Commander, C4ISR.
| Executive Director.
| Deputy for Financial Management.
Marine Corps Materiel Command Albany GA | Executive Director.
Office of Naval Research | Dir, Ship Structures & Systems S&T Div.
| Dir, Mechanics & Energy Conversion S&T Div.
| Director, Marine Corps Science & Technology.
| Director, Physical Sciences S&T Division.
| Commercial Technology Transition Officer.
| Executive Director/Technical Director.
| Head Special Programs Department.
| Executive Dir for Acquisition Management.
| Dir Financial Management Comptroller.
| Patent Counsel.
| Head Engineering.
| Dir Strike Technology Division.
| Dir Math Computer & Information Science Div.
| Dir Oas S & T Processes & Prediction Division.
| Director of Science and Technology.
| Dir Oas at Sensing & Systems Division.
| Head, Industrial and Corporate Programs Department.
| Dir Cognitive & Neural Science & Tech Div.
| Head, Human Systems S & T Department.
| Dir, Bimolecular & Biosyst Sci & Techn Div.
| Head Info Electronics & Surveil Sci Tech Dept.
| Dir of Surveillance Communications Electronic.
| Director, Electronics Division.
| Head Ocean Atmosphere Space Sci Tech Dept.
| Associate Technical Director.
| Director, Naval Fleet/Force Tech Innovation Office.
| Dir Materials Sci and Technology Division.
| Assoc for Integration Oas St Sensing Sys Div.
Naval Research Laboratory | Chf Sci, Lab for Structure of Matter.
| Dir of Research.
| Assoc Dir of Res for Matl Sci & Comp Technol.
| Superintendent, Chemistry Division.
| Superintendent, Optical Sciences Div.
| Superintendent Space Science Div.
| Supt, Radar Div.
| Supt Materials Sci and Tech Division.
| Supt, Acoustics Div.
| Superintendent, Plasma Physics Div.
| Superintendent Electronics Technology Div.
| Superintendent Info Technol Div.
| Supt, Tactical Electronic Warfare Div.
| Chief Scientist Lab for Compt Phy Fluid Dynam.
| Superintendent, Remote Sensing Division.
| Assoc Dir of Res for Business Operations.
| Chief Sci & Head, Beam Physics Program.
| Superintendent, Marine Meteorology Division.
| Mgr. Joint Space Systems Technology Programs.
| Assoc Dir Res for Ocean & Atmospheric Sci Tec.
| Superintendent Ctr Bio/Molecular Science Eng.
| Head Elect Warfare Strategic Planning Org.
| Assoc Dir of Res for Warfare Sys & Senors Res.
| Superintendent, Space Syst Development Dep.
| Superintendent, Oceanography Division.
| Superintendent, Spacecraft Engineering Dep.
| Dir, Naval Center for Space Technology.
| Superintendent, Marine Geosciences Division.
Defense Nuclear Facilities Safety Board:
Defense Nuclear Facilities Safety Board | Dep Gen Counsel for Pol & Litigation.
| Deputy General Manager.
| Tech Adv for Hazards Anal & Health Physics.
| Technical Advisory for Technical Studies.
| Technical Lead for Engineering Programs.
| Technical Lead for Nuclear Weapons Programs.
| Technical Lead for Materials Processing & Environmental.
| Restoration Programs.
Department of Education:
Ofc of the Chief Financial Officer | Deputy Chief Financial Officer.
| Dir Financial Management Operations.
Office of the Chief Information Officer | Deputy Chief Information Officer.
| Chief Information Officer.
| Dep Chief Info Officer (Operations Engineering).
| Dep Chief Information Officer for Info Management.
| Deputy CIO for Information Assurances.
Office of Management | Chairperson, Education Appeal Board.
| Dir Human Resources Group.
Office of Inspector General | Counsel to the Inspector General.
| Deputy Inspector General.
| Deputy Assistant IG for Audit Services.
| Assistant Inspector General for Audit Services.
| Assistant IG for Investigative Services.
Office of the General Counsel | Asst Gen Coun for Busin & Adm Law.
| Asst General Counsel for Educational Equity.
| Asst Gen Counsel for Regulations.
| Asst Gen Coun for Div of Legislative Counsel.
| Asst Gen Coun for Postsecondary Ed & Ed Res.
National Center for Education Statistics | Associate Commr for Data Collection and Dissemination.
| Deputy Commissioner.
| Associate Commissioner for Assessment.
Student Financial Assistance | Chief Financial Officer.
| Director, Collections.
| Director, Student Aid Awareness.
| Deputy Chief Financial Officer.
Department of Energy:
National Nuclear Security Administration | Chief of Defense Nuclear Counterintelligence.
Deputy Administrator for Defense Programs | Assoc Das for Program A & F Management.
Office of Counterintelligence | Deputy Director.
Office of Security and Emergency Operations | Dir Ofc of Classification & Technology.
| Dep Dir, Ofc of Security Affairs.
| Director, Office of Security Affairs.
Office of Independent Oversight & Performance Assurance | Director, Office of Safeguards and Security Evaluations.
Office of Safeguards & Security Evaluations | Director, Office of Independent Oversight & Performance.
| Deputy Director, Office of Independent Oversight & Performance.
Office of Chief Financial Officer | Dir Ofc of Budget.
| Dep Dir Ofc of Budget.
| Director, Budget Analysis Division.
| Director Capital Accounting Center.
| Director, Budget Operations Division.
| Dir Ofc of Dep Accounting & Fin Sys Dev
| Dir Ofc of Financial Policy.
| Dir Ofc Compliance and Audit Liaison.
| Deputy Controller.
| Controller.
Office of Economic Impact & Diversity | Dir of Sm and Disadv Bus Utilz.
Assistant Secretary for Energy Efficiency & Renewable Energy | Manager, Golden Field Office.
Assistant Secretary for Environment, Safety & Health | Dir Nuclear Operations & Analysis.
| Dir Office of Environmental Compliance.
| Deputy Director Ofc of ES&H Evaluations.
| Dir Office of Price-Anderson Enforcement.
| Dir Ofc of Nuclear Safety, Policy and Standards.
| Dir Office of Regulatory Liaison.
| Director, Office of Environment, Safety, and Health Evaluations.
| Dir, Ofc of Oil and Gas.
Energy Information Administration | Dir Ofc of Coal Nucl Elec & Altern Fuels.
| Director, Ofc of Energy Markets & End Use.
| Director Economics & Statistics Division.
| Director, Statistical and Methods Group.
| Director, Natural Gas Division.
| Director, Petroleum Division.
| Dir, Ofc of Integration Nal & Forecasting.
| Director, Coal 7 Electrical Power Division.
| Director, Electrical Power Division.
| Director, International Economic & Greenhouse Gases Division.
| Dir Survey Mgmt Div.
| Director, Information Technology Group.
Assistant Secretary for Environmental Management | Director, Office of Research & Development.
| Assoc Das for Oversight & Self-Assessement.
| Director, Office of Acquisition Management.
| Director, Office of Budget.
| Science Advisor.
| Director, Office of Budget.
Office of Science | Dir Chem Sci Div.
| Dir Adv Egy Proj Div.
| Chf Processes and Tech Br.
| Dir High En Physics Div.
| Director, Human Health & Assessment Div.
| Deputy Dir for Management.
| Dir. Health Effects & Life Sci Research Div.
| Deputy Dir for Nuclear Safety Safeguard.
| Dir, Office of Assessment & Support.
| Assoc Dir Ofc of Computational & Tech Researc.
| Director, Financial Management Division.
Office of Fossil Energy | Director, Materials Partnerships Research Center.
Office of Field Management | Deputy Manager, DOE Field Office, Ch.
Albuquerque Operations Office | Director, Weapons Surety Division.
| Dir Transportation Safeguards Div.
| Dir, Weapons Programs Div.
| Asst Manager for Management & Administration.
| Carlsbad Area Office Manager.
| Chief Financial Officer.
Chicago Operations Office | Acquisition & Asst Group Manager.
| Area Manager, Fermi.
| Asst Mgr for Laboratory Management.
Idaho Operations Office | Assistant Manager for Administration.
| Asst Mgr Ofc of Program Execution.
| Asst Manager for Applied E & T Transfer.
Nevada Operations Office | Chief Counsel.
| Asst Manager for Business & Financial Service.
Ohio Field Office | Manager Ohio Field Ofc.
| Deputy Manager, Ohio Field Office.
| Director, Fernald Environmental Management Projects.
Oakland Operations Office | Field Chf Fin Officer and Business Manager.
| Assoc Manager for Site Management.
Oak Ridge Operations Office | Asst Manager for Administration.
| Chief Financial Officer.
Rocky Flats Office | Dep Asst Mgr for Matl Stabilization & Disp.
| Manager, Rocky Flats Field Office.
Savannah River Operations Office | Asst Manager for Business & Logistics.
Office of Hearings & Appeals | Dep Dir for Legal Analysis.
| Dep Dir for Financial Analysis.
| Dep Dir for Econ Analysis.
Office of Management and Administration | Dir, HQ Personnel Operations Div.
| Director, Office of Administration.
| Associate Dir, Office of Resource Mgmt.
| Dep Dir of Administrative Services (Wash, DC).
| Dep Dir of Personnel.
| Director, Office of Procurement and Assistance Policy.
| Dir Ofc of Mgmt Sys (Competition Advocate).
| Director Ofc Contract & Resource Management.
| Executive Assistant to the Director.
| Dir, Headquarters & Executive Personnel Serv.
| Chief Information Officer/Director of Information Management.
Office of Inspector General | Asst Inspector General for Investigations.
| Manager, Western Regional Audit Office.
| Director, Audit Policy, Plans & Programs.
| Manager, Eastern Regional Audit Office.
| Dir Capitol Regional Audit Office.
| Deputy Asst Inspector Gen For NNSA and Other Dep'l Investigations.
| Spec Asst for Policy and Planning.
| Counsel to the Inspector General.
| Dir, Office of Contractor Employee Protection.
| Asst Inspector General for Resource Mgmt.
| Principal Deputy Inspector General.
| Assistant Inspector General for Audits.
| Deputy Inspector General for Inspections.
| Deputy Inspector General for Audits.
| Director for Financial Audits.
| Director for Performance Audits and Administration.
| Assistant Inspector General for Audit Services.
| Manager, Capital Regional Audit Office.
| Assistant Inspector General for Inspections.
| Principal Deputy Inspector General.
| Deputy Inspector General for Audit Services.
| Director of NNSA Audits.
Office of Nuclear Energy, Science & Technology | Dir Advanced Submarine Systems Division.
| Dir Instrumentation & Control Div.
| Asst Program Manager for Surface Ships.
| Deputy Director for Naval Reactors.
| Senior Naval Reactors Rep (Pearl Harbor).
| Director Nuclear Technology Div.
| Dir Reactor Engineering Division.
| Head, Core Manufacturing Branch.
| Dep Director Reactor Materials Division.
| Director, Fiscal Division.
| Asst Manager for Operations.
| Program Manager for Shipyard Matters.
| Dir Nuclear Components Division.
| Senior Naval Reactors Representative.
| Manager, Idaho Branch Office.
| Program Manager Submarine Technology Develop.
| Assoc Dir, Isotope Production & Distribution.
| Asst Manager for Operations.
| Prog Mgr for Analysis & Regulatory Matters.
| Director Acquisition Division.
| Director for Submarine Refuelings.
| Senior Naval Reactors Representative.
| Dep Program Mgr for Commissioned Subs.
| Prog Mgr Prototype & Moored Training Ship.
| Dir Regulatory Affairs.
Western Area Power Administration | Chief Administrative Officer.
| Chief Financial Officer.
Environmental Protection Agency:
Ofc of the Administrator | Director, Office of Executive Support.
Office of the Chief Financial Officer | Deputy Chief Financial Officer.
| Director, Financial Management Division.
Office of the Comptroller | Comptroller.
| Deputy Comptroller.
| Director, Annual Planning & Budget Division.
Office of Planning, Analysis & Accountability | Director, Financial Services Division.
| Director, Office of Planning Analy & Account.
| Deputy Director, Ofice of Planning, Analysis & Accountability.
Office of Environmental Information | Deputy Director, Office of Information Analysis & Access.
| Deputy Director, Ofc of Technical Operations & Planning.
| Director, Office of Technical Operations & Planning.
| Director, Office of Planning, Resources & Outreach.
| Director, National Technology Services Division.
Ofc of the Asst Admr for Admin & Resources Management | Director, Ofc of Pol & Resource Mgmt.
| Dep Asst Admr for Admin & Res Mgmt.
Office of Administration | Dir Ofc of Administration.
| Deputy Dir Ofc of Administration.
| Dir, Facilities Management & Services Div.
| Dir, Sfty, Health & Environmental Mgmt Div.
| Senior Advisor to the Director, Office of Administration.
Ofc of Administration & Resources Mgmt—Cincinnati OH | Dir Ofc of Admin and Resources Management.
Office of Administration & Resources Mgmt—RTP, NC | Director Office of Administration & Res Mgmt.
Ofc of Human Resources and Organizational Services | Dir Office of Human Resources & Org Services.
| Dep Dir Ofc of Human Resources & Org Services.
| Assoc Director for Reengineering & Automation.
| Dir Exec Resources & Special Programs Staff.
Office of Acquisition Management | Dir, Superfund/RCRA Regl Procurement Ops/Div.
| Director, Office of Acquisition Management
| Dep Dir, Office of Acquisition Management.
Office of Grants and Debarment | Dir, Grants Admin Div.
| Director, Office of Grants & Debarment.
Office of the Asst Admr for Enf & Comp Assurance | Director, Ofc of Environmental Justice.
Office of Federal Activities | Dir, International Enforcement Program Div.
Office of Regulatory Enforcement | Director, Office of Regulatory Enforcement.
| Dep Dir, Office of Regulatory Enforcement.
| Dir Air Enforcement Division.
Office of Criminal Enforcement, Forensics & Training | Dir Natl Enforcement Training Institute.
| Dir Ofc of Criminal Enforce Forensics Train.
| Director, Criminal Investigations Division.
| Deputy Director, Office of Criminal Enforcement, Forensics Training.
Office of Compliance | Director, Office of Compliance.
| Dir, Enforcement PLNG, Targeting & Date Div.
| Dir, Manufacturing, E & T Division.
| Deputy Director, Office of Compliance.
| Dir, Import-Export Program.
Office of Site Remediation Enforcement | Director, Ofc of Site Remediation Enforcement.
| Dep Dir, Ofc of Site Remediation Enforcement.
Federal Facilities Enforcement Office | Dir Federal Facilities Enforcement Office.
Office of the Inspector General | Counsel to the Inspector General.
| Assistant Inspector General for Program Evaluation.
Office of Investigations | Assist Inspector Gen for Investigations.
| Dep Asst Inspector General for Investigations.
Office of Audit | Asst Inspector General for Audits.
| Dep Asst Inspector General for External Audits.
| Dep Asst Inspector General for Internal Audit.
Office of Management | Assistant Inspector General for Management.
Office of Planning, Analysis & Results | Asst. Inspector General for Planning, Analysis & Results.
Office of Wastewater | Director, Municipal Support Division.
| Deputy Director, Municipal Support Division.
| Director, Water Permits Division.
Office of Science and Technology | Dir, Standards & Applied Science Division.
| Dir, Health & Ecological Criteria Division.
| Director, Engineering & Analysis Division.
Office of Wetlands, Oceans and Watersheds | Dir, Assessment & Watershed Protection Div.
| Dir, Oceans & Coastal Protection Division.
| Director, Wetlands Division.
Office of Ground Water & Drinking Water | Dir, E & P Implementation Division.
| Director, Standards & Risk Mgmt Division.
| Dir Implementation & Assistance.
Ofc of the Asst Admr for Solid Waste and Emgy Resp | Director, Outreach and Special Projects Staff.
| Director, Federal Facilities Restoration and Reuse Office.
Office of Solid Waste | Dir Hazardous Waste Identification Division.
| Director, Hazardous Waste Minimization & Management Division.
| Dir., Economics, Methods and Risk Analysis Division.
Office of Air Quality Planning and Standards | Dir, Emission Standards Division.
| Dir Air Quality Strategies & Standards Div.
| Dir Emissions Monitoring & Analysis Division.
| Dir., Info. Transfer and Program Integration Division.
Office of Transportation & Air Quality | Director, Advanced Technology Division.
| Director, Transportation & Regional Programs Divisions.
| Director, Assessment & Standards Division.
| Director, Certification & Compliance Division.
Office of Radiation & Indoor Air | Director, Indoor Environments Division.
| Deputy Director, Office of Radiation and Indoor Air.
| Director, Radiation Protection Division.
Office of Atmospheric Programs | Director, Clean Air Markets Division.
| Director, Atmospheric Pollution Prevention Division.
Office of the Asst Admr for Prevention P & T Substances | Associate Assistant Administrator (Mgmt.).
Office of Pesticide Programs | Dir-Registration Division.
| Dir, Biological & Economic Analysis Division.
| Dir, Spec Review & Reregistration Division.
| Dir Envir Fate and Effects Division.
| Dir Antimicrobials Division.
| Dir Field & External Affairs Division.
| Dir Inf Resources & Services Division.
| Director, Biopesticides and Pollution Prevention Division.
| Dep Director Office of Pesticides Programs (Mgmt.).
Office of Pollution Prevention and Toxics | Dir, Economics Exposure and Technology Div.
| Director, Chemical Control Division.
| Director, Information Management Division.
| Dir, Pollution Prevention Div.
| Director, Chemicals Division.
| Dir Health Effects Division.
| Director, Risk Assessment Division.
Office of Science Coordination and Policy | Director, Office of Science Coordination & Policy.
Office of Resources Management and Administration | Dir, Ofc of Resources Mgmt & Admin.
Office of Science Policy | Director, Office of Science Policy.
National Health & Environmental Effects Res Lab (RTP) | Dir Natl Health & Envir Effects Res Lab (RTP).
| Assoc Dir for Health (NHEERL)—RTP.
| Assoc Dir for Ecology (NHEERL)—RTP.
| Dep Dir For Management (NHEERL)—RTP.
Atlantic Ecology Division-Narragansett | Director, Atlantic Ecology Division.
Western Ecology Division-Corvallis | Dir Western Ecology Division Corvallis.
Gulf Ecology Division-Gulf Breeze | Director, Gulf Ecology Division.
Mid-Continent Ecology Division | Director, Mid-Continent Ecology Division.
Experimental Toxicology Division | Director, Experimental Toxicolgy Division.
National Exposure Research Laboratory (RTP) | Dir, Natl Exposure Research Laboratory—RTP.
| Dep Dir for Management (NERL)—RTP.
| Assoc Dir for Ecology (NERL)—RTP.
Environmental Sciences Division-Las Vegas | Dir Environmental Sciences Division.
Environmental Sciences Division-Athens | Dir Ecosystems Res Div Athens.
Human Exposure and Atmospheric Science Division | Director, Human Exposure & Atmospheric Science Division.
National Risk Mgmt Research Laboratory (Cincinnati) | Dir, Natl Risk Mgmt Research Laboratory—CN.
| Dep Dir for Management (NRMRL)—CN.
| Assoc Dir for Health (NRMRL)—CN.
| Director, Water Supply & Water Resources Division.
Air Pollution Prevention and Control Division—RTP | Dir Air Pollution Prevention Control Div.
Subsurface Processes and Systems Division—ADA | Dir Sub-Surface Process & Systems Division.
National Center for Environmental Assessment | Dir Natl Ctr for Environmental Assessment.
| Assoc Dir for Health (NCEA).
| Assoc Dir for Ecology (NCEA).
| Deputy Director for Management.
National Center for Environmental Assessment—RTP | Dir Natl Ctr Environ Assessment.
National Center for Environmental Assessment—Cincinnati | Dir Natl Ctr for Environmental Assessment.
Natl Center for Environmental Res & Quality Assurance | Deputy Dir for Mgmt (NCERQA).
| Dir Environmental Engineer Research Division.
| Dir Natl Ctr for Env Res & Quality Assurance.
Region I—Boston | Regional Counsel.
| Dir Ofc of Ecosystem Protection.
| Dir Ofc of Site Remediation Restoration.
| Dir, Ofc of Administration & Resources Mgmt.
| Dir, Ofc of Strategic Alignment.
| Director, Office of Environmental Stewardship.
Region II—New York | Asst Regl Admr for Policy and Management.
| Regional Counsel.
| Dir, Office of Emergency & Remedial Response.
| Director, Environmental Planning & Protection Division.
| Dir, Div of Enforcement & Compliance Asst.
| Director, Environmental Science & Assessment Division.
| Director, Caribbean Environmental Protection Division.
Region III—Philadelphia | Regional Counsel.
| Director, Water Protection Division.
| Director, Environmental Services Division.
| Asst Reg Admin for Policy & Management.
| Dir Chesapeake Bay Program Office.
| Director, Air Protection Division.
| Director, Hazardous Site Cleanup Division.
| Director, Waste & Chemical Management Division.
Region IV—Atlanta | Dir Water Management Division.
| Asst Regional Admin for Policy and Mgmt.
| Regional Counsel.
| Director Waste Management Division.
| Director, Science & Ecosystem Support Div.
| Director, Air, Pesticides and Toxics Management Division.
Region V—Chicago | Director, Air & Radiation Division.
| Director Water Management Division.
| Regional Counsel.
| Dir Waste Pesticides & Toxics Division.
| Dir Great Lakes Natl Prog Ofc.
| Director Superfund Division.
| Asst Reg Admr for Resources Management.
Region VI—Dallas | Asst Regional Admr for Management.
| Regional Counsel.
| Director, Compliance A & E Division.
| Dir Superfund Division.
| Dir Water Quality Protection Division.
| Dir Multimedia Plann & Permitting.
Region VII—Kansas City | Regional Counsel.
| Asst Regional Admin for Policy & Management.
| Dir Superfund Division.
| Dir Air RCRA and Toxics Division.
| Dir Water Wetlands & Pesticides Division.
Region VIII—Denver | Assistant Regional Administrator for Ecosystems Protection & Remediation.
| Assistant Regional Administrator for Pollution Prevention, State & Tribal Programs.
| Assistant Regional Administrator for Technical & Management Services.
| Regional Counsel.
Region IX—San Francisco | Director, Water Management Division.
| Director, Air Division.
| Regional Counsel.
| Asst Regional Admr for Policy & Management.
| Dir, Strategic Planning & Emerging Issues.
| Dir Superfund Division.
| Director, Cross Media Division.
Region X—Seattle | Regional Counsel.
| Assistant Regional Administrator for Management Programs.
| Asst Reg Admr for Water.
| Director, Office of Ecosystems and Communities.
| Director, Office of Environmental Cleanup.
Equal Employment Opportunity Commission:
Office of the Chairman | Inspector General.
Office of Field Programs | District Director (Baltimore).
| Dist Dir (New York).
| Dist Dir (Atlanta).
| Dist Dir (Houston).
| District Director (Detroit).
| Dist Dir (San Francisco).
| Dist Dir (Dallas).
| Dist Dir (Chicago).
| Dist Dir—(St Louis).
| Dist Dir (Miami).
| Dist Dir—(Indianapolis).
| Dist Dir (Memphis).
| District Director (Los Angeles).
| Dist Dir—(Denver).
| Dist Dir—(Birmingham).
| Dist Dir—(New Orleans).
| Dist Dir—(Phoenix).
| Dist Dir—(San Antonio).
| Dist Dir—(Charlotte).
| District Director (Seattle).
| District Director (Cleveland).
| Dist Dir—(Philadelphia).
| District Director (Milwaukee).
| Program Manager.
Field Management Programs | Director Field Management Programs.
Field Coordination Programs | Director, Field Coordination Programs.
Federal Communications Commission:
Office of Inspector General | Inspector General.
Office of the Managing Director | Assoc Managing Director/Human Resources Mgmt.
Office of Engineering & Technology | Assistant Bureau Chief for Technology.
Compliance and Information Bureau | Chief Enforcement Division.
Common Carrier Bureau | Chief, Competitive Pricing Division.
| Chief, Accounting Safeguards Division.
Mass Media Bureau | Chief Audio Services Division.
| Chief Video Services Division
| Chf, Enforcement Div.
Federal Emergency Management Agency:
Office of Inspector General | Deputy Inspector General.
| Asst Inspector General for Auditing.
| Asst Inspector General for Investigations.
Human Resources Division | Division Director.
Financial & Acquisition Management Division | Deputy Chief Financial Officer.
| Senior Procurement Executive.
| Chief Financial Officer.
| Deputy Chief Financial Officer.
| Senior Procurement Executive.
Federal Insurance & Mitigation Administration | Division Director, Technical Services Division
| Deputy Administrator for Insurance.
| Deputy Administrator for Mitigation.
| Director, Program Support Division.
Mitigation Planning & Delivery Division | Division Director.
Readiness, Response & Recovery Directorate | Div Dir, Human Services Support Division.
| Div Dir, Infrastructure Support Division.
Recovery Division | Division Director.
External Affairs Directorate | Deputy Administrator.
Federal Energy Regulatory Commission (DOE):
Ofc of Chief Accountant | Chief Accountant and Deputy Director.
Office of Energy Projects | Dir Div of Dam Safety & Inspections.
Office of the Executive Director | Director, Regulatory Accounting Policy.
| Deputy Executive Director and Chief Accountant.
Federal Labor Relations Authority:
Office of the Chairman | Solicitor.
| Chief Counsel.
Office of Member | Chief Counsel.
Office of Member | Chief Counsel.
Federal Service Impasses Panel | Exec Director FSIP.
Ofc of the Executive Director | Executive Director.
Ofc of the General Counsel | Deputy General Counsel.
| Director of Operations & Resources Management.
Regional Offices | Regional Director—Washington, DC.
| Regional Director—Boston.
| Regional Director—Atlanta.
| Regional Director—Dallas.
| Regional Director, Chicago, Illinois.
| Regional Director, San Francisco.
| Regional Director, Denver.
Federal Maritime Commission:
Office of the Secretary | Secretary.
Office of the General Counsel | Dep Gen Cnsl for Reports Opinions & Decisions.
Office of the Executive Director | Deputy Executive Director.
Bureau of Consumer Complaints and Licensing | Director, Bureau of Consumer Complaints and Licensing.
Bureau of Trade Analysis | Director, Bureau of Trade Analysis.
Bureau of Enforcement | Deputy Director Bureau of Enforcement.
| Dir Bureau of Enforcement.
Federal Retirement Thrift Investment Board:
Federal Retirement Thrift Investment Board | Director of Investments.
| Director of Contracts & Administration.
| Director of Automated Systems.
| Director of Accounting.
| Director of Communications.
| Associate General Counsel.
| Deputy Director of External Affairs.
| Director of the Office of Benefits & Investments.
Federal Trade Commission:
Office of the Inspector General | Inspector General.
Office of the General Counsel | Deputy General Counsel.
Ofc of Executive Director | Deputy Exec Dir for Management.
| Chief Information Officer.
| Deputy Executive Director.
General Services Administration:
Office of the Chief People Officer | Chief People Officer.
| Chief Information Officer.
| Director Human Resources Policy & Operations.
| Deputy Chief Information Officer.
Office of Governmentwide Policy | Deputy Associate Admin for Acquisition Policy.
| Deputy Assoc Administrator for Real Property.
| Director of Intergovernmental Solutions.
| Deputy Association Administrator for Transportation & Personal Property.
Office of Inspector General | Asst Inspector Gen for Auditing.
| Deputy Inspector General.
| Deputy Asst Inspector General for Auditing.
| Counsel to the Inspector General.
| Asst Inspector Gen for Investigations.
| Dep Asst Inspector General for Investigations.
Office of the Chief Financial Officer | Director of Finance.
| Director of Budget.
| Chief Financial Officer.
| Dir of Financial Management Systems.
Public Buildings Service | Assistant Commr for Fed Protective Service.
| Asst Comm for Portfolio Management.
| Assistant Commr for Property Disposal.
| Asst Commissioner for Financial & Info System.
| Assistant Commissioner for Business Performance.
| Chief Financial Officer.
| Project Management Executive.
| Asst Comm for Real Estate Policy/Sales (FPRS).
Federal Technology Service | Assistant Commissioner for Serv Development.
| Assistant Commissioner for Service Delivery.
| Asst Commr for Info Technology Integration.
| Assistant Commissioner for Regional Services.
| Asst Commissioner for S P & Business Dev.
| Asst Commissioner for Acquisition.
| Assistant Commissioner for Information Security.
| Assistant Commissioner for Information Security.
| Assistant Commissioner for Sales.
Office of the Chief Information Officer | Assistant Chief Information Officer.
| Assistant Chief Information Officer.
Federal Supply Service | Asst Commissioner for Acquisition.
| Asst Comr for Transportation & Property Mgt.
| Asst Comm for Bus Management & Marketing.
| Asst Comm for Distribution Mgt.
| Dep Asst Commissioner for Acquisition.
| Fss Chief Information Officer.
| Ast Comm for Vehicle Acquisition & Leasing Svc
| Assistant Commissioner for Supply.
| Assistant Commissioner for Enterprise Planning.
New England Region | Asst Reg Admr for Public Bldg Service.
Northeast & Caribbean Region | Asst Reg Admr for Public Bldg Service.
| Asst Reg Admr for Federal Supply Service.
Mid-Atlantic Region | Asst Reg Admr for Public Bldg Service.
| Asst Regl Admr Federal Supply Service.
| Regional Counsel.
National Capital Region | Assistant Regional Administrator, PBS, NCR.
Southeast Sunbelt Region | Asst Reg Admr for Public Bldg Service.
| Assistant Reg Admin for Fed Tech Service.
| Asst Reg Admr for Federal Supply & Services.
| Deputy Assistant Regional Administrator, PBS
Great Lakes Region | Asst Reg Admr for Public Bldg Service.
The Heartland Region | Asst Reg Admr for Public Bldg Service.
Greater Southwest Region | Asst Reg Admr for Public Bldg Service.
| Asst Regional Admin for Federal Tech Service.
| Asst Reg Admr for Federal Supply Service.
Rocky Mountain Region | Asst Reg Admr for Public Bldg Service.
Pacific Rim Region | Asst Reg Admr for Public Buildings Service.
| Asst Reg Admr for Federal Supply Service.
| Senior Advisor.
Northwest/Arctic Region | Asst Regional Administrator, PBS Region 10.
Department of Health and Human Services:
ODAS for Budget | Dir Div of Integrity & Organ Review.
ODAS for Finance | Dep Asst Sec, Finance.
| Dir, Office of Financial Policy.
ODAS for Grants & Acquisition Management | Dep Asst Secy, OGAM.
ODAS for Planning and Evaluation | Dep to Deputy Asst Secry for Plann & Evaluat.
ODAS for Public Health and Science | Dir Div of Research Investigations.
| Dir Ofc of HIV/AIDS Policy.
| Dep Dir Ofc of Management.
| Reg Health Administrator.
| Director, Office of Research Integrity.
Associate General Counsel Divisions | Assoc Gen Coun, Business & Adm Law Division.
| Dep Assoc Gen Counl, Bus & Adm Law Div.
Office of the Inspector General | Dep Asst Inspector General for Audit.
| Principal Dep Inspector General.
| Deputy Inspector General for Mgmt & Policy.
| Dep Inspector General for Legal Affairs.
ODIG for Investigations | Dep Insp Gen for Investigations.
| Asst Insp General for Criminal Investigations.
| Asst Insp Gen for Civil & Adm Remedies.
| Asst Insp Gen for Investigation P & O.
| Dep Insp General for Enforcement & Compliance.
ODIG for Audit Services | Dep Inspector General for Audit Services.
| Asst Insp Gen for Adm of C/F & Agin Audits.
| Asst Inspector Gen for Health Care Fin Audits.
| Asst Inspector Gen for Audit Pol & Oversight.
| Asst Insp Gen for Public Health Serv Audits.
ODIG for Evaluation & Inspections | Dep Insp Gen for Evaluation & Inspections.
Program Support Center | Dir Program Support Center.
| Dep Dir of Operations.
Office of Financial Management Service | Director, Financial Management Service.
Office of Program Support | Dir Ofc of Financial Support.
Office of the Actuary (OACT) | Dir, Ofc of the Actuary (Chief Actuary).
| Director, Ofc of Medicare & Medicaid Cost Est.
Center for Beneficiary Choices (CBC) | Deputy Director, Center for Beneficiary Services (Medicare Contractor Mgmt).
| Associate Deputy Director, CBS (Contract Management).
Office of Internal Customer Support (OICS) | Director, Ofc of Internal Customer Support.
Office of Information Services (OIS) | Director, Office of Information Services (Chief Information Office).
| Dep Dir Ofc of Info Services.
Office of Financial Management (OFM) | Deputy Director, Ofc of Financial Management.
| Dir Ofc of Financing Management.
| Dep Dir Ofc Financial Management.
| Dir Program Integrity Group.
| Dir Financial Services Group.
| Deputy Director, CFO Audit Internal Controls.
Office of the Admnistrator | Assoc Admin for Policy & Prog Coordinator.
Center for Substance Abuse Prevention | Dir, Div of State & Community Systems Dev.
Center for Mental Health Services | Director Center for Mental Health Services.
| Dir Div of Stste & Community Systems Develop.
Centers for Disease Control & Prevention | Director, Financial Management Office.
| Director, Office of Facilities Planning and Management.
| Deputy Director for Finance and Accounting.
Natl Institute for Occupational Safety & Health | Deputy Director for Management.
National Center for Chronic Disease Prevention & Hlth Promotion | Director, Office on Smoking and Health.
National Center for HIVN STD and TB Prevention | Associate Director for Management and Operations.
Office of Chief Counsel | Deputy Chief Counsel for Program Review.
| Assoc. Deputy Chief Counsel for Drugs & Biologics.
| Assoc. Dep. Chf. Cnsel for Devices, Foods & Veterinary Medicine.
Office of Management and Systems | Director, Office of Financial Mgmt.
Office of Regulatory Affairs | Dep Assoc Comr for Regulatory Affairs.
| Regl Food & Drug Director, NE Region.
| Regl Food & Drug Director, Southeast Region.
| Regl Food & Drug Director, Southwest Region.
| Dir Ofc of Criminal Investigations.
| Regional Food and Drug Director, Central Region.
| District Food and Drug Director, New York District.
| Deputy Director for Investigations.
| District Food and Drug Director, Los Angeles District.
Center for Drug Evaluation and Research | Director, Office of Management.
| Dir. Div of Imaging S & D Products.
| Director, Office of Generic Drugs.
| Dir, Office of Epidemiology & Biostatistics.
| Director, Office of Compliance.
| Senior Advisor for Policy.
Center for Devices and Radiological Health | Dir Office of Compliance.
| Dir, Office of Science and Technology.
| Dir Ofc of Sys & Management.
Center for Food Safety and Applied Nutrition | Director, Office of Seafood.
| Dir Ofc of Premarket Approval.
| Dir Ofc of Field Programs.
| Dir, Ofc of Plant & Dairy Foods & Beverages.
| Director, Office of Regulations and Policy.
Center for Veterinary Medicine | Director, Office of Science.
| Director, Office of Surveillance and Compliance.
Office of Special Programs | Director, Office of Special Programs.
HIV/AIDS Bureau | Director, Office of Science and Epidemiology.
Office of the Director | Director, Div of Financial Management.
| Director, Division of Contracts & Grants.
| Associate Director for Extramural Affairs.
| Associate Director for Disease Prevention.
| Dir, Ofc of Medical Applications of Research.
| Associate Director for Administration.
| Director, Office of Policy for Extramural Research Administration.
| Senior Advisor for Policy.
| Director, Office of Reports and Analysis.
Natl Heart, Lung & Blood Institute | Dir Div of Heart & Vascular Diseases.
| Dir Div of Lung Diseases.
| Dir, Div of Blood Diseases & Resources.
| Director, Division of Extramural Affairs.
| Assoc Dir for International Programs.
| Dir Ofc of Biostatics Research.
| Dep Dir Div of Heart Vascular Diseases.
| Dep Dir Div of Epidem & Clinical Application.
| Director, Epidemiology and Biometry Program.
| Director, National Center for Sleep Disorders.
Intramural Research | Chf Lab of Biochemical Genetics.
| Chf Lab of Biochemistry.
| Chief Lab of Biophysical Chemistry.
| Chief Macromolecules Section.
| Chf, Intermediary M & B Section.
| Chf, Lab of Kidney & Electrolyte Metabolism.
| Chief Lab of Cardiac Energetics.
| Chief, Metabolic Regulation Section.
National Cancer Institute | Assoc Dir for Intramural Management.
| Assoc Director for Extramural Management.
| Associate Director, Cancer Diagnosis Program.
| Assistant Director for Financial Management.
| Deputy Director for Management.
| Associate Director, Referral Review and Program Coordination.
| Deputy Director for Administrative Operations.
Division of Cancer Biology, Diagnosis and Centers | Chf, Microbial G & B Section, Lab of Biochem.
| Chief, Lab of Biochem Intramural Res Prog.
| Assoc Dir, Extramural Research Program.
| Dep Dir, Div of Cancer Biology Diag & Centers.
| Chief Dermatology Br, Intramural Res Prog.
| Chief, Cell Mediated Immunity Section.
| Chief, Lab of Tumor & Biol Immunology, Irp.
| Dir, Div of Cancer Biology Diagnosis & Ctrs.
| Assoc Dir, Ctrs Training & Resources Prog.
Division of Cancer Etiology | Chief Lab of Biology.
| Chief Laboratory of Molecular Carcinogenesis.
| Chf Lab of Experimental Pathology.
| Dir, Div of Cancer Etiology.
Division of Cancer Prevention & Control | Dep Dir, Div of Cancer Prevention & Control.
| Associate Dir, Surveillance Program, DCPC.
| Assoc Dir, Early D & C Oncology Program.
Division of Extramural Activities | Dir, Div of Extramural Activities.
| Deputy Dir, Div of Extramural Activities.
Division of Cancer Treatment | Chf-Radiation Oncology Br.
| Assoc Dir, Cancer Therapy Evaluation Program.
Natl Institute of Diabetes & Digestive & Kidney Dis | Dir Div Kidney Urologic & Hematlogic Diseases.
| Dir Division of Extramural Activities.
| Chf, Lab of Molecular & Cellular Biology.
| Dep Dir for Management & Operations.
Intramural Research | Chief Section on Biochemical Mechanisms.
| Chf Sect on Metabolic Enzymes.
| Chf Sect on Physical Chemistry.
| Chief, Section on Molecular Structure.
| Chief Theoretical Biophysics Section.
| Chief, Laboratory of Bio-Organic Chemistry.
| Chief Oxidation Mechanisms Section L B C.
| Chief Laboratory of Biochemistry & Metabolism.
| Clinical Dir & Chief, Kidney Disease Section.
| Chief, Section on Molecular Biophysics.
| Chf, Sec Carbohydrates Lab of Chemistry/NIDDK.
| Chief, Laboratory of Neuroscience, NIDDK.
| Chf, Laboratory of Medicinal Chemistry.
| Chief, Morphogenesis Section.
Natl Inst of Arthr & Musculoskeletal & Skin Diseases | Director, Extramural Program.
| Deputy Dir.
| Associate Director for Management and Operations.
National Library of Medicine | Dep Dir, Natl Lib of Medicine.
| Dep Dir for Res and Education.
| Associate Director for Library Operations.
| Assoc Dir for Extramural Programs.
| Director, Lister Hill National C Enter for Biomedical Commun.
| Dep Dir Lister Hill Natl Ctr for Biomed Comms.
| Director, Information Systems.
| Dir Natl Ctr for Biotech Info.
| Assoc Dir for Health & Info Prog Development.
| Associate Director for Administrative Management.
Natl Inst of Allergy & Infectious Diseases | Dir, Div of Allergy/Immunology/Transplantatn.
| Chf, Lab of Parasitic Diseases.
| Dir, Div of Microbiology/Infectious Diseases.
| Chief, Lab of Immunogenetics.
| Dir, Div of Extramural Activities.
| Ch, Lab of Microbial Structure and Function.
| Chief Lab of Molecular Microbiology.
| Dir, Div Acquired Immunideficiency Syndrome.
| Chief, Biological Resources Branch.
| Head, Lymphocyte Biology Section.
| Chief, Laboratory of Infectious Diseases.
| Dep Dir Div of Acquired Immunodeficiency.
| Head Epidemiology Section.
| Chief, Laboratory of Malaria Research.
| Dir Div of Intramural Research.
| Dep Chief Lab of Imm & Head Lymp Biol Section.
Natl Inst on Aging | Scientific Director Gerontology Rsch Cntr.
| Clin Director and Chief Clin Physiology Br.
| Associate Dir for Behavioral Sciences Res.
| Assoc Dir Biology of Aging Program.
| Assoc Dir, Office of Extramural Affairs.
| Assoc Dir, Epidemi, Demo, & Biometry Program.
| Assoc Dir, Ofc of Plnng, A & I Activities.
| Assoc Dir Neurosci & Neuropsych of Aging Prog.
| Associate Director for Administration.
Natl Inst of Child Health & Human Development | Chief, Laboratory of Molecular Genetics.
| Chf, Endocrinology & Reproduction Research Br.
| Director Ctr Forres for Mothers & Children.
| Director Cntr for Population Research.
| Chief, Section on Growth Factors.
| Assoc Dir for Prevention Research.
| Chief, Laboratory of Mamalian Genes & Develop.
| Chief, Section on Molecular Endocrinology.
| Chief, Section Neuroendocrinology.
| Chief Section on Microbial Genetics.
| Chief, Laboratory of Comparative Ethology.
| Associate Director for Administration.
| Dir. Natl Center for Medical Rehab Research.
National Institute of Dental and Craniofacial Research | Chief, Laboratory of Immunology.
| Dir, Extramural Program.
| Associate Director for International Health.
| Associate Director for Management.
| Associate Director for Program Development.
Natl Inst of Environmental Health Sciences | Chf Lab of Pulmonary Pathobiology.
| Head Mutagenesis Section.
| Head Mammalian Mutagenesis Section.
| Senior Scientific Advisor.
| Associate Director for Management.
| Chief Lab of Molecular Carcinogenesis.
| Dir Natl Inst of Environmental Health Science.
| Dir Environmental Toxicology Program.
Natl Inst of General Medical Sciences | Dir Genetics Program.
| Associate Director for Extramural Activities.
| Director, Division of Pharamcology, Physiology, and Biological Chemistry.
| Dir Bio Phys Sciences Program Branch.
| Dep Dir Natl Institute of General Med Sci.
| Dir, Minority Opportunities in Res Prog Br.
| Associate Director for Administration and Operations.
Natl Inst of Neurological Disorders and Stroke | Dir, Div of Fundamental Neurosciences.
| Associate Director for Administration.
| Dir, Basic Neurosci Prog/Chf/Lab of Neurochem.
| Chf, Lab of Molecular & Cellular Neurobiology.
Intramural Research | Chief Lab of Central Nervous System Studies.
| Chf, Dev & Metabolic Neurology Branch.
| Deputy Chief, Lab of Central Nervous Sys Stud.
| Chief, Neuroimaging Branch.
| Chief, Laboratory of Neurobiology.
| Chief, Laboratory of Neura Control.
| Chief Brain Structural Platicity Section.
| Chief, Stroke Branch.
Natl Eye Institute | Chief Laboratory of Retinal Cell & Mol Biolog.
| Chief, Lab of Molecular & Dev. Biology.
| Chief, Laboratory of Sensorimotor Research.
Natl Inst on Deafness & Other Communication Disorders | Director, Division of Human Communication.
| Chief Laboratory of Cellular Biology.
| Associate Director for Administration.
| Director, Division of Extramural Research.
NIH Clinical Center | Associate Director for Planning.
| Assoc Chf, Position Emission T & R.
| Deputy Director for Management and Operations.
| Chief Financial Officer.
| Chief Operating Officer.
Center for Information Technology | Chief, Computer Center Branch.
| Deputy Director.
| Assoc Dir Ofc of Computing Resources Services.
| Senior Advisor to Director, Center for Information Technology.
John E Fogarty Intl Center | Deputy Director Fogarty International Ctr.
| Assoc Dir for Int'l Advanced Studies.
National Center for Research Resources | Dir, Natl Center for Research Resources.
| Dir, Gen Clinical Res Ctr for Res Resources.
| Dep Dir, Natl Center for Research Resources.
| Associate Director for Biomedical Technology.
| Associate Director for Comparative Medicine.
| Associate Director for Research Infrastructure.
Center for Scientific Review | Associate Director for Referral and Review.
| Assoc Dir for Statistics & Analysis.
| Director, Division of Molecular and Cellular Mechanisms.
| Director, Division of Physiological Systems.
| Director, Division of Clinical & Population-Based Studies.
National Institute of Nursing Research | Director National Cntr for Nursing Research.
| Deputy Director/Director, Division of Extramural Activities.
National Human Genome Research Institute | Deputy Director.
| Dir Div of Intramural Res Natl Ctr HGR.
| Chief Diag Devel Br Natl Ctr Human Gen Res.
| Chf, Lab of Genetic Dis Res Natl Ctr for Hgr.
| Associate Director for Management.
National Institute on Drug Abuse | Assoc Dir for Planning & Resources Management.
| Dir, Office of Extramural Program Review.
| Director Division of Clinical Research.
| Dir, Medications Development Division.
| Chief, Neuroscience Research Branch.
| Associate Director for Clinical Neuroscience & Medical AFFS, Division of Treatment Research & Development.
National Institute of Mental Health | Dep Dir, National Institute of Mental Health.
| Associate Director for Special Populations.
| Associate Director for Prevention.
| Exec Ofcr, Natl Institute of Mental Health.
| Dir, Ofc of Legislative Analysis & Coord.
| Dir, Div of Neuroscience & Behavioral Sci.
| Chief, Neuropsychiatry Branch.
| Chief, Child Psychiatry Branch.
| Chief, Biological Psychiatry Branch.
| Chief, Laboratory of Clinical Science.
| Chief, Section on Histopharmacology.
| Director, Office on AIDS.
| Chief, Section on Clinical and Experimental Neuropsychology.
| Director, Division of Mental Disorders, Behavioral Research and AIDS.
| Director, Division of Services and Intervention Research.
| Chief, Section on Cognitive Neuroscience.
National Institute on Alcohol Abuse & Alcoholism | Director, Division of Basic Research.
| Associate Director for Administration.
Agency for Healthcare Research and Quality | Dir Ctr for Outcomes & Effectiveness Research.
| Executive Officer.
| Director, Office of Research Review, Education, and Policy.
Department of Housing and Urban Development:
Office of the Inspector General | Asst Inspector General for Investigations.
| Assistant Inspector General for Audit.
| Deputy Inspector General.
| Asst Inspector General for Management & Policy.
| Deputy Asst Inspector for Investigation.
| Deputy Asst Inspector for Investigation.
| Dep Asst Inspector Gen for Audit.
| Dep Asst Inspector General for Investigation.
| Counsel to the Inspector General.
Office of the Chief Financial Officer | Assistant Chief Financial Officer for Budget.
| Deputy Chief Financial Officer.
| Assistant Chief Financial Officer for Financial Management.
| Assistant Chief Financial Officer for Accounting.
Office of the Chief Procurement Officer | Director, Office of Procurement & Contracts.
| Senior Advisor for Procurement Planning and Program Liaison.
Departmental Enforcement Center | Chief Counsel
| Deputy Director, Departmental Enforcement Center
| Associate Director, Departmental Enforcement Center.
| Director, Departmental Enforcement Center.
Departmental Real Estate Assessment Center | Deputy Director for Finance.
| Comptroller, Real Estate Assessment Center.
| Director, Real Estate Assessment Center.
Assistant Secretary for Administration | Director, Grants Management Center.
Office of the Chief Information Officer | Information Technology Advisor.
| Deputy Chief Information Officer for it Reform.
Assistant Secy for Housing | Housing/Fed Housing Adm Comptroller.
| Housing-FHA Deputy.
| Director, Office of Asset Management.
| Director, Office of Program Systems Management.
| Deputy Assistant Secretary for Finance and Budget.
Assistant Secretary for Fair Housing and Equal Opportunity | Director, Office of Enforcement.
Office of Departmental Equal Employment Opportunity | Dir, Ofc of Departmental Equal Employ Opport.
| Director, Ofc of Community Viability Comptroller.
Government National Mortgage Association | Vice President for Finance.
| Vice President, Ofc of Pol, P & R Management.
| Vice President, Office of Program Administration.
| Vice President, Office of Multifamily Programs.
| Vice President, Office of Customer Service.
| Senior Vice Pres. Office of Capital Markets and Policy.
| Senior Vice President, Office of Finance.
| Senior Vice Pres., Office of Multifamily Programs.
| Senior Vice Pres., Office of Program Operations and Support.
| Senior Vice Pres., Office of Management and Communication.
Assistant Secretary for Public and Indian Housing | Gen Dep Asst for Public & Indian Housing.
| Deputy Public & Indian Housing Comptroller.
| Dir, Ofc of Public Housing Partnership.
| Deputy Asst Sec'y, Office of Troubled Agency Recovery.
| Director, Administrative Operations.
Department of the Interior:
Office of the Inspector General | Assistant Inspector General for Auditing.
| Asst Inspector General for Investigations.
| Assistant Inspector General for Management and Policy.
| Assistant Inspector General for Strategic Initiatives.
| Assistant Inspector General for Program Integrity.
| General Counsel.
| Deputy Asst Inspector General for Audits.
Office of the Solicitor | Deputy Assoc Solicitor, General Law.
| Deputy Associate Solicitor, Division of Parks and Wildlife.
| Deputy Associate Solicitor—Mineral Resources.
| Associate Solicitor for Administration.
| Dep Assoc Solicitor Land & Water Resources.
Assistant Secretary—Policy, Management and Budget | Asst Dir for Economics.
| Manager, Science and Engineering.
| Designated Agency Ethics Official.
| Deputy Asst Secretary Budget & Finance.
| Dir, Ofc of Fin Mgmt & Dept Chf Fin Officer.
| Chief Div of Budget & Program Review.
| Deputy Agency Ethics Staff Officer.
Assistant Secretary—Fish and Wildlife and Parks | Director for Everglades Restoration.
National Park Service | Financial Advisor (Comptroller).
| Park Manager—Grand Canyon.
Field Offices | Park Manager—Yosemite (Superintendent).
| Park Manager Everglades.
| Park Manager—Yellowstone (Superintendent)
| Asst Dir, Design & Construction (Mgr, Dsc)
| Park Manager—Independence Natl Historic Park.
Field Offices | Executive Dir Regional Ecosystem Office.
Field Offices | Director, Technical Services Center.
| Spec Asst to the Dir, Reclamation Serv Center.
| Director, Management Services Office.
U.S. Geological Survey | Regional Geographer, Western Region.
| Regional Hydrologist, Western Region.
Directors Office | Geographic Information Officer.
| Deputy Director, U.S. Geological Survey.
| Regional Director, Eastern Region.
| Regional Director, Western Region.
| Physical Scientist.
| Chief, Office of Administrative Policy and Services.
| Associate Director for Geography.
National Mapping Division | Associate Director for Geography.
| Associate Division Chief for Operations.
Field Offices | Chief, Eros Data Center.
| Chief Mid-Continent Mapping Center.
| Chief Rocky Mountain Mapping Center.
| Chief Mapping Applications.
| Regional Geographer, Eastern Region.
Water Resources Division | Associate Division Chief for Water.
| Associate Chief Hydrologist for Program Operations.
| Asst Chief Hydrologist for Water information.
| Assistant Chief Hydrologic for Research.
| Chf, National Water Data Exchange Program.
Field Offices | Regional Hydrologist Central Region.
| Regl Hydrologist Southeastern Region.
| Regional Hydrologist, Western Region.
| Regional Hydrologist, Northeastern Region.
Geologic Division | Associate Director for Geology.
| Assoc Chief Geologist for Program Operations.
| Associate Chief Geologist for Science.
| Regional Geologist Western Region.
| Regional Gelogist, Eastern Region.
| Chief Scientist for Geology.
Biological Resources Division | Asst Dir, Budget and Administration.
| Associate Chief Biologist for Operations.
| Associate Chief Biologist for Information.
Field Offices | Regional Chief Biologist, Eastern Region.
| Regional Biologist, Western Region.
Field Offices | Regional Director.
| Regional Director.
| Regional Director.
Minerals Management Service | Associate Dir for Policy and Mgmt Improvement.
| Special Assistant to the Director.
Field Offices | Regional Director, Gulf of Mexico OCS Region.
| Asst Program Director for Offshore Compliance & Asset Management.
| Asst Prog Director for Onshore Compliance & Asset Management.
| Regional Director, Alaska OCS Region.
| Regional Director, Pacific OCS Region.
| Deputy Associate Director for Minerals Revenue Management.
Assistant Secretary—Indian Affairs | Chief Financial Officer.
Bureau of Indian Affairs | Deputy Director, Office of Indian Executive Programs.
Office of Hearings and Appeals | Dir, Ofc of Hearings & Appeals.
Department of Justice:
Office of the Attorney General | Counsel on Professional Responsibility.
| Dep Counsel on Professional Responsibility.
Ofc of the Legal Counsel | Special Counsel.
| Special Counsel.
Office of the Inspector General | Asst Inspector General for Inspections.
| Assistant Inspector General for Audit.
| Assistant Inspector General for Investigation.
| Asst Inspector Gen for Management & Planning.
| Deputy Inspector General.
| General Counsel.
| Dir, Special Investigational Review.
| Sen Exec Strategic Plan & Spec Project.
Office of the Deputy Attorney General | Director, Office of Legal Education.
| Director, Professional Responsibility Advisory Office.
| Federal Detention Trustee.
| Correctional Prog Ofcr/Sr Dep Asst Dir Prd.
Justice Management Division | Asst Attorney General for Administration.
| Deputy Asst Attorney General.
| Dir, Security & Emergency Plnng Staff.
| Dep Asst Attorney Gen Human Res/Admin.
| Dir Library Staff.
| Dir, Facilities and Administrative Svc Staff.
| Dir Telecommunications Services Staff.
| Director Management and Planning Staff.
| Director, Budget Staff.
| Senior Policy Advisor.
| Dep Asst Attorney General, Info Res Mgt.
| Dir Procurement Services Staff.
| Dir, Systems Technology Staff.
| General Counsel.
| Dir, Equal Employment Opportunity Staff.
| Senior Counsel.
| Director, Department Ethics Office.
| Deputy Director, Budget Staff.
| Director, Systems Engineering and Development Staff.
| Senior Program Manager.
Office of the Controller | Dir Finance Staff.
| Dep Asst Attorney General; Controller.
| Director, Debt Collection Management Staff.
| Asst Dir, Management & Planning Staff.
Office of Human Resources and Administration | Director Personnel Staff.
| Director, Ofc of Atty Pers Mgmt.
Office of Info & Admin Servicers | Director, Computer Services Staff.
| Director, Information Mgmt & Security Staff.
Executive Office for U.S. Trustees | Executive Officer.
Executive Office for Immigration Review | Chief Immigration Judge.
| Assistant to the Director.
| Chairman, Board of Imigration Appeals.
| General Counsel.
| Attorney—Examiner (Immigration).
| Chief Admin Hearing Officer.
Antitrust Division | Senior Litigator.
| Executive Officer.
| Chief Computers and Finance Section.
| Senior Litigator.
| Senior Litigator, Atlanta Field Office.
| Deputy Chief, Litigation II Section.
Office of Litigation | Dep Dir of Operations.
| Chief, Competition Policy Section.
Civil Division | Director of Management Programs.
| Deputy Director, Commercial Litigation Branch.
| Appellate Litigation Counsel.
| Deputy Director, Tobacco Litigation Team.
| Deputy Director, Appellate Staff.
Commercial Litigation Branch | Spec Litigation Counsel (Foreign Litigation).
| Spec Litigation Coun, C/L Branch.
| Deputy Branch Director/Commercial Litigation.
| Deputy Branch Dir Civil Frauds.
| Deputy Branch Director.
Federal Programs Branch | Special Litigation Counsel (Federal Programs).
| Deputy Branch Director.
Torts Branch | Spec Litigation Counsel.
| Spec Litigation Counsel.
| Deputy Branch Director.
| Deputy Branch Director.
| Deputy Branch Director
| Director Office of Consumer Litigation.
Civil Rights Division | Special Litigation Counsel.
| Executive Officer.
Environment and Natural Resources Division | Executive Officer.
| Supervisory Trial Attorney.
Office of Environmental Resources | Senior Litigation Coun Attorney-Examiner.
| Dep Chf, Environmental Enforcement Section.
| Principal Deputy Chief Environ Enforce Sec.
Tax Division | Chief Civil Trail Section Southwestern Region.
| Executive Officer.
Deputy Assistant Attorney General—I | Special Litigation Counsel.
| Sr Trial Attorney.
| Special Litigation Counsel.
| Spec Litigation Counsel.
Immigration and Naturalization Service | Asst Commissioner for Detention & Deportation.
| Asst Commissioner for Adjudication & Natural.
| Assistant Commissioner for Border Patrol.
| Director of Internal Audit.
| Director of Security.
| Asst Comr, Budget.
| Regional Director Central Region.
| Asst Commissioner Administration.
| Chief Patrol Agent.
| District Director.
| Chief Patrol Agent.
| District Dir, Western Reg, Phoenix District.
| Deputy General Counsel.
| Chief Patrol Agent, El Paso, TX.
| Deputy Executive Associate Commissioner For Detention and Removals.
| Associate Commissioner, Field Services Operations.
| Director, International Affairs.
Associate Commissioner for Information Systems | Deputy Associate Commissioner for Information Resources Management.
Associate Commissioner for Examinations | Asst Comm for Inspections.
Associate Commissioner for Enforcement | Assistant Commissioner for Investigations.
| Assistant Deputy Executive Associate Commissioner, Field Operations.
Executive Associate Commissioner for Management | Assistant Comr, Human Resources & Development.
| Assistant Commissioner for Records.
Regional Offices—INS | District Director Newark District.
| District Director, Newark, District.
| Chief Patrol Agent, McAllen, Texas.
| Chief Patrol Agent, Tucson, Arizona.
| Regional Counsel, Western Region.
Ofc of the Associate Attorney General | Executive Officer (Principal Assoc Director).
| Deputy Director for Support Services.
Executive Ofc for U.S. Attorneys | Dir Ofc of Mgnt Information Systems Support.
| Dir, Office of Administration & Review.
| Dep Dir for Operations.
| Deputy Director, Financial Management Staff.
Criminal Division | Senior Counsel to the Assistant Attorney General.
| Deputy Chief, Fraud Section.
| Dir Ofc of Asset Forfeiture.
| Senior Appellate Counsel.
| Senior Counsel.
| Executive Officer.
| Dir Intl Criminal Invest Train Asst Program.
| Chief, General Litigation & Legal Advice Sect.
| Senior Counsel for Natl Security Matters.
| Dep Chief Terrorism & Violent Crime Section.
| Deputy Chief, Computer Crime and Intellectual Property Sec.
| Chf of International Training & Dev Programs.
| Senior Counsel to the Assistant Attorney General.
| Principal Deputy Chief, Narcotic and Dangerous Drug Section.
| Director, Office of Overseas Prosecutorial Development, Assistance, and Training.
| Chief, Asset Forfeiture Office.
| Senior Counsel for National Security Matters.
Ofc of Senior Counsels | Sr Counsel for Litigation.
Ofc of Deputy Asst Attorney General I | Counsel to the Office Fraud Section.
Ofc of Deputy Asst Attorney General II | Chf Public Integrity Section.
| Deputy Chief Public Integrity Section.
Federal Bureau of Prisons | Assistant Director for Administration.
| General Counsel.
| Assoc Commr, Fed Prisons Industries, Unicor.
| Dep Assoc Commr Fed Prison Industries.
| Warden Ft Worth Texas.
| Warden Marianna FL.
| Asst Director for Human Res Mgmt.
| (Warden) Miami, FL.
| Senior Deputy Asst Dire Health Services Div.
| Regional Director Mid Atlantic Division.
| Asst Dir., Community Corrections & Detention.
| Asst Dir, Info, Pol, & Public Afrs Div.
| Gen Counsel, Fed Prison Industries (UNICOR).
| Warden, Allenwood, Pennsylvania.
| Sr Mgt Counsel, (Federal Bureau of Prisons).
| (Warden) Fort Dix, NJ.
| (Warden) FCC, Floren, CO.
| Correctional Inst Admr (ARD) SCR, Dallas, TX.
| Corrl Inst Admr (SDAD), CC & D Div, Wash, DC.
| Warden, USP, Florence, CO.
| CIA (Warden) Fed Medical Center Carswell, TX.
| CIA (Warden) U.S. Penitentiary, Allenwood, PA.
| (Warden) FTC, Oklahoma, OK.
| Senior Dep Asst Dir (Administration).
| CIA (Warden) Fed Cortl Inst/El Reno, OK.
| CIA (Warden) Fed Medical, Center/Miami, FL.
| Correctional Prog Offcr/Sr Dep Regl Dir.
| Correctional Inst Admr (Warden) FCI.
| Correctional Program Officer.
| Correctional Prog Officer (WFCI, Estill, SC).
| Correctional Prog Officer (Warden Fed CI, SC).
| Correctional Institution Admin (W, FMC, FTD, MA).
| Correctional Institution Administrator.
| Correctional Institution Admr (Warden).
| Correctional Institution Administrator (Warden, U.S. Pententiary, Beaumont, TX).
| Correctional Program Officer (Assistant Director).
| Deputy Assistant Director.
| Correctional Program Officer.
| Warden.
| Correctional Institution Administrator (Warden).
| Correctional Institution Administrator (Warden).
| Correctional Program Officer (Sr. Deputy Assistant Director).
| Budget Officer.
| Warden.
| Warden.
| Warden, USP.
| Warden, FCI.
| Senior Counsel.
Office of Correctional Programs | Asst Dir Correctional Programs Div.
Northeast Region | Regional Director, Northeast Region.
| Warden, Lewisburg, PA.
| Warden, McKean, PA.
| (Warden), Oakdale, LA.
| Correctional Institution Admr (Warden).
| Warden.
| Correctional Institution Administrator (Warden).
| Correctional Institution Administrator (Warden).
| Correctional Institution Administrator (Warden).
| Correctional Institution Administrator (Warden).
| Correctional Institution Administrator (Warden).
Southeast Region | Regional Director, Southeast Region.
| Warden Atlanta.
| Warden, Lexington Kentucky.
| Warden, Butner North Carolina.
| Correctional Institution Administrator (Warden).
| Correctional Institution Administrator (Warden).
| Correctional Institution Administrator (Warden).
North Central Region | Regional Director, North Central Region.
| Warden Leavenworth Kansas.
| Warden Springfield MO.
| Warden Marion IL.
| Warden Terre Haute, IN.
| Correctional Institution Admr,
| Correctional Institution Administrator (Warden).
| Correctional Institution Administrator (Warden).
| Correctional Institution Administrator (Warden).
| Correctional Institution Administrator (Warden).
South Central Region | Regional Director, South Central Region.
| Warden, El Reno, Okla.
| Correctional Institution Administrator (Warden).
| Warden, FCI. Three Rivers, Texas.
Western Region | Regional Director, Western Region.
| Warden, Lompoc, CA.
| Warden, Phoenix, AZ.
| Warden, Federal Correctional Institution.
| Correctional Institution Admr (Warden).
| Correctional Institution Administrator (Warden).
| Correctional Institution Administrator (Warden).
Ofc of Justice Programs | Director of Administration.
| Dep Director, National Institute of Justice.
| General Counsel.
| Director, Corrections Program Office.
| Comptroller.
| Budget Officer.
| Deputy Director, Office for Victims of Crime (Policy and International Programs).
| Director, Drug Courts Program Office.
| Assistant Director, Office of Administration.
| Principal Deputy Director, OVC.
Ofc of Juvenile Justice and Delinquency Prevention | Deputy Administrator, Office Discretionary Grants.
Bureau of Justice Statistics | Supervisory Statistician.
U.S. Marshals Service | Assistant Director for Human Resources.
| Assoc Director for Operational Support.
| Senior Management Advisor.
| Assistant Director for Prisoner Services.
| Assistant Director for Business Services.
| Associate Director for Mgmt and Budget.
| Assistant Director for Executive Service.
| Assistant Director for Investigative Servs.
| Assistant Director for Judicial Security.
| Asst Director for Organizational Development.
| Assistant Director for Training.
| Assistant Director, Justice Prisoner and Alien Transportation System.
| Assistant Director, for Investigative Services.
Community Oriented Policing Services | Deputy Director, Office of Community Policing Development.
Department of Labor:
Office of the Inspector General | Deputy Inspector General.
| Asst Inspector General for Investigations.
| Asst Inspector Gen for Audit.
| Deputy Assistant Inspector General for Audit.
| Asst Inspector Gen for Labor Racketeering.
| Asst Inspector Gen for Mgmt & Counsel.
| Asst Inspector Gen/Analysis Complaints/Eval.
| Assistant inspector General for Analysis, Complaints and Evaluations.
| Assistant Inspector General for Communications, Inspections and Evaluations.
| Assistant Inspector General for Legal Services.
Bureau of International labor Affairs | Deputy Director of Budget.
Office of the Solicitor | Associate Solicitor for Labor-Management Laws.
| Assoc Solicitor for Plan benefits Security.
| Regional Solicitor—Chicago.
| Assoc Solicitor for Civil Rights.
| Assoc Solicitor for Occupational Safety & Hlt.
| Assoc Soliticor for Mine Safety & Health.
| Assoc Solicitor for Fair Labor Standards.
| Regional Solicitor—Atlanta.
| Assoc Solicitor for Employee Benefits.
| Regl Solicitor Boston.
| Regl Solicitor New York.
| Regional Solicitor Philadelphia.
| Regl Solicitor Dallas.
| Regl Solicitor Kansas City.
| Regl Solicitor San Francisco.
| Deputy Solicitor (Regional Operations).
| Assoc Sol for Spec Appel & Sup Court Lit.
| Dep Solicitor for Planning and Coordination.
| Associate Solicitor for Black Lung Benefits.
Office of Chief Financial Officer | Deputy Chief Financial Officer.
OAS for Administration and Management | Director of Human Resources.
| Director of Information Technology.
| Director Office of Budget.
| Director Business Operations Center.
| Director of Civil Rights.
| Director, Management Systems Development and Innovation.
| Director of Safety and Health.
| Director of Information Technology Operations.
| Deputy Assistant Secretary for Budget and Strategic and Performance Planning.
| Deputy Assistant Secretary for Operations.
Employment Standards Administration | Dir Ofc of Mgmt, Administration and Planning.
| Deputy Director, Employment Standards Administration.
Office of Federal Contract Compliance Programs | Director Division of Programs Operations.
Wage and Hour Division | Dep Natl Ofc Program Administrator.
| Deputy Wage and Hour Administrator (Operations).
| Principal Deputy Wage & Hour Administrator.
Office of Workers Compensation Programs | Dir Federal Employees Compensation.
| Dir Coal Mine Workers Compensation.
Pension and Welfare Benefits Administration | Dir of Regulations & Interpretations.
| Dep Asst Secy for Program Operations.
| Director of Exemption Determinations.
| Senior Policy Advisor.
| Regional Director—Boston.
| Regional Director—Atlanta.
| Regional Director—Kansas City.
| Regional Director—San Francisco.
| Dir of Enforcement.
| Director of Health Plan Standards Compliance and Assistance.
| Director of Participant Assistance and Communications.
| Director of Information Management.
Bureau of Labor Statistics | Associate Commissioner for Field Operations.
| Associate Commissioner for Administration.
| Assoc Commissioner for Employment Projections.
| Assoc Comr for Prices and Living Conditions.
| Assoc Commr Productivity & Technology.
| Deputy Commissioner.
| Assoc Commissioner/Survey Methods Research.
| Assoc Comm for Employment & Unempl Statistics.
| Asst Commr for Indust Prices & Price Indexes.
| Director of Survey Processing.
| Dir of Technology & Computing Svcs.
| Asst Commissioner for Current Employ Analysis.
| Associate Comr for Technology & Survey Processing.
| Asst Comr for Compensation Levels & Trends.
| Asst Comr for Safety', H & W Conditions.
| Assoc Comr Compensation & Working Conditions.
| Asst Comm for International Prices.
| Assoc Commr for Publications & Spec Studies.
| Asst Commr for Consumer Prices/Price Indexes.
| Asst Commr for Fedl/State Coop Stat Programs.
Employment and Training Administration. | Admr, Ofc of Financial & Administrative Mgmt.
| Director, Office of Career Transition Assistance.
Occupational Safety & Health Administration | Director, Technical Support.
| Director Safety Standards Programs.
| Director, Federal/State Operations.
| Dir, Adm Progs.
Mine Safety and Health Administration | Director of Administration and Management.
| Director of Technical Support.
| Director of Prog Evaluation & Info Resources.
Veterans Employment and Training Service | Director of Resource Management.
Merit Systems Protection Board:
Office of the Clerk of the Board | Clerk of the Board.
Office of Financial and Administrative Management | Director, Financial and Administrative Management.
Office of Policy and Evaluation | Director, Office of Policy & Evaluation.
Office of Information Resources Management | Director, Information Resources Management.
Office of Regional Operations | Director, Office of Regional Operations.
Atlanta Regional Office | Regional Director, Atlanta.
Central Region, Chicago Regional Office. | Regional Director, Chicago.
Northeast Region, Philadelphia Regional Office | Regional Director, Philadelphia.
Western Region, San Francisco Regional Office | Regional Director, San Francisco.
Washington, DC Region, Washington Regional Office | Regional Director, Washington, DC
National Aeronautics and Space Administration:
National Aeronautics and Space Administration | Manager, Earth Sciences Department.
| Director of Program Operations.
| Senior Program Executive, Advanced Technology Program Management.
| Senior Systems Engineer.
Office of the Chief Financial Officer/Comptroller | Deputy Chief Financial Officer.
| Director, Financial Management Division.
| Director, Resources Analysis Division.
| Deputy Dir, Financial Management Division.
| Associate Chief Financial Officer IFMP.
| Special Assistant.
Office of Headquarters Operations | Director Headquarters Acquisition Division.
Office of Equal Opportunity Programs | Director, Discrimination Complaints Division.
| Director, Multicultural Prog & Support Div.
Office of Human Resources & Education | Director, Management System Division.
| Associate Administrator for Human Resources.
| Director, Education Division.
| Director, Personnel Division.
| Director, Management Systems Division.
| Dep Assoc Adm for Human Res & Education.
| Special Asst to the Associate Admr.
| Director, Training & Development Division.
Office of Procurement | Asst Admr for Procurement.
| Asst Admr for Procurement.
| Director, Program Operations Division.
| Director, Contract Management Division.
| Dep Assistant Administrator for Procurement.
| Dir Contract Management Division.
| Director Analysis Division.
Office of External Relations | Dep Assoc Admin for External Relations (Space Flight).
| Director, Space Flight Division.
| Manager, International Technol Transfer Pol.
| Director, Space Flight Division.
| Director, Research Division.
| Director, Earth Science Division.
| Director, Space Science and Aeronautics Division.
| Manager, International Technology Transfer Policy.
Office of Management Systems & Facilities | Director, Facilities Engineering Division.
| Special Assistant to the Assoc Administrator.
| Dir Environmental Management Division.
| Deputy Chief Engineer for Systems Engineering.
Security, Logistics & Industrial Relations | Dir, Logistics & Security Division.
Aircraft Management | Director, Aircraft Management Office.
Information Resources Management | Director, Information Resources Mgmt Division.
Facilities Engineering | Deputy Director, Facilities Engineering Div.
| Dir Environmental Management Division.
Office of Small & Disadvantaged Business Utilization | Assoc Admr for S & D Business Utilization.
Office of Legislative Affairs | Dep Assoc Admin.
| Dep Assoc Admin for Programs.
| Director Liaison Division.
Office of Space Flight | Spec Asst to Dep Assoc Adm for Space Shuttle.
| Deputy Chief.
| Director, Advanced Project Office.
| Senior NASA Representative.
| Dep Assoc Administrator for Space Flight Dev.
| Deputy Assoc Admr for Space Communications.
| Deputy Associate Admin, for Business Management.
| Deputy Associate Admin, for Space Operations.
| Special Assistant to the Associate Administrator.
Institutions | Deputy Associate Administrator for Interagency Enterprise.
| Techn Asst to the Dep Assoc Adm for Bus Mgmt.
Chief Engineer | Tech Asst to the Chief Engineer.
| Senior Engineer.
Mission Director | Asst Mission Dir Mir.
Space Flight Operations | Manager Space Shuttle Syst Integration.
| Mgr, Natl Space Trans Syst Integration & Ops.
| Manager, Safety & Obsolescence.
Space Flight Development | Manager Strategic Utilization &amp Ops Office.
| Deputy Director, Space Station Program.
| Deputy Associate Administrator for Space Development.
Johnson Space Center | Chief Financial Officer.
| Director of Human Resources.
| Dir of Tech Transfer & Commercialization.
| Chief Information Officer.
| Deputy Chief Information Officer.
| Associate Director (Technical).
| Assistant Director, Space Operations.
| Manager Advanced Communications Operations.
| Associate Director (Management).
| Assistant Director for University Research and Affairs.
| Manager Eva Project Office.
| Director, Public Affairs Office.
| Manager for International Operations.
| Chief Engineer.
Space Operations Office | Manager, Space Operation Mgmt Office.
| Manager, Space Ops Engineering Office.
| Director, Space Operations Office.
| Deputy Dir, Space Operations Office.
| Director Space Operations.
| Space Operations Commercialization Manager.
Space Station Program Office | Space Station Vehicle Manager.
| Director, Management Operations.
| Deputy Space Station Vehicle Manager.
| Manager International Partners Office.
| Tech Asst to the Mgr, Space Station Program.
| Dep Program Manager for Business Management.
| Deputy Program Mgr for Technical Development.
| Manager, Research Programs.
| Technical Assistant for External Reviews.
| Business Manager.
| Manager, Space Station Payloads Office.
| Space Station Program Manager.
| Manager, Avionics and Software Office.
| Manager, Program Integration Office.
Space Shuttle Program Office | Mgr, Space Shuttle Vehicle Engineer Ofc.
| Manager, Shuttle Projects Office (MSFC).
| Mgr, Launch Integration (KSC).
| Mgr, Space Shuttle Business Office.
| Asst Mgr, Space Shuttle Prog Space Flight O/C.
| Asst Manager Space Shuttle Program.
| Manager for Space Shuttle Program Development.
| Manager, Space Shuttle Program Integratin.
Mission Operations | Director, Mission Operations.
| Chief Flight Director Office.
| Deputy Director, Mission Operations.
| Asst Dir for Operations.
| Chief Engineer, Mission Operations Directorate.
| Chief Flight Director Office.
Flight Crew Operations | Chief, Aircraft Operations Division.
| Dep Dir, Flight Crew Operations.
| Manager, Phase One Program Office.
| Asst Chief, Aircraft Operations Division.
| Chief Astronaut Office.
Engineering | Chief Structures and Mechanics Division.
| Chief, Crew & Thermal Systems Division.
| Deputy Director, Engineering.
| Chief, Automation, R&S Division.
| Director, Engineering.
| Chief, Engineer Space Station Program.
| Chief Avionic Systems Division.
| Assistant to the Director, Engineering.
| Deputy Chief, Avionic Systems Division.
| Chief, Aeroscience & Flight Mechanics Div.
| Manager, Advanced Development Office.
| Deputy Mgr, Advanced Development Office.
| Asst Mgr, Advanced Development Office.
| Deputy Manager for Exploration.
| Chief Energy Systems Division.
| Chief, Manufacturing, Materials, & Process Tech Div.
| Deputy Director of Engineering for Flight.
Space & Life Sciences | Chief, Medical Sciences Division.
| Assistant Director for Engineering.
| Assistant to the Director for Russian Progs.
| Chief, Flight Crew Support Division.
| Associate Director, Space & Life Sciences.
| Manager Science Payloads Management Office.
| Chief, Solar System Exploration Division.
| Deputy Director, Space and Life Sciences.
| Assistant Director for Flight Programs.
| Assistant Director for Space Medicine.
| Asst Director, Space and Life Sciences.
| Deputy Director, Astromaterials Research and Exploration Science.
Information Systems | Dep Dir Information Systems.
| Director, Information Systems.
| Deputy Director, Information Systems.
Business Management | Procurement Officer.
| Assistant Director, Business & Info Systems.
| Special Assistant to the Director.
| Manager Space Station Business Office.
| Asst Dir Business Management.
| Deputy Director, Business Management.
Center Operations | Dir Center Operations.
| Deputy Director, Center Operations.
Safety, Reliability & Quality Assurance | Dir, Safety, Reliability, & Quality Assurance.
| Dir, Enterprise Safety & Mission Assurance.
| Deputy Director for Russian Projects.
| Deputy Director SR&QA.
| Assistant Director for Space Flight Awareness.
White Sands Test Facility | Manager, NASA White Sands Test Facility.
Kennedy Space Center | Dir Public Affairs.
| Associate Director.
| Chief Counsel.
| Asst Dir for Advanced Devel & Shuttle Upgrades.
| Dir, Space Station Hardware Integration Ofc.
| Director, Safety Assurance.
| Deputy Director for Planning and Projects.
| Manager Launch Integration (KSC).
| Dep Mgr Elv & Payload Carriers Program Office.
| Director, John F. Kennedy Space Center.
| Associate Director, John F. Kennedy Space Center.
| Director, Workforce and Diversity Management.
| Chief Financial Officer.
| Executive Director, Joint Performance Management Office.
| Director, Procurement Office.
| Director of Shuttle Processing.
| Deputy Director of Shuttle Processing.
| Director of Safety, Health & Independent Assessment.
| Deputy Director of Safety, Health & Independent Assessment.
| Associate Director for Agency Occupational Health Program.
| Associate Director for Safety & Mission Assurance.
| Associate Director for Systems Management.
| Director, Space Station Hardware Integration Office.
| Director of Spaceport Services.
| Deputy Director of Spaceport Services & CIO.
| Associate Director of Spaceport Services and Chief Medical Officer.
| Director of ISS/Payload Processing.
| Associate Director for Spaceport Technology Projects.
| Special Assistant to the Director.
| Deputy Director, Safety & Mission Assurance.
Shuttle Management & Operations | Dir of Shuttle Operations.
| Director of Process Integration.
| Deputy Dir of Shuttle Processing.
| Director Process Engineering.
Safety and Mission Assurance | Dep Dir of Safety and Mission Assurance.
Installation Operations | Director, Installation Operations.
| Deputy Dir. of Installation Mgmt & Operations.
Payload Processing | Director, Expandable Vehicles.
| Director Logistics Operations.
| Dir Inter Space Station Launch Site Support.
Procurement | Director, Procurement.
Biomedical Office | Director, Biomedical Office.
Marshall Space Flight Center | Chief Financial Officer.
| Director, Safety & Mission Assurance Office.
| Associate Director.
| Assistant to the Center Dir for Space Station.
| Associate Director (Technical).
| Manager, Space Transportation Prog Office.
| Manager X-34 Program.
| Assistant to the Manager, X-34 Program.
| Deputy Manager, Space Shuttle Projects Office.
Science Directorate | Deputy Manager for Space Station Research.
| Deputy for Management.
| Assistant Director for Space Propulsion Systems.
| Deputy Director, Science.
| Manager, Microgravity Science and Applications Department.
| Chief Operating Officer, National Space Science & Technology Center.
Program Development | Deputy Manager, Technology Transfer Office.
| Dir, Research & Technology Office.
Engineering Directorate | Deputy Director, Program Development.
| Deputy Director, Program Development.
| Director, Space Sciences Lab.
| Director, Propulsion Laboratory.
| Director, Syst Anal & Integration Laboratory.
| Dep Dir Structures & Dynamics Laboratory.
| Deputy Dir, Materials & Processes Laboratory.
| Dep Dir, Mission Operations Laboratory.
| Dep Dir, Syst Anal & Integration Laboratory.
| Deputy Director, Propulsion Laboratory.
| Manager, Avionics Department.
| Dir Structures Dynamics Laboratory.
| Deputy Director, Structures & Dynamics Lab.
| Chief Engineer Space Shuttle Main Engine Proj.
| Asst Director Science & Engineering.
| Manager Space Station Furnace Facility.
| Director, Mission Operations Laboratory.
| Dep Manager Super Lightweight External Tank.
| Manager, Engineering Systems Department.
| Deputy Director, Space Sci Laboratory.
| Chf Eng. Reusable Launch Vehicle Project.
| Assistant to the Director, Engineering.
| Deputy Director, Engineering.
| Deputy Manager, Materials, Processes and Manufacturing Dept.
| Deputy Manager, Structures, Mechanics and Thermal Department.
Avionics Department | Deputy Manager, Avionics Department.
Center Operations Directorate | Director, Information Systems Services Office.
| Director, Procurement Office.
| Dep Dir, Institutional & Program Support.
| Director, Facilities Office.
| Dir Environmental Engineering & Mgnt Office.
| Director Center Operations.
| Deputy Director, Center Operations.
| Manager, Information Services Department.
Space Shuttle Projects | Manager, External Tank Project.
| Mgr Solid Rocket Booster Project.
| Manager Space Shuttle Main Engine Projects.
| Manager, Reusable Solid Rocket Motor Project.
| Chief Engineer Space Shuttle Main Engine Prog.
Global Hydrology Research Office | Manager, Global Hydrology Research Office.
| Manager, Materials, Processes, and Manufacturing Department.
| Manager Microgravity Research Program Office.
Chandra X-Ray Observatory Program Office | Manager, Observatory Projects Office.
| Dep Mgr, Observatory Projects Office.
Flight Projects Directorate | Deputy Director, Flight Projects.
| Assistant to the Director, Flight Projects.
| Manager, Payload Operations and Integration Department.
| Chief Engineer.
| Manager, Ground Systems Department.
| Manager, Flight Systems Department.
Space Transportation Directorate | Director, Advanced Transportation Syst Office.
| Dep Manager Space Transportation Prog Ofc.
| Manager X-33 Program.
| Manager, Vehicles and Systems Development Department.
| Manager, Test and Evaluation Department.
| Manager, Second Generation Rlv Program Office.
| Manager, Pathfinder Program.
| Manager, Pathfinder Program.
| Manager, Subsystem and Components Development Department.
| Deputy Director Space Transportation Directorate.
| Chief Engineer, Space Transportation.
| Manager, Propulsion Research Center.
Technology Transfer | Director, Technology Transfer Office.
| Mgr Earth & Space Sciences Projects.
Customer and Employee Relations Directorate | Director, Customer and Employee Relations.
| Deputy Dir, Customer and Employee Relations.
| Liaison for Diversity Administration.
Stennis Space Center | Deputy Director, NASA Stennis Space Center.
| Director, Propulsion Test Directorate.
| Deputy Director, Propulsion Test Directorate.
| Chief Financial Officer.
| Special Assistant to the Director.
| Director, Center Operations & Support Directorate.
| Manager, Propulsion Test Program Office.
Office of Space Communications | Chief, Communications Systems Branch.
Ground Networks | Assistant Associate Administrators (Plans).
Communications & Data Systems | Dep Dir, Ground Network Division.
Office of Public Affairs | Senior Public Affairs Advisor.
Office of Safety & Mission Assurance | Dep Assoc Adm for Safety & Mission Quality.
| Director, Programs Assurance Division.
| Mgr Intl Sp Stn Indep A & O Act.
| Technical Advisor for Sr M Qa Initiatives.
| Dir, Human E & D of Space (HEDS) Indep Assur.
Safety & Risk Management | Director, Safety & Risk Management Division.
Engineering & Quality Management | Director, Quality Management Office.
Office of Aerospace Technology | Dep Assoc Admin for Aeronautics Mgmt.
| Director, Commercial Dev & Technol Transfer.
| Dir Space Transportation Division.
| Senior Engineer.
| Director, Inter-Enterprise Operations.
| Director, Research Support Division.
| Director, Goals Division.
Resources & Management Systems | Director, Resources Management Office.
High Performance Aircraft | Assistant Director for Program Evaluation.
High Speed Research | Director, Alliance Development Office.
National Aero-Space Plane | Assistant Dir for Aircraft Certification Serv.
Ames Research Center | Chief Financial Officer.
| Deputy Director, Information Science and Technology.
| Deputy Director, Ames Research Center.
| Assistant Director for Information Technology.
| Director, Office of Safety, Environment & Mission Assurance.
| Assistant to the Director.
| Chief, Computational Sciences Division.
| Associate Director for Astrobiology & Space Programs.
| Chief Counsel.
| Associate Director for Systems Management and Planning.
| Special Assistant for Software Integration.
Aerospace | Dep Dir Flight Projects Office.
| Chief, Space Technology Division.
| Chief, Aviation Systems Research Technology & Simulation.
| Chief, Army/NASA Rotorcraft Division.
| Deputy Director of Aerospace.
Aerophysics | Chief, NAS Systems Division.
Astrobiology and Space Research | Director of Astrobiology and Space Research.
| Chief, Life Sciences Division.
| Deputy Director of Astrobiology and Space Research.
Center Operations | Deputy Director, Center Operations.
Research and Development Services | Chief Systems Engineering Division.
| Chief, Wind Tunnel Operations Division.
| Director, Research and Development Services.
| Deputy Director, Research and Development Services.
Information Sciences and Technology | Chief, Human Factors Research & Technology Div.
Dryden Flight Research Center | Dir Aerospace Projects Directorate.
| Chf, Flight Operations Division.
| Asst Chief, Flight Operations Division.
| Director, Intercenter Aircraft Operations.
| Asst Dir for Program Integration.
| Assistant Director of Research Facilities.
| Director, Airborne Science Directorate.
| Associate Director For Operations.
| Director Research Facilities Directorate.
| Chief Financial Officer (Financial Manager).
| Chief Information Officer.
| Director, Aerospace Proj Directorate.
| Dep, Director, Aerospace Projects.
| Aerospace Engineer (Ch Engineer.
| Associate Director for Planning.
Langley Research Center | Chief Atmospheric Sciences Division.
| Facility Group Director for the Aerospace Technology Enterprise.
| Dir Independent Prog Assess Office.
| Dir of Education Programs.
| Assistant Director for Planning.
| Special Assistant for Outreach.
| Manager, Hyper-X Phase One Program.
| Dep Dir Indep Progr Assessment Office.
| Dep Dir Indep Progr Assessment Office.
| Director, Airborne Systems.
| Director.
| Special Assistant to the CFO.
| Director, Aviation Safety Program Office.
| Associate Director for Program Integration.
| Director, Earth and Space Science Program Office.
| Dir., Aerodynamics, Aerothermodynamic, and Aeropropulsion Facility Group.
| Deputy Director, Facilities and Test Techniques, AAAC.
Aeronautics | Chief, Aeornautics Systems Analysis Div.
| Deputy Director, Airframe Systems Prog Office.
Space & Atmospheric Sciences | Deputy Dir, S & A Sciences Program Group.
| Dir, Aerospace Transportation Program Office.
| Chief, Space Systems and Concepts Division.
Research & Technology Competencies | Director.
| Chief Structures Division.
| Chief Information & Electromagnetic Tech.
| Chf, Flight Dynamics & Controls Division.
| Chief, Fluid Mechanics Division.
| Deputy Dir, Research & Technology Group.
| Chief Aerodynamics Division.
| Director, Research & Technology Group.
| Chief, Aero & Gas Dynamics Division.
| Chief, Materials Division.
Technology Applications | Manager Space Technologies Thrust Office.
Internal Operations | Deputy Dir, Internal Ops Group (FE&O).
| Chief Aerospace Mechanical Systems Division.
| Chief Experimental Testing Technology Div.
| Special Asst, Internal Operations Group.
| Special Assistant.
| Procurement Officer.
| Chief Aerospace Mechanical Systems Division.
| Director, Internal Operations Group.
| Chief, Simulation and Research Aircraft Div.
High-Speed Research Project | Director for High-Speed Res Project Office.
| Chief Engineer, High-Speed Research.
Aerospace Vehicle Systems Technology Program Office | Dep Dir Aerospace Trans Technol Office.
| Dep Dir Aerospace Transportation Tech Ofc.
| Dir Aerospace Transport Technology Office.
Safety & Mission Assurance | Dir, Ofc of Safety, E&M Assurance.
Comptroller | Chief Financial Officer.
Glenn Research Center | Special Assistant to the Director for Policy.
| Chief Financial Officer.
| Deputy Director for Operations.
| Assistant Deputy Director for Policy.
| Chief, Engineering Design and Analysis Division.
Aeronautics | Chf, Internal Fluid Mechanics Division.
| Chf, Aeropropulsion Analysis Office.
| Deputy Director of Aerospace Technology.
| Chief, High-Speed Systems Office.
| Chief, Subsonic Systems Office.
| Chief, Ultra Efficient Engine Technology Office.
Research and Technology | Chief, Space Propulsion Technology Division.
| Chief, Turbomachinery & Propulsion Syst Div.
| Chief, Materials Division.
| Chief, Structures and Acoustics Division.
| Chief, Space Communications Division.
| Chief, Power & On-Board Propulsion Techn Div.
| Chief, Interdisciplinary Technology Office.
Space | Chief, Microgravity Division.
| Chief, Space Experiments Division.
| Deputy Director of Space.
| Chief Power Systems Project Office.
| Senior Advisor for Advanced Concepts.
Engineering and Technical Services | Chief, Computer Services Division.
| Chf, Electronics & Control Systems Division.
| Director of Engineering & Technical Services.
| Deputy Dir of Engineering & Tech Services.
| Chief Engineer.
| Chief, Systems Engineering Division.
Administration & Computer Services | Dir, Adm & Computer Services Directorate.
External Programs | Director, External Programs.
Mission Safety & Assurance | Dir, Ofc of Sfty, Environml & Mission Assur.
Office of Space Science | Special Ast to the Deput Assoc Admin.
| Asst Associate Admr for Technology.
| Director, Research Program Management.
| Technical Assistant to the Director, Office of Space Science.
| Technical Assistant to the Director, Office of Space Science.
| Science Program Director.
| Director, Administration and Resource Management Division.
| Senior Program Executive Space Science Program Management.
| Deputy Director Research Program Management Division.
| Deputy Director Flight Program Division.
| Senior Program Executive for Decadal Planning Team (Science).
Solar System Exploration | Science Program Director.
| Director, Mission & Payloa Development Div.
| Senior Program Executive for JPL Program.
| Dir. Advanced Technol & Mission Studies Div.
Space Physics | Senior Program Executive for GSFC/Apl Progs.
| Science Program Dir. Sun-Earth Connection.
| Sr Sci Prog Executive for Review & Evaluation.
Technology & Information Systems | Director, Hq Info, Technology and Comm Divi.
| Sr Sci Program Executive for Information Syst.
Astrophysics | Science Program Director, Galaxy & Universe.
| Deputy Dir Astrophysics Division.
| Asst Assoc Admr for Education & Outreach.
| Science Prog Dir. Origins & Planetary Systems.
Office of Life & Microgravity Sciences & Applications | Chief, Advanced Plans Office (Staff).
| Manager, Life Sciences and Technology.
| Dir Life & Biomedical Science & Applics Div.
| Chief Mission Management Branch.
| Dir, Microgravity Sciences & Applications Div.
| Dir, Space Processing Division.
| Director, Space Utilization & Product Development Division.
Office of Inspector General | Assistant Inspector General for Audits.
| Assist Inspector General for Investigation.
| Manager, Advanced Technology Programs.
| Assistant Inspector General for Inspections, Administrative.
| Investigations, and Assessments.
| Counsel to the Inspector General.
| Assistant Inspector General, Network and Advanced Technology.
| Protections Office.
| Director, Technical Services Office.
| Director, Computer and Technology Crimes Office.
Office of Space Access & Technology | Manager Systems Integration.
| Manager, Communications Experiments.
| Manager for Propulsion Technology.
| Special Assistant for Special Projects.
Office of Earth Science | Dep Assoc Admr for Mission to Planet Earth.
| Senior Science Advisor for Intl Programs.
| Director, Mission to Planet Earth.
| Senior Engineer, Program Integration.
| Dir Applications & Outreach Division.
| Director, Business Division.
| Deputy Associate Administrator Advanced Planning.
| Deputy Associate Administrator for Mission to Planet Earth.
| Assistant Associate Administrator for Office of Earth Science.
Science | Director Science Division.
Goddard Space Flight Center | Dir of University Programs.
| Chief, NASA Somo Mission Services Offices.
| Associate Director Program Manager for Exlporers.
| Deputy Associate Director for EOS-G Development.
| Associate Director/Program Manager for the Hubble Space Telescope (HST).
| Deputy Associate Director for Hubble Space Telescope (HST) Development.
| Deputy Director for Systems Management.
| Deputy Director of Applied Engineering and Technology for Planning and Development.
Human Resources | Director of Human Resources.
Comptroller | Chief Financial Officer/Comptroller.
Managment Operations | Dep Dir of Management Operations.
| Associate Director for Acquisition.
Flight Assurance | Director of Flight Assurance.
| Dep Dir of Flight Assurance.
Flight Projects | Deputy Director of Flight Projects.
| Project Mgr. Opns & Ground Systems.
| Project Mgr, Earth Observing Syst AM Project.
| Geostationary Opl Environmental Satellite PM.
| Dir of Flight Projects.
| Tracking & Data Rela Satellite TDRS Proj Mgr.
| Assoc Dir for Earth Sci Data & Info System.
| Proj Mgr, EOS-Pm Proj Flight Proj Direct.
| Project Mgr, Earth Sci D & I Syst Project.
| Dep Dir Flight Projects for Plan & Bus Mgnt.
| Project Manager, Poes.
| Associate Director of Fight Projects for Eos.
| Associate Director/Program Manager for the Earth Explorers Program Office.
Applied Engineering & Technology Directorate. | Deputy Asso Dir of Flight Proj Cor Net & Miss Serv Proj.
| Asso Dir of Flight Proj for Network & Miss Serv Proj.
| Deputy Director of Applied Eng & Technology.
| Chief Information Systems Center.
Systems, Technology and Advanced Concepts | Dep Dir of Systems, Tech & Advanced Concepts.
Space Sciences | Chief, Lab for Astronomy and Solar Physics
| Chief, Lab for Extraterrestrial Physics.
| Director of Space Sciences.
| Chief, Goddard Institute for Space Studies.
| Chief Laboratory for High Energy Astrophysics.
| Deputy Director of Space Sciences.
Engineering | Chief Engineer.
| Associate Director of Flight Projects.
| Chief, Mechanical System Center.
| Chief, Systems Engineering Division.
| Chief Technology Commercialization Office.
Earth Sciences | Chief Lab for Hydrospheric Processes.
| Chief, Space Data and Computing Division.
| Asst Dir of Earth Sci for Projects Eng.
| Chf, Laboratory for Atmospheres.
| Deputy Director for Earth Sciences.
| Director for Earth Sciences.
| Chief Laboratory for Terrestrial Physics.
| Deputy Assoc Dir for Earth Sci D & I Syst.
| Asst Dir of Mission to P/E Prog for Globe.
Office of Policy and Plans | Director of Special Studies.
| Director of Special Projects.
National Archives & Records Administration:
Archivist of US Dep Archivist of the US/Chf of Staff | Deputy Archivist of the United States.
Office of Administrative Services | Assistant Archivist for Administrative Serv.
Office of the Federal Register | Director of the Federal Register.
Office of Regional Records Services | Asst Archivist for Regional Records Services.
Office of Human Resources and Information Services | Asst Archivist for Human Resources & Info Ser.
Office of Records Services—Washington, DC | Asst Archivist for Records Services.
Office of Presidential Libraries | Asst Archivist for Presidential Libraries.
| Director, Lyndon B. Johnson Library.
National Capital Planning Commission:.
National Capital Planning Commission Staff | Executive Director.
| Assistant Executive Director (Management).
| Deputy Executive Director.
| Assistant Executive Director (Programs).
| General Counsel.
National Endowment for the Arts:
National Endowment for the Arts | Deputy Chairman for Guidelines, Panel and Council Operations.
| Deputy Chairman for Management and Budget.
| Chief Information Officer.
National Endowment for the Humanities:
National Endowment for the Humanities | Director, Office of Strategic Planning.
| Assistant Chairman for Planning and Operations.
National Labor Relations Board:
Ofc of the Board Members | Executive Secy.
| Deputy Executive Secretary.
| Inspector General.
Div of Enforcement Litigation | Deputy Assoc. Gen. Counsel Appellate Court Br.
| Director, Office of Appeals.
Div of Advice | Associate Gen Counsel, Div of Advice.
| Deputy Assoc Gen Counsel.
Div of Administration | Director of Administration.
| Deputy Director of Administration.
| Chief Information Technology Branch.
Div of Operations Management | Assoc General Counsel, Div of Operation-Mgmt.
| Dep Asso Gen Counsel, Div of Operation-Mgmt.
| Assistant General Counsel.
| Assistant General Counsel.
| Assistant General Counsel.
| Assistant General Counsel.
| Assistant General Counsel.
| Asst to the General Counsel.
Regional Offices | Regl Dir Reg 1 Boston
| Regional Director, Reg. 2, New York.
| Regional Director, Reg. 3, Buffalo.
| Regl Dir Reg 4 Philadelphia.
| Regional Director, Reg. 5, Baltimore
| Regional Director, Reg. 6, Pittsburgh.
| Regl Dir, Region 7, Detroit Mich.
| Regional Director, Reg. 8, Cleveland.
| Regional Director, Reg. 9, Cincinnati.
| Regl Dir Reg 10 Atlanta.
| Regl Dir., Reg 11, Winston Salem.
| Regional Director, Reg. 12, Tampa .
| Regional Director, Reg. 13, Chicago.
| Regl Dir Reg 14 St Louis.
| Regl Dir Reg 15 New Orleans.
| Regl Dir Reg 16 Ft Worth.
| Regl Dir Reg 17 Kansas City.
| Regl Dir Reg 18 Minneapolis.
| Regl Dir Reg 19 Seattle.
| Regional Dir, Reg. 20, San Francisco.
| Regional Director, Reg 21, Los Angeles.
| Regional Director, Reg 22, Newark.
| Regional Director, Reg 24, Hato Rey Puerto Rico.
| Regl Dir Reg 25, Indianapolis.
| Regl Dir Reg 26 Memphis.
| Regl Dir Reg 27 Denver.
| Regl Dir Reg 28 Phoenix.
| Regl Dir Reg 29 Brooklyn.
| Regl Dir Reg 30 Milwaukee.
| Regl Dir Reg 32 Oakland.
| Regional Director Reg 33, Peoria, Ill.
| Regl Dir Reg 31 Los Angeles.
| Regional Director, Reg. 34 Hartford.
National Science Foundation:
Office of the Director | Senior Advisor.
| Senior Advisor.
| Senior Advisor.
| Senior Staff Associate.
| Senior Advisor.
Office of Integrative Activities | Senior Science Advisor.
| Senior Science Advisor.
| Senior Scientist.
Office of the General Counsel | Deputy General Counsel.
Office of Polar Programs | Head Polar Research Support Section.
Office of the Inspector General | Inspector General.
| Associate Inspector General for Scientific Integrity.
| Deputy Inspector General.
| Associate Inspector General for Audit.
National Science Board | Senior Policy Officer.
Directorate for Geosciences | Sr Science Assoc for Geosciences Education.
Division of Atmospheric Sciences | Head, Upper Atmosphere Section.
Division of Earth Sciences | Head, Special Projects Section.
| Head, Special Projects Section.
| Head, Research Grants Section.
Division of Ocean Sciences | Head, Oceans Section.
| Senior Scientist/Section Head.
Directorate for Engineering | Senior Advisor.
Division of Engineering Education & Centers | Deputy Division Director (Education).
| Senior Staff Associate.
| Senior Engineering Advisor.
Division of Design, Manufacture & Industrial Innovation | Senior Advisor, Technology Integration Senior Advisor.
Division of Civil and Mechanical Systems | Senior Advisor.
Directorate for Biological Sciences | Deputy Assistant Director.
Division of Environmental Biology | Deputy Division Director.
Directorate for Mathematical and Physical Sciences | Executive Officer.
| Senior Science Associate.
Division of Physics | Executive Officer.
Division of Mathematical Sciences | Executive Officer.
Division of Materials Research | Executive Officer.
Directorate for Education & Human Resources | Deputy Assistant Director.
| Dep Asst Dir for Integrative Activities.
Division of Research, Evaluation & Communication | Senior Advisor for Research.
Directorate for Social, Behavioral and Economic Sciences | Senior Advisor.
Division of International Programs | Deputy Division Director.
| Senior Staff Associate.
| Senior Advisor.
| Senior Staff Associate.
Directorate for Computer & Info Science & Engineering | Executive Officer.
Office of Budget, Finance and Award Management | Director, BFA and CFO.
| Senior Advisor.
| Deputy Director—Management, Operations and Policy.
| Deputy Director—Planning, Coordination & Analysis.
Budget Division | Division Director.
Division of Financial Management | Division Director and Deputy CFO.
Division of Grants & Agreements | Division Director.
Division of Contracts, Policy & Oversight | Division Director.
| Senior Advisor.
Office of Information and Resource Management | Deputy Director, OIRM and Deputy CIO.
Division of Information Systems | Dep Dir, Div of Information Systems.
Division of Human Resource Management | Division Director.
| Deputy Division Director.
Division of Administrative Services | Division Director.
| Deputy Division Director.
National Transportation Safety Board:
National Transportation Safety Board | Chief Technical Advisor.
Office of the Managing Director | Managing Director.
| Assoc Managing Dir Safety & Development.
| Assoc Managing Director for Quality Assurance.
Office of Aviation Safety | Director Ofc of Aviation Safety.
| Dep Dir, International Aviation Safety Affairs.
| Deputy Director, Tech and Inv Operations.
Office of Research & Engineering | Dir Ofc of Research and Engineering.
| Deputy Dir Ofc of Research and Engineering.
Office of Chief Financial Officer | Chief Financial Officer.
Office of Safety Recommendations and Accomplishments | Dir Ofc of Safety Recommendations & Accomplis.
Office of Railroad, Pipeline and Hazardous Materials Investigations | Director, Office of Railroad, Pipeline and Hazardous Materials Investigations.
Nuclear Regulatory Commission:
Atomic Safety and Licensing Brd Panel | Chief Administrative Judge.
| Deputy Chief Administrative Judge (Executive).
Office of the Chief Information Officer | Dir, Applications Development Division.
| Dir, Information Technology Infrastructure Division.
| Director, Information, Records and Document Division.
| Director, Planning & Resource Mgmt Division.
| Director, Web Publishing and Distribution Division.
Office of the Chief Financial Officer | Director, Division of Planning, Budget and Analysis.
| Dir Division of Accounting and Finance.
| Special Assistant for Internal Controls.
| Deputy Chief Financial Officer.
| Director, Starfire Project.
Office of the Inspector General | Asst Inspector General for Audits.
| Deputy Inspector General.
| Assistant Inspector Gen for Investigations.
Associate General Counsel for Licensing and Regulation | Deputy Assistant GC/Legislative Counsel.
Associate General Counsel for Hearings, Enforcement and Administration | Deputy Assistant GC for Administration.
Office of Commission Appellate Adjudication | Dir Ofc of Comm Appellate Adjudication.
Office of Administration | Director Div of Contracts & Prop Mgmt.
| Dir, Div of Administrative Services.
| Dir, Div of Facilities and Security.
Incident Response Operations | Director, Incident Response Operations.
| Dep Dir, Incident Response Operations.
Office of Investigations | Deputy Director, Office of Investigations.
Office of Small Business and Civil Rights | Director.
Office of Nuclear Reactor Regulation | Proj Dir Project Directorate II 1.
| Dir, Prog Mgmt, Policy Dev & Analysis Staff.
Division of Licensing and Project Management | Project Director, Project Directorate I.
| Project Director, Project Directorate II.
| Project Director, Project Directorate IV & Decommissioning.
| Project Director, Project Directorate III.
Associate Director for Inspection and Programs | Director, New Reactor Licensing Project Office.
Division of Inspection Program Management | Chief, Equipment and Human Performance Branch.
| Chief, Reactor Safeguards, Radiation Safety & Emergency Preparedness.
| Chief, Inspection Program Branch.
Division of Regulatory Improvement Programs | Chief, License Renewal and Standardization Branch.
| Chief, Events Assess, Generic Comm & Non-Pwr Reactors Branch.
| Chief, Generic Issues, Envir, Financial & Rulemaking Branch.
| Chief, Technical Specifications Branch.
Division of Engineering | Chief, Materials & Chemical Engineering Br.
| Chief, Mechanical & Civil Engineering Branch.
| Chief, Electrical & Instrumentation & Controls Branch.
Division of Systems Safety & Analysis | Chf, Plant Systems Branch.
| Chf, Reactor Systems Branch.
| Chief, Probablistic Safety Assessment Branch.
| Chief Containment Sys & Severe Accident Brch.
Division of Fuel Cycle Safety & Safeguards | Chief, Fuel Cycle Licensing Branch.
| Chief Special Projects.
| Chief, Safety and Safeguards Support Branch.
Div of Industrial & Medical Nuclear Safety | Chief, Operations Branch.
| Chief, Medical, Acad & Com Use Sfty Branch.
| Chief, Rulemaking and Guidance Branch.
| Chief, Materials Safety and Inspection Branch.
Division of Waste Management | Chief, Engineering & Geosciences Branch.
| Chief, Decommissioning Branch.
| Chief, High-Level Waste Branch.
| Chief, Environmental and Performance Assessment Branch.
Spent Fuel Project Office | Deputy Director, Licensing & Inspection Directorate.
| Dep Dir, Technical Review Directorate.
Ofc of Nuc Regulatory Research | Dir, Program Mgmt, Policy Development & Analysis Staff.
Division of Engineering Technology | Chief, Generic Safety Issues Branch.
| Chief, Elect, M & M Engineer Branch.
| Chief, Structural & Geological Eng Branch.
| Chief, Materials Engineering Branch.
| Chief, Engineering Research Applications Branch.
Division of Systems Analysis and Regulatory Effectiveness | Chief, Regulatory Effectiveness & Human Factors Branch.
| Chief, Safety Margins and Systems Analysis Branch.
| Dep Director, Division of Systems Analysis and Regulatory Effectiveness.
Division of Risk Analysis and Application | Chf Reliability & Risk Assessment Branch.
| Chf, Probabilistic Risk Analysis Branch.
| Chief, Radiation Protection, Environ Risk & Waste Mgmt.
Region I | Deputy Regional Administrator.
| Dir, Div of Nuclear Materials Safety.
| Deputy Director, Division of Reactor Projects.
| Director, Division of Reactor Safety.
| Director, Division of Reactor Projects.
| Dep Dir, Div of Reactor Safety.
| Dep Dir, Div of Nuclear Materials Safety.
Region II | Deputy Regional Administrator Region II.
| Dir, Div of Nuclear Materials Safety.
| Deputy Director, Division of Reactor Projects.
| Director, Division of Reactor Projects.
| Director, Division of Reactor Safety.
| Dep Dir, Div of Reactor Safety.
Region III | Director, Division of Reactor Safety.
| Director, Division of Reactor Projects.
| Dep Regional Administrator Region III.
| Dir, Div of Nuclear Materials Safety.
| Deputy Director Division of Reactor Projects.
| Dep Dir, Div of Reactor Safety.
| Dep Dir, Nuclear Materials Safety.
Region IV | Deputy Regional Administrator Region IV.
| Deputy Director, Div of Reactor Projects.
| Director Div of Reactor Projects.
| Dir, Div of Nuclear Materials Safety.
| Dir, Division of Reactor Safety.
| Dep Dir, Division of Reactor Safety.
Office of Government Ethics:
Office of Government Ethics | Deputy Director.
| Deputy Dir., for Government R & S Projects.
| Senior Assoc Director for Agency Programs.
Office of Management and Budget:
Office of the Director | Deputy Associate Dir for Economic Policy.
| Senior Advisor to the Dep Dir for Management.
| Deputy Associate Director for Legislative Affairs.
| Deputy Assistant Director for Administration.
Legislative Reference Division | Asst Dir Legislative Reference.
| Chief, Economics, Science & Govt. Branch.
| Chief, Resources-Defense-International Branch.
| Chief, Labor, Welfare, Personnel Branch.
| Associate General Counsel for Budget.
Office of Federal Procurement Policy | Associate Administrator for Procurement Law and Legislation.
| Associate Administrator for Acquisition Implementation.
Office of Information and Regulatory Affairs | Chief, Information Policy & Technology Branch.
| Chief, Human Resources and Housing Branch.
| Chief, Commerce and Lands Branch.
| Chief, Statistical Policy Branch.
| Chief, Natural Resources Branch.
| Senior Advisor.
| Senior Advisor.
Office of Federal Financial Management | Chief, Financial Standards, Reporting and Management Integrity Branch.
| Deputy Controller.
| Chief Federal Financial Systems Branch.
| Senior Advisor to the Director.
| Senior Advisor to the Director.
Budget Review Division | Dep Asst Dir for Budget Review & Concepts.
| Dep Chief Budget Analysis Branch.
| Chief Budget Analysis Branch.
| Asst Dir for Budget Review.
| Dep Assit Dir for Budget Analysis & Systems.
| Chief, Budget Concepts Branch.
| Chief, Budget Systems Branch.
| Chief, Budget Review Branch.
| Deputy Chief, Budget Review Branch.
International Affairs Division | Chief, State-USIA Branch.
| Chief, Economic Affairs Branch.
| Dep Assoc Dir for Internatl Affairs.
National Security Division | Chief, Command, Ctrl, Comms, & Intellig Branch.
| Chief, Force Structure & Investment Branch.
| Chief Veteran Affairs Branch.
| Dep Assoc Dir for National Security.
| Chief Operations Sup Branch.
Associate Director for Educ, Income Maintenance & Labor | Chief, Labor Branch.
| Chief, Education Branch.
| Dep Assoc Dir for Ed, Income Maint & Labor.
| Chf, Income Maintenance Branch.
| Chief, Personnel, Portal, Exop Branch.
| Senior Advisor.
Transportation, Commerce, Justice & Services Division | D/A for Transp Commerce, Justice & Services.
| Chief Commerce Branch.
| Chief Transportation Branch.
| Chief, Justice/GSA Branch.
Housing, Treasury and Finance Division | Deputy Assoc Dir for Housing Treasury Finance.
| Chief, Treasury Branch.
| Senior Advisor for Cash & Credit Mgmt.
| Chief, Financial Institutions Branch.
| Chief, Housing Branch.
Assoc Dir for Natural Resources, Energy, and Science | Senior Advisor.
Natural Resources Division | Dep. Associate Dir. for Natural Resources.
| Chief, Agricultural Branch.
| Chief, Environment Branch.
| Chief Interior Branch.
Energy and Science Division | Chief, Water and Power Branch.
| Chief Science and Space Programs Branch.
| Dep. Assoc. Dir for Energy & Science.
| Chief, Energy Branch.
| Deputy Associate Director for Energy and Science Division.
Health Division | Deputy Associate Director for Health.
| Chief Health & Financing Branch.
| Chief, Health & Human Services Branch.
| Chief, Public Health Branch.
VA/Personnel Division | Deputy Assoc Director for VA & Personnel.
Office of Personnel Management:
Office of the Chief Financial Officer | Chief Financial Officer.
| Deputy Chief Financial Officer.
Office of the Inspector General | Deputy Inspector General.
| Asst Inspector General for Audits.
| Assistant Inspector Gen for Investigations.
| Deputy AIG for Audits.
Retirement and Insurance Service | Asst Dir for Retirement Programs.
| Director, Office of Actuaries.
Employment Service | Director, Personnel Res & Development Center.
| Senior Advisor.
| Special Assistant to the Associate Director.
Office of Workforce Relations | Director, Office of Workforce Relations.
| Dir Office of Labor and Employee Relations.
| Director for Human Resources Development.
Investigations Service | Assistant Director for Operaitons.
Office of the Chief Information Officer | Chief Information Officer.
Office of Contracting and Administrative Services | Director of Contractding & Administrative Serv.
Office of Merit Systems Oversight and Effectiveness | Assistant Director for Merit Systems Oversight.
Office of Special Counsel:
Headquarters, Office of Special Counsel | Assoc Special Counsel (Prosecution).
| Assoc Spec Counsel (Investigation).
| Deputy Associate Spec Counsel for Prosecution.
| Assoc Special Counsel for Disclosure and Complaints Examination.
| Director for Management.
| Assoc Special Counsel Planning and Oversight.
| Associate Special Counsel for Plan & Advice.
Railroad Retirement Board:
Board Staff | Chief of Technology Service.
| Director of Hearing and Appeals.
| Chief Actuary.
| Director of Field Service.
| Director of Administration.
| Deputy General Counsel.
| Asst Inspector General for Investigations.
| Chief Financial Officer.
| Assistant Inspector General for Audit.
| Director of Taxation.
| General Counsel.
| Director of Programs.
| Chief Information Officer.
| Dir of Operations.
| Dir of Policy & Systems.
| Director of Fiscal Operations.
Securities and Exchange Commission:
Office of the Executive Director | Associate Executive Director (Finance).
| Associate Executive Director (Administration).
Division of Corporation Finance | Associate Director (Operations).
| Associate Director (Legal).
Office of Compliance Inspections & Examiantions | Senior Adviser.
Small Business Administration:
Office of the Inspector General | Asst Inspection General for Auditing.
| Asst Inspector General for Investigations.
| Counsel to the Inspector General.
| Deputy Inspector General.
| Assistant Inspector Gen/Inspection & Eval.
| Asst Inspector General for Legal Cousl.
| Assistant Inspector General for Inspections and Evaluation.
Office of the General Counsel | Associate General Counsel for General Law.
| Assoc Gen Counsel Litigation.
| Associate General Counsel for Procurement Law.
Office of Field Operations | District Director.
| District Director.
| District Director.
| District Director.
| District Director.
| District Director.
| District Director.
| District Director.
Office of Equal Employment Opportunity and Civil Rights Compliance | Asst Admr for Equal Employment Opportunity & Civil Rights Compliance.
Office of Hearings and Appeals | Asst Administrator for Hearing and Appeals.
Office of the Chief Financial Officer | Deputy Chief Financial Officer.
| Chief Financial Officer.
Office of Capital Acess | Deputy to the Assoc Dep Administrator for Capital Access.
Office of Financial Assistance | Assoc Administrator for Financial Assist.
| Dep Assoc Admr for Financial Assistance.
| Asst Admr for Portfolio Management.
Office of Surety Guarantees | Assoc Administrator for Surety Guarantees.
Office of Entrepreneurial Development | Deputy to the ADA for Entrepreneurial Dev.
Office of the Chief Information Officer | Chief Information Officer.
Office of Human Resources | Asst Administrator for Human Resources.
Office of Business Development | Associate Administrator for Business Development.
Office of Policy, Planning & Liaison | Associate Administrator for Procurement Policy and Liaison.
Social Security Administration:
Office of the Inspector General | Deputy Inspector General.
| Counsel to the Inspector General.
Office of Investigations | Asst Inspector General for Investigations.
| Dep Asst Inspector General for Investigations.
Office of Audits | Asst Inspector Gen for Audits.
| Dep Asst Inspector General for Audits.
Office of Executive Operations | Assistant Inspector General for Executive Operations.
Office of Hearings and Appeals | Assoc Comm for Hearing & Appeals.
| Deputy Assoc Comr for Hearings and Appeals.
| Executive Dir., Ofc of Appellate Operations.
Office of Actuary | Chief Actuary.
| Deputy Chief Actuary (Long-Range).
| Deputy Chief Actuary (Short-Range).
Office of Civil Rights and Equal Opportunity | Deputy Associate Commissioner for Civil Rights and Equal Opportunity.
Office of Labor-Management and Employee Relations | Dir Ofc Labor-Management Employee Relations.
Office of Finance, Assessment & Management | Senior Financial Executive.
Office of Financial Policy and Operations | Assoc Comr, Office of Fin Policy & Operations.
| Dep Assoc Comm Financial Policy & Operations.
Office of Quality Assurance and Performance Assessment | Assoc Commr for Quality Assurance & Performance Assessment.
| Dep Assoc Commr for Quality A & P Assessment.
Information Technology Systems Review Staff | Dir Information Technology System Review Stf.
Office of Acquisition and Grants | Assoc Commissioner for Acquisition & Grants.
Office of Telecommunications and Systems Operations | Assoc Comm for Telecommunications & Sys Oper.
| Deputy Associate Commissioner for T&SO.
| Dep Assoc Commr for T & S Ops (Telecomm).
Office of General Law | Associate General Counsel for General Law.
Department of State:
Office of the Inspector General | Assistant Inspector General for Audits.
| Asst Inspector General for Investigations.
| Counsel to the Inspector General.
| Dep Asst Inspector General for Audits.
| Asst Insp Gen for Policy, Plng and Management.
| Dep Asst Inspector Gen for Inspections.
| Deputy Inspector General.
| Asst Inspector Gen for Security Oversight.
| Senior Inspector—Thematic Review.
Bureau of Intelligence and Research | Executive Director.
Bureau of International Organizational Affairs | Director, Office of International Conferences.
Office of Under Secy for Management | Principal Deputy Assistant Secretary.
Bureau of Administration | Director, Office of Acquisitions.
Bureau of Personnel | Director, Ofc of Civil Service Personnel Mgmt.
| SES Long Term Training.
Bureau of Arms Control | Office Director.
| Office Director.
| Office Director.
| Office Director.
| Deputy Asst. Secretary.
| Director, Office of Strategic negotiations and Implementation.
Bureau of Nonproliferation | Office Director.
Department of Transportation:
Asst Secretary for Budget & Programs | Deputy Chief Financial Officer.
Assistant Secretary for Administration | Asst Secy for Administration.
Office of the Senior Procurement Executive | Senior Procurement Executive.
Office of Inspector General | Deputy Inspector General.
| Senior Counsel.
Assistant Inspector General for Auditing | Asst Insp General for Auditing.
| Dep Asst Inspector General for Auditing.
Office of Financial, Information Technology and Department-Wide Programs | Deputy Assistant Inspector General for Financial, Information Technology, & Dept Wide Programs.
Office of Aviation | Dep Asst Inspector General for Aviation.
Assistant Inspector General for Investigations | Asst Inspector General for Investigations.
| Dep Asst Inspector General for Investigations.
Office of National Transportation Infrastructure | Deputy Assistant Inspector General for National Transportation Infrastructure.
Assistant Inspector General for Maritime & Highway Safety | Deputy Assistant Inspector General for Maritime & Highway Safety.
Asst Inspector Gen for Competition, Oversight, Rail, Economic, and Special Prog | Deputy Assistant Inspector General for Competition Oversight, Economic, Rail, & Special Programs.
Associate Administrator for Safety | Assoc Admr for Safety.
Office of Safety Enforcement | Director, Office of Safety Assurance and Compliance.
Associate Administrator for Pipeline Safety | Assoc Admr for Pipeline Safety.
Associate Admr for Ship Analysis and Cargo Preference | Assoc Admr for Ship Fin A & C Preference
Associate Admr for Shipbuilding | Director, Office of Shipbuilding and Marine Technology.
Administrator | Executive Director.
Office of Real Estate Services | Dir Ofc of Real Estate Services.
Safety | Program Manager, Safety.
Office of Budget and Finance | Dir Ofc of Budget & Finance.
Office of Acquisition Management | Director, office of Acquisition Management.
Office of Safety Research and Development | Director, Office of Safety R & D.
Administrator | Assistant Administrator/Chief Safety Officer.
Office of Bus & Truck Standards and Operations | Director, Office of Bus & Truck Standards and Operations.
Office of Enforcement and Compliance | Director, Office of Compliance.
Associate Administrator for Safety Assurance | Associate Administrator for Safety Assurance.
Office of Defects Investigation | Dir—Ofc of Defects Investigation.
Office of Vehicle Safety Compliance | Dir—Ofc of Vehicle Safety Compliance.
Chief of Staff | Director of Finance and Procurement.
Office of the Assistant Commandant for Acquisition | Deputy Assistant Commandant for Acquisition.
Proceedings | Deputy Director—Legal Analysis.
Economic Environmental Analysis and Administration | Director of Economics, Environmental A & A.
Office of the Administrator | Senior Advisor.
Department of the Treasury:
Under Secretary for Domestic Finance | Director, Office of Procurement.
Fiscal Assistant Secretary | Fiscal Assistant Secretary.
| Deputy Assistant Secretary for Fiscal Operations and Policy.
| Deputy Assistant Secretary (Accounting Policy).
Financial Management Service | Director, Regl Fin Ctr (San Francisco).
| Director, Regl Fin Ctr (Austin).
| Director Platform Services Directorate.
| Assistant Commissioner, Governmentwide Accounting.
| Director, Kansas City Financial Center.
| Commr of Financial Management Service.
| Asst Commissioner, Information Resources.
| Assistant Commissioner, Federal Finance.
| Director Operations Group.
| Dep Com Financial Management Service.
| Director Cash Management Directorate.
| Director, Birmingham Debt Management Operations Center.
| Assistant Commissioner, Regional Operations.
| Asst Comr, Management (Chief Fin Ofcr).
| Director, Systems Management Directorate.
| Assistant Commissioner (Agency Services).
| Chief Accounting Officer.
| Assistant Commissioner, Financial Operations.
| Deputy Director, Operations Directorate.
| Director, Asset Management Directorate.
| Assistant Commissioner Debt Management Sercs.
Bureau of the Public Debt | Commissioner.
| Dep Commr of the Public Debt.
| Asst Commissioner (Savings Bond Operations).
| Asst Commr (Financing).
| Executive Director Administrative Resource Center).
| Executive Director.
| Assistant Commissioner, Office of Securities Operations.
| Asst Commr/Securities & Accounting Services.
| Assistant Commissioner, Office of Investor Services.
| Assistant Commissioner (Office of Information Technology).
| Executive Director, Marketing.
| Asst Commissioner (Public Debt Accounting).
Assistant Secretary (Enforcement) | Dep Dir, Financial Crimes Enforcement Network.
| Director Fincen.
| Executive Assistant Director, Fincen.
| Dir Exe Ofc for Asset Forfeiture.
Bureau of Alcohol, Tobacco and Firearms | Special Agent in Charge (NY Field Division).
| Spec Agen in Charge (Washington Field Div).
| Assistant Director (Inspection).
| Dep Asst Dir (Liaison & Public Information)
| Division Director/Special Agent in Charge.
| Division Director/Special Agent in Charge.
| Division Director/Special Agent in Charge.
| Division Director/SAC, Atlanta.
| Dep Assoc Dir Reg Enforcement Field Operation.
| Deputy Asst Director (Inspection).
| Division Director/Special Agent in Charge.
| Deputy Asst Dir (CE Field Operations)—East.
| Deputy Assistant Director (CE Field Operations)—Central.
| Asst Dir (Science & Technology).
| Asst Dir (Field Operations).
| Associate Chief Counsel (Admin & Ethics).
| Deputy Asst Dir (Science & Technology).
| Director Laboratory Services.
| Deputy Director.
| Asst Dir (Alcohol & Tobacco).
| Deputy Assistant Director (Recruitment/Hiring).
| Deputy Asst Director (Alcohol & Tobacco).
| Dep Asst Dir (Firearms Explosives Arson).
| Assistant Director (Firearms, Explosives, and Arson).
| Asst Dir (Liaison & Public Information).
| Chair, Professional Review Board.
| Division/Special Agent in Charge, New York.
US Customs Service | Asst Commissioner for Internal Affairs.
| Associate Chief Counsel (Miami).
| Associate Chief Counsel (Chicago).
| Associate Chief Counsel (New York).
| Dir Ofc of Regulatory Audit.
| Special Agent in Charge, Miami.
| Associate Chief Counsel Enforcement.
| Assoc Chief Counsel (Trade Tariff & Leg).
| Associate Chief Counsel (Houston).
| Dir, Applied Technology.
| Special Agent in Charge—New York.
| Special Agent in Charge—Los Angeles.
| Deputy Assistant Commissioner, Human Resources.
| Deputy Assistant Commissioner, Internal Affairs.
| Regional Special Agent in Charge (SAIC).
| Regional Special Agent in Charge (SAIC).
| Regional Special Agent in Charge (SAIC).
| Deputy Assistant Commissioner, Office of Training and Development.
| Executive Director, Communications Management.
| Director, Asset Acquisition & Management.
| Executive Director, Labor and Employee Relations.
| Director, Office of Trade Compliance.
| Dir Customs Management Center New York.
| Area Dir, Newark.
| Dir Custioms Management Center N Atlantic.
| Asst Commissioner, Field Operations.
| Dir Customs Management Center Mid-America.
| Dir Customs Management Center—S. Texas.
| Asst Commissioner, Regulations & Rulings.
| Dir Strategic Trade Center Chicago.
| Deputy Asst Commissioner (Investigations).
| Assoc Chief Counsel (Administration).
| Associate Chief Counsel (Los Angeles).
| Area Director, JFK Airport.
| Asst Commissioner Chief Information Officer.
| Special Agent in Charge (New Orleans).
| Assistant Commissioner, Public Affairs.
| Port Director, Los Angeles International Airport.
| Executive Director, Equal Employment Program.
| Asst Commissioner, Investigations.
| Director Strategic Trade Center-Plantation.
| Dir Laboratories & Scientific Services.
| Project Executive.
| Deputy Assistant Commissioner, Field Operations.
| Director, Field Operations, El Paso.
| Director, Passenger Programs.
| Director, Field Operations—Houston.
| Executive Director, Field Programs.
| Exec Dir The Interdiction Committee.
| Assistant Commissioner, Finance.
| Executive Director, Mission Support Service.
| Project Executive.
| Dir Tariff Classification Appeals Division.
| Dir Strategic Trade Center Long Beach.
| Processes and Policy Executive.
| Director, Field Operations—Miami.
| Deputy Assistant Commissioner, International Affairs.
| Director, U.S. Customs Academy.
| Director, Ofc of Air Interdiction.
| Special Agent in Charge (Houston).
| Dir Customs Management Center—S California.
| Dir Office of Planning.
| Director, Strategic Trade Center Operations.
| Director, Intelligence and Communications Division.
| Director, Software Development.
| Director, Budget Division.
| Executive Director, South West Border Coordination.
| Dir Customs Management Center South Pacific.
| Executive Director, Field Operations.
| Associate Executive Director (West).
| Director, Administration Policy & Planning.
| Asst Commissioner, Strategic Trade.
| Special Agent in Charge, Chicago.
| Special Agent in Charge, (San Diego).
| Asst Commissioner, Human Resources Mgmt.
| Regional Special Agent in Charge.
| Port Director, Miami.
| Associate Executive Director, East.
| Asst Commissioner, Office of Training and Development.
| Director, Field Operations, Laredo.
| Director, Infrastructure Division.
| Director, Management Inspection.
| Associate Executive Director, Central.
| Deputy Chief Financial Officer.
| Special Agent in Charge—El Paso.
| Special Advisor Renforcement).
Secret Service | Director of the Secret Service.
| Deputy Director U.S. Secret Service.
| Asst Director, Investigations.
| Asst Dir (Protective Operations).
| Asst Dir (Protective Research).
| Assistant Director, Administration.
| Assistant Director, Inspection.
| Dep Asst Dir (Protective Operations).
| Spec Agent in Charge—Presidential Protective.
| Special Agent in Charge, New York Office.
| Special Agent in Charge, Chicago.
| Special Agent in Charge, Los Angeles Office.
| Dep. Asst. Dir. (Protective Research).
| Assistant Director—Training.
| Asst Director—Govt Liaison and Public AFF.
| Spec Agent in Charge—VP Protect Div.
| Spec Agent in Charge—Tech Sec Div.
| Spec Agent in Charge—Intelligence Div.
| Spec Agent in Charge—Washington Field Office.
| Spec Agent in Charge—Philadelphia Field Offic.
| Spec Agent in Charge—San Francisco Office.
| Special Agent in Charge, Dallas Field Office.
| Deputy Chief Counsel.
| Deputy Assistant Director, Government Liaison and Public Affairs.
| 2002 Winter Olympics Coordinator.
| Deputy Assistant Director—Human Resources & Training.
| Deputy Special Agent in Charge, Protective Operations (Tactical Operations).
| Deputy Asst Dir Investigations.
| DAD Administration.
| Deputy Special Agent in Charge Pres Prot Div.
| DAD (Uniformed Forces, F & E Dev), Ofc Trng.
| Dep Special Agent in Charge—PPD White House.
| Dep Asst Dir Investigations.
| Special Agent in Charge—Houston Field Ofc.
| Special Agent in Charge, Rowley Training Center.
| Special Agent in Charge, Paris.
| Deputy Assistant Director—Technology.
| Deputy Asst Director Office of Inspection.
| Spec Agent in Charge—Miami Field Office.
| Deputy Special Agent in Charge—VP Prot Div.
| Dep Asst Dir Protective Operations.
| Chf, Info, Resources Management Division.
| Spec Agent in Charge—Atlanta Field Office.
| Deputy Asst Dir Protective Operations.
| Special Agent in Charge.
Ofc of the Inspector General | Dep Asst Inspector Gen for Audit (Fin Mgmt).
| Dep Insp Gen Investigation (DAIGI).
| Counsel to the Inspector General.
| Assistant Inspector General for Management Services.
| Assistant Inspector General for Audit.
| Dep Asst Inspect General for Audit Prog Audit.
| Asst Inspector General for Investigations.
Office of the General Counsel | Chief Counsel.
Inspector General for Tax Administration | Deputy Associate Inspector General for Investigations.
| Assistant Inspector General for Management Services.
| Deputy Inspector General for Investigations.
| Associate Inspector General for Audit.
| Counsel to the Treasury Inspector General for Tax Administration.
| Associate Inspector General for Audit (Wage and Investment)
| Associate Inspector General for Audit (Small Business and Tax Exempt).
| Deputy Inspector General for Audit.
| Assistant Inspector General for Information Technology.
| Assistant Inspector General for Investigation (Investigative Support).
| Assistant Inspector General for Investigation (Field Operations).
Assistant Secretary (Economic Policy) | Sr Economist.
Assistant Secretary (Tax Policy) | Dir (Economic MOD & Computer Applications).
Assistant Secretary (Management) | Deputy Chief Financial Officer.
United States Mint | Associate Dir, Information Resources/CIO.
| Associate Director for Circulating.
| Associate Director for Numismatics.
| Assoc Dir for Pol & Mgmt Chf Fin Officer.
Internal Revenue Service | Regional Commissioner, Southeast.
| District Dir, Los Angeles.
| District Dir, Manhattan.
| District Director, Georgia.
| Dir Martinsburg Computing Center.
| District Director, Ohio.
| Assistant District Director, N California.
| Chief EEO and Diversity.
| Assistant District Director, Georgia.
| Director, Technical Contract Management Division.
| Director, Submission Processing Division.
| Director, Complaint Processing and Analysis Group.
| Assistant to the Commissioner.
| Director, Workforce Relations.
| Director of Research.
| Director of Compliance, Atlanta—W & I.
| Project Director—BSMO.
| Senior Advisor to the Commission.
| Director, Leadership and Organizational Development—NHQ.
| Director, National Customer Research Study.
| Director, National Public Liaison.
| Special Agent in Charge, New York.
| Special Agenct in Charge, Chicago.
| Director, Personnel Operations—AWSS.
| Project Director.
| Director, Field Operations—Fin Srvc & Healthcare.
| Director, Field Operations—Fin Srvc & Healthcare.
| Deputy Director, Strategy, Research & Program Planning.
| Director, Reporting Compliance—SBSE.
| Director, Centralized Workload Selection & Delivery—SBSE.
| Director, Compliance Los Angeles Area Office—SBSE.
| Director, Compliance New York Area Office—SBSE.
| Director, Human Resources—SBSE.
| Director, Filing & Payment Compliance—SBSE.
| Project Director.
| Director, Business Systems Planning.
| Accounts Management Field Director, Atlanta, W & I.
| Area Director, Field Assistance (San Francisco)—W & I.
| Director, Remote Shared Serviced Division.
| Transition Executive for Strategy, Criminal Investigation.
| Transition Executive for Operations, Criminal Investigation.
| Project Manager, Service Center Transition—W & I.
| Commissioner, Tax Exempt & Government Entities Division.
| Director, Exempt Organizations Examinations.
| Director, Facilities Operations—AWSS.
| Director, Service Center Operations.
| Asst Deputy Commissioner (Modernization).
| Director, Customer Support—AWSS.
| Director, Compliance Area, Laguna Niguel—SBSE.
| Director, Retailers, Food and Pharmaceuticals.
| Project Director.
| Director, Taxpayer Education Area, Brooklyn—SBSE.
| Director, Compliance Area.
| Director, Taxpayer Education Area, Dallas—SBSE.
| Director of Field Operations (Central Area)—CID.
| Director, Quality Assurance and Performance Management.
| Director, Revenue and Accounting.
| Project Director.
| Director, Tax Forms & Publications—W & I.
| Director, Legislative Affairs Division.
| Director, Statistics of Income.
| Director, Electronic Tax Administration—W & I.
| Submission Processing Field Director, Memphis.
| Director, Field Operations—Retailers, Food, and Pharmaceuticals.
| Deputy Division Commissioner, Large and Mid-Size Business.
| Director, Compliance Area, St. Paul—SBSE.
| Director, Government Entities.
| Director, Field Assistance Area (Greensboro) W & I.
| Director, Taxpayer Education Area, Nashville—SBSE.
| Director, Taxpayer Education Area, Seattle—SBSE.
| Compliance Service Field.
| Director, Management and Finance, SBSE.
| Division Information Officer—SBSE.
| Director, Criminal Investigation Modernization—CID.
| Special Agent in Charge, Los Angeles.
| Director, Field Assistance Area (Phoenix)—W & I.
| Director, Compliance Area, Denver—SBSE.
| Assistant District Director—New Jersey.
| Deputy Director, Strategic Human Resources.
| Project Director.
| Deputy Director, International.
| Director, Field Assistance Area, Hartford—W&I.
| Director, Compliance Services—SBSE.
| Privacy Advocate.
| Director, Taxpayer Education Area, Baltimore—SBSE.
| Director, Enterprise Operations.
| District Director, Central California.
| National Director of Appeals.
| Director, Appeals—LMSB.
| Project Director, San Francisco—Appeals.
| Director of Support Services, Northeast.
| Chief Compliance.
| Associate Inspector General for Audit (Information Systems and Financial Mgmt).
| Area Director of Information Technology—Western.
| Compliance Services Field Director.
| Dir of Investigations, Central Area of Ops.
| Deputy Executive Officer for Customer Service.
| Deputy CFO Finance.
| Chief Communications and Liaison.
| Special Assistant to Chief, Management and Finance.
| Director of Procurement.
| Dean School of Information Technology.
| Project Director.
| Director, Taxpayer Education Area, Cincinnati—SBSE.
| Director, Strategy, Research and Performance Management.
| Deputy Commissioner (Operations).
| Director, Compliance Area, Baltimore—SBSE.
| Director, Field Operations—Retailers, Food & Pharm.
| Director, Stakeholder, Partnership, Education & Communication —W & I.
| Director, Employee Plans.
| Director, Electronic Crimes Program Office.
| Deputy National Taxpayer Advocate.
| Project Director, Joint Transition Planning Team Leader.
| Area Director, Spec—Hartford—W & I.
| Director of Research, W & I.
| Natl Dir, Submission Processing Division.
| Director, Field Assistance—W & I.
| Director, Submission Processing (Cincinnati)—W & I.
| Director, Submission Processing Center, Fresno.
| Accounts Management Field Director, Brookhaven.
| Accounts Management Field Director, Cincinnati.
| Accounts Management Field Director—Odgen.
| Accounts Management Field Director, Austion—W & I.
| Area Director Information System Technology (Southeast).
| Deputy Chief, Appeals.
| Deputy Director, Management & Finance, SBSE.
| Area Director, Stakeholder Partnership Education and Communication.
| Director, Systems Support Division.
| Compliance Services Field Director.
| Executive Director, Modernization Design.
| Director, Field Operations.
| Director of Field Operations (Mid-Atlantic Area).
| Project Director.
| Director, Compliance Area, Chicago—SBSE.
| Director, Exam, Strategy and Selection—W & I.
| Area Director of Information Technology, NE.
| Director, Operations Policy and Support—CID.
| Director, Tennessee Computing Center.
| Director of Field Operations (Pacific Area)—CID.
| Director, Refund Crimes.
| Director, Strategy—CID.
| Deputy Chief, Criminal Investigation.
| Associate Director, Facilities Operations.
| Regional Commissioner, Midstates.
| District Director, S Florida.
| Project Director.
| Director, Natural Resources Industry—LMSB.
| Director, Product Assurance Division.
| Director, Compliance Area, Philadelphia—SBSE.
| Asst Dist Dr, Virginia-West Virginia.
| Director, Field Operations, Communications, Technology & Media, LMSB.
| Director, Program and Project Management Division.
| Dep Chief Info Officer (Info Resources Mgmt).
| Director, Field Assistance Area, Indianapolis—W&I.
| Director, Submission Processing Center—Austin.
| Director, Field Operations (Natural Resources), Houston.
| Director of Field Operations (Midstates Area)—CID.
| Assistant Commissioner (Customer Service).
| National Director, Strategic Planning & Client Services.
| Project Director, BSMO.
| Dean School of Taxation.
| Director, Program Analysis Customer Account Services—W & I.
| Director, Field Operations—Heavy Manufacturing, Construction, & Transportation.
| Deputy Associate Commissioner for Program Management.
| Director, Learning and Education.
| Director, Office of Program Eval & Risk Analysis.
| Director, Communications.
| Project Director.
| Director, Business Systems Planning—LMSB.
| Director, Compliance Area, Jacksonville—SBSE.
| Director, Compliance Area, Dallas—SBSE.
| Director, Telecommunications.
| Director, Taxpayer Education Area, Denver—SBSE.
| Dir Office of System Standards & Evaluation.
| District Director, S California.
| Accounts Management Field Director.
| Director of Field Operations, North Atlantic Area—CID.
| Director, Field Operations (Heavy Manufacturing), Laguna Niguel.
| Director, Strategy, Research and Performance Management, SBSE.
| Deputy Chief, Management and Finance.
| Project Director.
| Director, Field Operations, Spec—W&I.
| Director Customer Account Services, SBSE.
| Director, Program Filing and Payment Compliance—SBSE.
| Project Director.
| Project Director, CIO.
| Director, Program and Project Coordination.
| Director, Field Assistance Area, St Louis—W & I.
| Director, Cyber Security Operations.
| Accounts Management Field Director—ANDOVER.
| Project Director.
| Director, Field Assistance Area, New Orleans—W&I.
| Deputy Chief Information Officer (Systems).
| Director, Employee Plans Examination.
| National Dir, Collection Field Operations.
| Compliance Service Field Director—Atlanta.
| Submission Processing Field Director—Philadelphia.
| Director, Compliance—W & I.
| Project Director.
| Director, Field Operations—Heavy Manufacturing.
| Director, Communication, Assistance, Research & Education.
| Director, Compliance Area, Nashville—SBSE.
| Submission Processing Field Director, Austin—W & I.
| Submission Processing Field Director—Brookhaven.
| Accounts Management Field Dir, Kansas City—W&I.
| Regional Commissioner, Western.
| Director, Corporate Processing Division.
| Asst to the Senior Dep Commissioner.
| Director, Strategic Human Resources.
| Director, Tax Exempt Bonds.
| Director, Facilities Operations.
| Director, Submission Processing/ETA Systems Division.
| Director, Human Resources, Wages & Investment.
| Director, Financial Services and Healthcare Industry.
| Director, Strategy & Finance—W & I.
| Director, Appeals—SB/SE & TE/GE.
| Deputy Commissioner, Small Business/Self Employed Division.
| Deputy Director, Taxpayer Education and Communication, SBSE.
| Deputy Program Executive for Organizational Performance Management.
| Deputy Division Commissioner, Tax Exempt and Government Entities.
| Deputy Director, Procurement.
| Deputy CIO (Operations).
| Director, Exempt Organizations.
| Deputy Director, Customer Account Services.
| Deputy Director, Submission Processing.
| District Director, South Texas.
| Director, Compliance Services.
| Director, Office of Security Evaluation and Oversight.
| National Director for Systems & Account Stds.
| Deputy Asst Commissioner (International).
| Director, Business Systems Planning.
| Project Director.
| Director, Pre-Filing and Technical Guidance—LMSB.
| Deputy Director, Compliance, SBSE.
| Director, Business Systems Requirements.
| Director, Compliance, SBSE.
| Deputy Director, Pre-Filing and Technical Guidance.
| Director, Collection Strategy—W&I.
| Director, Electronic Program Operations—W&I.
| Director, Research Analysis & Statistics of Income.
| Executive Director Modernization Design.
| Director, Office of Tax Administration.
| Project Director.
| Director, Martinsburg Computing Center.
| Project Director.
| Transition Executive For Shared Services.
| Director, Finance and Administration System Division—CIO.
| Project Director.
| Project Director.
| Deputy Director, Systems Development.
| Project Director—SBSE.
| Compliance Service Field Director—Philadelphia.
| Director, Compliance Area, Baltimore—SBSE.
| Director, Enterprise Systems and Asset Management.
| Submission Processing Field Director—Atlanta.
| Director, Heavy Manufacturing, Transportation & Construction Industry.
| Director, Multimedia—W&I.
| Director, Accounts Management—W&I.
| Deputy Associate Commissioner, Systems Integration—BSMO.
| Director, Compliance Area.
| Area Director, Spec, Dallas—W&I.
| Chief, Management and Finance, LMSB.
| Accounts Management Field Director—Memphis.
| Modernization Team Executive.
| Chief Financial Officer.
| Director, Customer Service/Taxpayer Advocate Division.
| Chief, Compliance, Western.
| Director, Personnel Policy.
| Director, Field Specialists—LMSB.
| Deputy Chief Operations.
| Director, Real Estate and Facilities Management.
| Director, Field Operations (Financial Services), Laguna Nigules.
| Submission Processing Field Director—Cincinnati.
| Compliance Service Field Director, Ogden—W&I.
| Director, Exempt Organizations, Rulings and Agreements.
| Program Executive for Organization Performance Management.
| Director, Procurement.
| Deputy Director, Business Systems Moderzation.
| Project Director.
| Executive Director Modernization Design.
| Director, Taxpayer Education & Communication Area, St. Louis—SBSE.
| Deputy Director, Strategic Planning and Client Services—IS.
| Director, Compliance Area, Dallas—SBSE.
| Director, Personnel Services.
| Commissioner Wage & Investment Division.
| Deputy CFO, Strategic Planning and Budget.
| Director, Research and Management System Division—CIO.
| Chief, Management and Finance.
| Senior Counselor to the Commissioner (Tax Administration, Practice and Professional Responsibility).
| Electronic Tax Administration Modernization Executive.
| Director, Communications, Technology & Media Industry, LMSB.
| Division Information Officer—LMSB.
| Director, Corporate Systems Division.
| Director, Human Resources Policy & Programs, IS.
| Director, Detroit Computing Center.
| Director, Systems Division.
| Director, Customer Account Services, W&I.
| Compliance Service Field Director—Kansas City.
| Director, Portfolio Management, OITS.
| Deputy Chief, Agencywide Shared Services.
| Deputy Director, Procurement.
| Director, Telecommunications.
| Director, Electronic Program Enhancement—W & I.
| Director, Specialty Tax and Technical Support—SBSE.
| Director, Business Systems Planning—SBSE.
| Director, Taxpayer Education Area, Chicago—SBSE.
| Director, Financial Policy, Planning & Programs—BSMO.
| Director, EEO and Diversity.
| Director, Compliance Systems Division.
| Assistant Deputy Commissioner.
| Director, Taxpayer Education and Community, SBSE.
| Submission Processing Field Director—Andover.
| Accounts Management Field Director, Fresno.
| Project Director.
| Director of Field Operations (Southeast Area) CID.
| Division Information Officer (Wage & Investment).
IRS Chief Counsel | Regional Counsel SE Region.
| District Counsel, New England.
| District Counsel, Ohio.
| District Counsel, New Jersey.
| District Counsel, S. Florida.
| Assistant Chief Counsel (International) (Litigation).
| Dep Asst Chf Coun (Income Tax & Accounting).
| Assistant Chief Counsel (Collection, Bankruptcy & Summonses).
| Regional Counsel, Midstates.
| Division Counsel (Wage and Investment).
| Dep Div Counsel/Dep Asst Chief Counsel (Criminal Tax).
| Deputy Associate Chief Counsel (General Legal Services).
| Assistant Chief Counsel (Disclosure & Privacy Law).
| Dep Asst Chief Coun (Financial Inst & Prod).
| Area Counsel (SBSE) (Area 7).
| Area Counsel (SBSE)—Los Angeles.
| Deputy Associate Chief Counsel (GLS) (Labor & Personnel Law).
| Area Counsel (SBSE)—Philadelphia.
| Deputy Assoc Chief Counsel (International).
| Area Counsel (SBSE)—Chicago.
| Area Counsel (SBSE)—New York.
| Deputy Division Counsel #1 (SBSE).
| Division Counsel (Large and Mid-Size Business).
| Division Counsel (Small Business/Self Employed).
| Deputy Associate Chief Counsel (Corporate).
| Asst Chf Coun (Fin Institutions & Products).
| Area Counsel (Large & Mid-Size Business) (Area 1) (Financial Services & Health Care).
| Deputy Associate Chief Counsel #2 (Passthroughs & Special Industries).
| Associate Chief Counsel (Procedure & Administration).
| Associate Chief Counsel (Passthroughs & Special Industries)
| Associate Chief Counsel (Corporate).
| Deputy Division Counsel #2 (Small Business/Self Employed).
| Deputy Associate Chief Counsel (Finance and Management).
| Deputy Associate Chief Counsel #1 (ITA).
| Area Counsel (LMSB) (Area 2) (Heavy Manufacturing, Construction and Transportation).
| Special Counsel to the National Taxpayer Advocate.
| Assistant Chief Counsel (International) (Technical).
| Associate Chief Counsel (General Legal Services).
| Assoc Chief Counsel (Enforcement Litigation).
| Area Counsel (LMSB) (Area 5)( Communications, Technology, & Media).
| Assistant Chief Counsel (Administrative Provisions & Judicial Practice).
| Special Counsel (Modernization & Strat Plnng).
| Area Counsel (SBSE)—Jacksonville.
| Assistant Chief Counsel (Employee Benefits).
| Deputy Associate Chief Counsel (Procedure and Administration).
| Deputy Associate Chief Counsel (Strategic International Programs).
| Deputy Division Counsel (Large and Mid-Size Business).
| Deputy Chief Counsel (Technical).
| Area Counsel (SBSE)—Dallas.
| Deputy Associate Chief Counsel #2 (Income Tax and Accounting).
| Deputy Division Counsel and Deputy Associate Chief Counsel (Tax Exempt & Government Entities).
| Area Counsel, LMSB (Area 3) (Food, Mass Retailers, & Pharmaceuticals.
| Associate Chief Counsel (International).
| Assoc Chf Counsel (Finance & Management).
| Deputy Associate Chief Counsel (Financial Institutions & Products).
| Associate Chief Counsel/Operating Division Counsel (TEGE).
| Dep Assoc Chief Coun (Domestic) (Field Serv).
| Deputy Chief Counsel (Operations).
| Assistant Chief Counsel (EO/ET/GE).
| Associate Chief Counsel (Income Tax and Accounting).
| Area Counsel (LMSB) (Area 4) (Natural Resources).
| Area Counsel (SBSE)—Denver.
| Deputy Associate Chief Counsel #1 (Passthroughs & Special Industries).
| Division Counsel/Associate Chief Counsel (Criminal Tax).
U.S. Agency for International Development:
Office of the Administrator | Counselor to the Agency.
Office of the General Counsel | Deputy General Counsel.
| Asst General Counsel for Ethics & Adm.
Office of the Inspector General | Assistant Inspector General for Management.
| Deputy Assistant Inspector General for Audit.
| Counsel to the Inspector General.
| Deputy Inspector General.
Office of Security | Director, Office of Security.
Office of Equal Opportunity Programs | Dir Ofc of Equal Opportunity Programs.
Bureau for Global Programs, Field Support and Research | Assoc Asst Admr Center for Economic Growth.
| Senior Deputy Assistant Administrator.
| Dep Asst Admr, Ctr for Pop, Health, Nutr.
| Associate Assistant Administrator.
Bureau for Europe and Eurasia | Deputy Asst Administrator.
Bureau for Management | Chf Fin Ofcr, Office of Financial Management.
| Dir Office of Information Resource Management.
| Deputy Director Ofc of Procurement.
| Deputy Director, Office of Human Resources.
| Dir. Ofc of Admin Services.
| Deputy Director, Ofc of Procurement.
| Deputy Asst Admr Bureau for Management.
| Dep Director, Office of Financial Management.
U.S. International Trade Commission:
Office of Industries | Dir Ofc of Industries.
Office of Investigations | Dir. Ofc of Investigations.
Department of Veterans Affairs:
Office of the Secretary and Deputy | Director, Office of EDCA.
Office of the Inspector General | Assistant Inspector General for Auditing.
| Asst Inspector General for Investigations.
| Dep Inspector General.
| Asst Inspector Gen for Dept Rev & Magnt Sup.
| Dep Asst Inspector General for Investigations.
| Counselor to the Inspector General.
| Asst Inspector General for Healthcare Inspect.
| Dep Asst Inspector General for Auditing.
| Deputy Assistant Inspector General for Healthcare Inspections.
| Deputy Assistant Inspector General for Management and Administration.
| Director of Medical Consulation and Review.
| Associate Director of Medical Consulation and Review.
Board of Veterans Appeals | Vice Chairman.
Office of the General Counsel | Regional Counsel.
| Regional Counsel.
| Regional Counsel.
| Regional Counsel.
| Regional Counsel.
| Regional Counsel.
Office Assistant Secretary for Management | Principal Deputy Assistant Secretary for Management.
| Corefls Project Director.
Office of Finance | Deputy Assistant Secretary for Finance.
| Assoc Dep Asst Secy for Financial Operations.
| Director, Financial Services Center.
Office of Acquisition and Materiel Management | Dep Asst Sec for Acquisition & Materiel Mgmt.
| Assoc Dep Assistant Secy for Acquisitions.
| Assoc Dep Asst Secy for Prog Mgmt & Oper.
| Executive Director/Chief Operating Officer.
Office of Asset Enterprise Management | Deputy Director, Asset Enterprise Management.
Ofc Asst Secy for Policy and Planning | Chief Actuary.
Office of Human Resources Management | Assoc Dep Asst Secy for Human Res Management.
| Assoc Dep Asst Secy for Human Res Management.
Office of Security and Law Enforcement | Dep Asst Secy for Security & Law Enforcement.
Office Asst Secretary for Information and Technology | Dir, VA Automation Ctr, Austin, TX.
| Assoc Dep Asst Secy for Telecommunications.
| Assoc Dep Asst Secy for Pol & Prog Assistance.
| Associate Deputy Assistant Secretary for Cyber Security.
National Cemetery Administration | Director, Office of Finance and Planning.
| Director, Office of Construction Management.
Veterans Benefits Administration | Deputy Chief Financial Officer.
| Dep Dir Compensation & Pension Service.
| Chief Financial Officer.
Veterans Health Administration | Dir VA/DOD Medical Sharing Office.
| ACFO for Revenue.
| Deputy Director Emergency Medical Prep Ofc.
| Chief Financial Officer.
| Director, Financial Management Office.
| Associate Chief Financial Officer for Compliance.
| Deputy Chief Financial Officer.
| Associate Chief Facilities Management Officer for Strategic Management.
| Associate Chief Facilities Management Officer for Service Delivery.
| Deputy Associate Chief Facilities Management Officer for Service Delivery.
| Associate Chief Facilities Management Officer for Resource Management.
| Deputy Chief Information Officer.
| Chief Operating Officer.
| Financial Manager.
| Logistics Management Officer.
| ACIO Implementation and Training Services.
Veterans Integrated Service Network Directors | Dir Canteen Service.

[FR Doc. 02-3873 Filed 2-20-02; 8:45 am]

BILLING CODE 6325-42-M